DEPARTMENT OF COMMERCE

International Trade Administration

OFFICE OF THE UNITED STATES TRADE REPRESENTATIVE

[Docket No. 250923-0156]

RIN 0625-XC058

Implementing Certain Tariff-Related Elements of the U.S.-EU Framework on an Agreement on Reciprocal, Fair, and Balanced Trade

AGENCY: International Trade Administration, U.S. Department of Commerce, and the Office of the United States Trade Representative.

ACTION: Notice.

SUMMARY: On August 21, 2025, the United States and the European Union announced agreement on a Framework on an Agreement on Reciprocal, Fair, and Balanced Trade (Framework Agreement). On September 5, 2025, President Trump issued Executive Order 14346, Modifying the Scope of Reciprocal Tariffs and Establishing Procedures for Implementing Trade and Security Agreements, finding that it is necessary and appropriate to implement the tariff modifications described in that Framework Agreement. Executive Order 14346 also directed and authorized the Secretary of Commerce and the United States Trade Representative to take the necessary and appropriate steps to implement any current or forthcoming trade and security framework agreements between a foreign trading partner and the United States. This notice amends the Harmonized Tariff Schedule of the United States to implement the elements of the Framework Agreement that adjust tariffs on certain articles that are products of the European Union, including automobiles and automobile parts subject to tariffs under Proclamation 10908, Adjusting Imports of Automobiles and Automobile Parts Into the United States, as amended, and unavailable natural resources (including cork), all aircraft and aircraft parts, and generic pharmaceuticals and their ingredients and chemical precursors.

DATES: This notice is effective September 25, 2025. The Harmonized Tariff Schedule of the United States modifications set out in the Annex II to this notice are effective with respect to goods entered for consumption, or withdrawn from warehouse for consumption, on or after 12:01 a.m. eastern daylight time (i) on September 1, 2025, as to the modifications to the reciprocal tariffs and to other tariffs imposed on aircraft and aircraft parts set forth in Annex II (Part B), and (ii) on August 1, 2025, as to the modifications to tariffs imposed under Proclamation 10908, as amended, for automobiles and automobile parts as set forth in Annex II (Part A).

FOR FURTHER INFORMATION CONTACT: Emily Davis, Director for Public Affairs, International Trade Administration, U.S. Department of Commerce, 202-482-3809, Emily.Davis@trade.gov; Michael Rogers, Deputy Assistant U.S. Trade Representative for the EU, Office of the U.S. Trade Representative, 202-395-3320, Michael.A.Rogers@ustr.eop.gov.

SUPPLEMENTARY INFORMATION:

I. Background

On August 21, 2025, the United States and the European Union (EU) announced that they had agreed on a Framework on an Agreement on Reciprocal, Fair, and Balanced Trade (Framework Agreement) (https://www.whitehouse.gov/briefings-statements/2025/08/joint-statement-on-a-united-states-european-union-framework-on-an-agreement-on-reciprocal-fair-and-balanced-trade/). The Framework Agreement represents a concrete demonstration of the United States and EU's commitment to fair, balanced, and mutually beneficial trade and investment. The Framework Agreement reflects acknowledgement by the EU of the concerns of the United States and our joint determination to resolve trade imbalances and unleash the full potential of our combined economic power.

The Framework Agreement provides that the United States will apply only the most-favored nation (MFN) tariff to certain goods of the EU including unavailable natural resources (including cork), all aircraft and aircraft parts, and generic pharmaceuticals and their ingredients and chemical precursors. The Framework Agreement also provides that the United States will take certain steps to reduce the tariffs on automobiles and automobile parts that are products of the EU when the EU formally introduces the necessary legislative proposal to enact the EU tariff reductions called for by the Framework Agreement.

In Executive Order 14346, President Trump determined that it is necessary and appropriate to take steps contemplated in certain current and forthcoming trade and security framework agreements between a foreign trading partner and the United States and that any modification of tariffs required to implement such framework agreements is necessary and appropriate to deal with the national emergency declared in Executive Order 14257 of April 2, 2025, Regulating Imports with a Reciprocal Tariff to Rectify Trade Practices That Contribute to Large and Persistent Trade Deficits and to reduce or eliminate the threats to national security found in Proclamation 9704 of March 8, 2018, Adjusting Imports of Aluminum Into the United States, as amended; Proclamation 9705 of March 8, 2018, Adjusting Imports of Steel Into the United States, as amended; Proclamation 9888 of May 17, 2019, Adjusting Imports of Automobiles and Automobile Parts Into the United States, as amended; and Proclamation 10962 of July 30, 2025, Adjusting Imports of Copper Into the United States. In Executive Order 14346, President Trump also determined that it is necessary and appropriate to implement the tariff modifications described in the Framework Agreement and that such modifications are necessary and appropriate to deal with the national emergency declared in Executive Order 14257 and to reduce or eliminate the threat to national security found in Proclamation 9888.

Executive Order 14346 also directed and authorized the Secretary of Commerce (Secretary) and the United States Trade Representative (Trade Representative) to determine whether the United States must take any action to implement a framework agreement and whether any condition or conditions to such action have occurred or will occur, and to take the necessary and appropriate actions to implement a framework agreement. It also directed and authorized the Secretary, the Secretary of Homeland Security, and the Trade Representative to take all necessary action to implement and effectuate that order and any actions taken under section 3 or section 4 of that order to employ all powers granted to the President as may be necessary to do so. That Executive Order also authorized the Secretary and the Trade Representative, in consultation with the Commissioner of U.S. Customs and Border Protection (CBP) and the Chair of the United States International Trade Commission (USITC), to determine whether modifications to the Harmonized Tariff Schedule of the United States (HTSUS) are necessary to effectuate that order and to make such modifications through notice in the Federal Register.

Consistent with Executive Order 14346, including the Potential Tariff Adjustments for Aligned Partners (PTAAP) Annex appended thereto, in order to implement certain tariff-related elements of the Framework Agreement, the Secretary and the Trade Representative have determined that products of the European Union contained in the PTAAP Annex and provided in Annex I to this notice shall be exempted from the reciprocal tariff imposed by Executive Order 14257, as amended. Aircraft and aircraft parts shall also be exempted from the tariffs imposed by Proclamation 9704, as amended; Proclamation 9705, as amended; and Proclamation 10962. Accordingly, the HTSUS is modified as provided for in Annex II (Part B) to this notice with respect to goods entered for consumption, or withdrawn from warehouse for consumption, on or after September 1, 2025.

The Secretary and the Trade Representative have also determined that the EU has formally introduced the necessary legislative proposal to enact the tariff reductions called for by the Framework Agreement. Accordingly, the Secretary and the Trade Representative, in consultation with USITC and CBP, are amending the HTSUS to remove tariffs imposed on automobiles and automobile parts under Proclamation 10908 (Adjusting Imports of Automobiles and Automobile Parts Into the United States), as amended (Proclamation 10908), with respect to products of the EU if the MFN tariff on such articles is 15 percent ad valorem or higher; if the MFN tariff on an article subject to Proclamation 10908 is lower than 15 percent ad valorem, the tariff imposed under Proclamation 10908 is reduced to result in a combined tariff rate of fifteen percent ad valorem (comprised of the MFN tariff and the reduced tariff imposed under Proclamation 10908). In accordance with the Framework Agreement, the HTSUS is modified as set forth in Annex II (Part A); these tariff reductions are effective for goods entered for consumption, or withdrawn from warehouse for consumption, on or after August 1, 2025.

Executive Order 14346 provides that the Secretary and Trade Representative, in consultation with other officials, are to continue to monitor the conditions underlying the national emergency declared in Executive Order 14257, update the President on the status of these conditions, inform the President of any circumstance that, in their opinion, might indicate the need for further action, and recommend additional action that, in their opinion, will more effectively deal with that emergency. Accordingly, the list of products contained in the Annexes to this notice may be amended.

William Kimmitt,
Under Secretary for International Trade, United States Department of Commerce.
Jennifer Thornton,
General Counsel, Office of the United States Trade Representative.

Annex I

Note: All products of the European Union that are properly classified in the provisions of the Harmonized Tariff Schedule of the United States (HTSUS) and adhere to the identified scope limitations that are listed in this Annex are exempted from duties imposed by Executive Order 14257, as amended. The product descriptions that are contained in this Annex are provided for informational purposes only, do not supersede the text of the HTSUS, and are not intended to delimit in any way the scope of the action, except as specified below. Only items that are properly classified in the listed provisions of the HTSUS and adhere to the identified scope limitations are eligible to be exempted from the tariff action imposed by Executive Order 14257, as amended. Any questions regarding the scope of particular HTSUS provisions should be referred to U.S. Customs and Border Protection. In the product descriptions, the abbreviation “nesoi” means “not elsewhere specified or included”.

Notes on certain HTSUS provisions for which only a portion of the provision is covered in this Annex, as provided in the “Scope Limitations” column:

• A subheading marked with “Ex” is defined and limited by the product description.

• A subheading marked with “Aircraft” includes only articles of civil aircraft (all aircraft other than military aircraft); their engines, parts, and components; their other parts, components, and subassemblies; and ground flight simulators and their parts and components, that otherwise meet the criteria of General Note 6 of HTSUS, regardless of whether a product is entered under a provision for which the rate of duty “Free (C)” appears in the “Special” sub-column.

• A subheading marked with “Pharma” includes only non-patented articles for use in pharmaceutical applications.

HTSUS | Description | Scope limitations
0711.90.30 | Capers, provisionally preserved but unsuitable in that state for immediate consumption
0810.50.00 | Kiwi fruit, fresh
0904.22.20 | Paprika, crushed or ground
0910.20.00 | Saffron
2504.10.10 | Natural graphite, crystalline flake (not including flake dust)
2504.10.50 | Natural graphite in powder or flakes (other than crystalline flake)
2504.90.00 | Natural graphite, other than in powder or in flakes
2511.10.10 | Natural barium sulfate (barytes), ground
2511.10.50 | Natural barium sulfate (barytes), not ground
2519.10.00 | Natural magnesium carbonate (magnesite)
2519.90.10 | Fused magnesia; dead-burned (sintered) magnesia, whether or not containing small quantities of other oxides added before sintering
2519.90.20 | Caustic calcined magnesite
2524.90.00 | Asbestos other than crocidolite
2529.21.00 | Fluorspar, containing by weight 97% or less of calcium fluoride
2529.22.00 | Fluorspar, containing by weight more than 97% of calcium fluoride
2530.20.10 | Kieserite
2530.20.20 | Epsom salts (natural magnesium sulfates)
2530.90.10 | Natural cryolite; natural chiolite
2530.90.20 | Natural micaceous iron oxides
2530.90.80 | Other mineral substances, nesoi
2602.00.00 | Manganese ores and concentrates including ferruginous manganese ores and concentrates with manganese content over 20% calculated on dry weight
2604.00.00 | Nickel ores and concentrates
2605.00.00 | Cobalt ores and concentrates
2606.00.00 | Aluminum ores and concentrates
2608.00.00 | Zinc ores and concentrates
2609.00.00 | Tin ores and concentrates
2610.00.00 | Chromium ores and concentrates
2611.00.30 | Tungsten ores
2611.00.60 | Tungsten concentrates
2612.20.00 | Thorium ores and concentrates
2613.90.00 | Molybdenum ores and concentrates, not roasted
2614.00.30 | Synthetic rutile
2614.00.60 | Titanium ores and concentrates, other than synthetic rutile
2615.90.30 | Synthetic tantalum-niobium concentrates
2615.90.60 | Niobium, tantalum or vanadium ores and concentrates, nesoi
2616.10.00 | Silver ores and concentrates
2617.10.00 | Antimony ores and concentrates
2620.99.50 | Slag (other than from the manufacture of iron or steel) containing over 40% titanium, and which if containing over 2% by weight of copper, lead, or zinc is not to be treated for the recovery thereof
2801.20.00 | Iodine
2804.10.00 | Hydrogen | Pharma.
2804.29.00 | Rare gases, other than argon | Pharma.
2804.30.00 | Nitrogen | Pharma.
2804.50.00 | Boron; tellurium | Pharma.
2804.80.00 | Arsenic
2804.90.00 | Selenium
2805.19.10 | Strontium
2805.19.20 | Barium | Pharma.
2805.19.90 | Alkali metals, other than sodium
2805.30.00 | Rare-earth metals, scandium and yttrium, whether or not intermixed or interalloyed
2806.10.00 | Hydrogen chloride (Hydrochloric acid) | Pharma.
2807.00.00 | Sulfuric acid; oleum | Pharma.
2809.20.00 | Phosphoric acid and polyphosphoric acids | Pharma.
2811.11.00 | Hydrogen fluoride (Hydrofluoric acid)
2811.12.00 | Hydrogen cyanide | Pharma.
2811.19.10 | Arsenic acid
2811.22.50 | Silicon dioxide, other than synthetic silica gel | Pharma.
2811.29.10 | Arsenic trioxide
2811.29.20 | Selenium dioxide
2812.12.00 | Phosphorus oxychloride | Pharma.
2812.19.00 | Other chlorides and chloride oxides | Pharma.
2813.90.10 | Arsenic sulfides
2814.10.00 | Anhydrous ammonia | Pharma.
2814.20.00 | Ammonia in aqueous solution | Pharma.
2815.11.00 | Sodium hydroxide (Caustic soda), solid | Pharma.
2815.12.00 | Sodium hydroxide (Caustic soda), in aqueous solution (Soda lye or liquid soda) | Pharma.
2815.20.00 | Potassium hydroxide (Caustic potash) | Pharma.
2815.30.00 | Peroxides of sodium or potassium | Pharma.
2816.10.00 | Hydroxide and peroxide of magnesium
2816.40.10 | Oxides, hydroxides and peroxides of strontium
2816.40.20 | Oxides, hydroxides and peroxides of barium
2817.00.00 | Zinc oxide; zinc peroxide
2818.10.10 | Artificial corundum, crude
2818.10.20 | Artificial corundum, in grains, or ground, pulverized or refined
2818.20.00 | Aluminum oxide, other than artificial corundum
2820.10.00 | Manganese dioxide
2821.10.00 | Iron oxides and hydroxides
2821.20.00 | Earth colors containing 70% or more by weight of combined iron evaluated as Fe2O3
2822.00.00 | Cobalt oxides and hydroxides; commercial cobalt oxides
2823.00.00 | Titanium oxides
2825.10.00 | Hydrazine and hydroxylamine and their inorganic salts | Pharma.
2825.20.00 | Lithium oxide and hydroxide | Pharma.
2825.40.00 | Nickel oxides and hydroxides
2825.60.00 | Germanium oxides and zirconium dioxide
2825.80.00 | Antimony oxides
2825.90.15 | Niobium oxide
2825.90.30 | Tungsten oxides
2825.90.90 | Other inorganic bases; other metal oxides, hydroxides and peroxides, nesoi
2826.12.00 | Fluorides of aluminum
2826.30.00 | Sodium hexafluoroaluminate (Synthetic cryolite)
2826.90.90 | Other complex fluorine salts, nesoi
2827.31.00 | Magnesium chloride
2827.39.45 | Barium chloride
2827.39.60 | Cobalt chlorides
2827.39.65 | Zinc chloride | Pharma.
2827.39.90 | Chlorides, nesoi | Pharma.
2827.59.51 | Other bromides and bromide oxides, other than ammonium, calcium or zinc
2827.60.20 | Iodide and iodide oxide of potassium | Pharma.
2827.60.51 | Iodides and iodide oxides, other than of calcium, copper or potassium | Pharma.
2832.10.00 | Sodium sulfites | Pharma.
2832.30.10 | Sodium thiosulfate | Pharma.
2833.11.50 | Disodium sulfate, other than crude | Pharma.
2833.19.00 | Sodium sulfates, other than disodium sulfate | Pharma.
2833.21.00 | Magnesium sulfate | Pharma.
2833.22.00 | Aluminum sulfate | Pharma.
2833.24.00 | Nickel sulfate
2833.27.00 | Barium sulfate
2833.29.10 | Cobalt sulfate
2833.29.45 | Zinc sulfate
2833.29.51 | Other sulfates nesoi
2834.10.10 | Sodium nitrite | Pharma.
2834.21.00 | Potassium nitrate
2834.29.20 | Strontium nitrate
2834.29.51 | Nitrates, nesoi
2835.22.00 | Mono- or disodium phosphates | Pharma.
2835.24.00 | Potassium phosphate | Pharma.
2836.20.00 | Disodium carbonate | Pharma.
2836.30.00 | Sodium hydrogencarbonate (Sodium bicarbonate) | Pharma.
2836.40.20 | Potassium hydrogencarbonate (Potassium bicarbonate) | Pharma.
2836.60.00 | Barium carbonate
2836.91.00 | Lithium carbonates
2836.92.00 | Strontium carbonate
2836.99.10 | Cobalt carbonates
2836.99.50 | Carbonates nesoi, and peroxocarbonates (percarbonates)
2837.20.51 | Complex cyanides, excluding potassium ferricyanide | Pharma.
2841.80.00 | Tungstates (wolframates)
2841.90.20 | Ammonium perrhenate
2841.90.40 | Aluminates | Pharma.
2842.10.00 | Double or complex silicates | Pharma.
2842.90.90 | Salts of inorganic acids or peroxoacids nesoi, excluding azides | Pharma.
2843.29.01 | Silver compounds, other than silver nitrate | Pharma.
2843.30.00 | Gold compounds | Pharma.
2843.90.00 | Inorganic or organic compounds of precious metals, excluding those of silver and gold; amalgams of precious metals | Pharma.
2844.41.00 | Tritium and its compounds, alloys, dispersions, ceramic products and mixtures thereof | Pharma.
2844.42.00 | Actinium, californium, curium, einsteinium, gadolinium, polonium, radium, uranium and their compounds, alloys, dispersions, ceramic products and mixtures | Pharma.
2844.43.00 | Other radioactive elements, isotopes, compounds, nesoi; alloys, dispersions, ceramic products and mixtures thereof | Pharma.
2844.44.00 | Radioactive residues | Pharma.
2845.20.00 | Boron enriched in boron-10 and its compounds | Pharma.
2845.30.00 | Lithium enriched in lithium-6 and its compounds | Pharma.
2845.90.01 | Isotopes not in heading 2844 and their compounds other than boron, lithium and helium | Pharma.
2846.10.00 | Cerium compounds
2846.90.20 | Mixtures of rare-earth oxides or of rare-earth chlorides | Pharma.
2846.90.40 | Yttrium-bearing materials and compounds containing by weight more than 19% but less than 85% yttrium oxide equivalent | Pharma.
2846.90.80 | Compounds, inorganic or organic, of rare-earth metals, of yttrium or of scandium, or of mixtures of these metals, nesoi
2847.00.00 | Hydrogen peroxide, whether or not solidified with urea | Pharma.
2849.20.10 | Silicon carbide, crude
2849.20.20 | Silicon carbide, in grains, or ground, pulverized or refined
2849.90.30 | Tungsten carbide
2850.00.50 | Hydrides, nitrides, azides, silicides and borides other than of calcium, titanium, tungsten or vanadium | Pharma.
2853.10.00 | Cyanogen chloride (Chlorocyan) | Pharma.
2853.90.10 | Phosphor copper containing more than 15% by weight of phosphorus, excluding ferrosphosphorus | Pharma.
2853.90.50 | Phosphides, whether or not chemically defined, excluding ferrophosphorus, of other metals or of nonmetals | Pharma.
2853.90.90 | Other phosphides, excluding ferrophosphorous, nesoi | Pharma.
2901.10.40 | Saturated acyclic hydrocarbon (not ethane, butane, n-pentane or isopentane), derived in whole or in part from petroleum, shale oil or natural gas | Pharma.
2902.19.00 | Cyclanic hydrocarbons (except cyclohexane), cyclenic hydrocarbons and cycloterpenes | Pharma.
2902.90.30 | Alkylbenzenes and polyalkylbenzenes | Pharma.
2903.12.00 | Dichloromethane (Methylene chloride) | Pharma.
2903.13.00 | Chloroform (Trichloromethane) | Pharma.
2903.22.00 | Trichloroethylene | Pharma.
2903.41.10 | Trifluoromethane (HFC-23) | Pharma.
2903.42.10 | Difluoromethane (HFC-32) | Pharma.
2903.43.10 | Fluoromethane (HFC-41), 1,2-difluoroethane (HFC-152) and 1,1-difluoroethane (HFC-152-a) | Pharma.
2903.44.10 | Pentafluoroethane (HFC-125), 1,1,1-trifluoroethane (HFC-142a) and 1,1,2-trifluoroethane (HFC-143) | Pharma.
2903.45.10 | 1,2,1,2-Tetrafluoroethane (HFC-134a) and 1,1,2,2-tetrafluoroethane (HFC-134) | Pharma.
2903.46.10 | HFC-227ea, HFC-236cb, HFC-236ea or HFC-236fa | Pharma.
2903.47.10 | 1,1,1,3,3-Pentafluoropropane (HFC-245fa) and 1,1,2,2,3-pentafluoropropane (HFC-245ca) | Pharma.
2903.48.00 | 1,1,1,3,3-Pentafluorobutane (HFC-365mfc) and 1,1,1,2,2,3,4,5,5,5-decafluoropentane (HFC-4310mee) | Pharma.
2903.49.00 | Other saturated fluorinated derivatives of acyclic hydrocarbons, nesoi | Pharma.
2903.51.10 | 2,3,3,3-Tetrafluoropropene (HFO-1234yf), 1,3,3,3-tetrafluoropropene (HFO-1234ze) and (Z)-1,1,1,4,4,4-hexafluoro-2-butene (HFO-1336mzz) | Pharma.
2903.59.10 | 1,1,3,3,3-Pentafluoro-2-(trifluoromethyl)-prop-1-ene | Pharma.
2903.59.90 | Other unsaturated fluorinated derivatives of acyclic hydrocarbons | Pharma.
2903.69.10 | Acetylene tetrabromide; alkyl bromides, other than methyl bromide (bromomethane); methylene dibromide; and vinyl bromide | Pharma.
2903.69.90 | Other brominated or iodinated derivatives of acyclic hydrocarbons | Pharma.
2903.71.01 | Chlorodifluoromethane (HCFC-22) | Pharma.
2903.77.00 | Other acyclic hydrocarbon derivatives, perhalogenated only with fluorine and chlorine | Pharma.
2903.78.00 | Other perhalogenated acyclic hydrocarbon derivatives, nesoi | Pharma.
2903.79.90 | Other halogenated derivatives of acyclic hydrocarbons containing two or more different halogens, nesoi | Pharma.
2903.81.00 | 1,2,3,4,5,6-Hexachlorocyclohexane (HCH (ISO)), including lindane (ISO, INN) | Pharma.
2903.89.15 | Halogenated products derived in whole or in part from benzene or other aromatic hydrocarbons, described in additional U.S. note 3 to section VI | Pharma.
2903.89.20 | Halogenated derivatives derived in whole or in part from benzene or other aromatic hydrocarbons, nesoi | Pharma.
2903.89.70 | Other halogenated derivatives of cyclanic, cyclenic or cycloterpenic hydrocarbons not derived from benzene or other aromatic hydrocarbons | Pharma.
2903.92.00 | Hexachlorobenzene (ISO) and DDT (clofenotane (INN), (1,1,1-trichloro-2,2-bis(p-chlorophenyl)ethane) | Pharma.
2903.93.00 | Halogenated derivatives of aromatic hydrocarbons, pentachlorobenzene | Pharma.
2903.94.00 | Halogenated derivatives of aromatic hydrocarbons, hexabromobiphenyls | Pharma.
2903.99.20 | Benzyl chloride (a-Chlorotoluene); Benzotrichloride (a, a, a-Trichlorotoluene) | Pharma.
2903.99.80 | Other halogenated derivatives of aromatic hydrocarbons, nesoi | Pharma.
2904.10.32 | Aromatic derivatives of hydrocarbons containing only sulfo groups, their salts and ethyl esters, described in additional U.S. note 3 to section VI | Pharma.
2904.10.50 | Nonaromatic derivatives of hydrocarbons containing only sulfo groups, their salts and ethyl esters, nesoi | Pharma.
2904.20.10 | p-Nitrotoluene | Pharma.
2904.20.15 | p-Nitro-o-xylene | Pharma.
2904.20.20 | Trinitrotoluene | Pharma.
2904.20.30 | 5-tert-Butyl-2,4,6-trinitro-m-xylene (Musk xylol) and other artificial musks | Pharma.
2904.20.35 | Nitrated benzene, nitrated toluene (except p-nitrotoluene) or nitrated naphthalene | Pharma.
2904.20.40 | Aromatic derivatives of hydrocarbons containing only nitro or only nitroso groups, described in additional U.S. note 3 to section VI | Pharma.
2904.20.45 | Aromatic derivatives of hydrocarbons containing only nitro or only nitroso groups, nesoi | Pharma.
2904.20.50 | Nonaromatic derivatives of hydrocarbons containing only nitro or only nitroso groups, nesoi | Pharma.
2904.99.04 | Monochloromononitrobenzenes; o-nitrochlorobenzene; p-nitrochlorobenzene | Pharma.
2904.99.08 | Monochloromononitrobenzenes nesoi | Pharma.
2904.99.15 | 4-Chloro-3-nitro-a,a,a-trifluorotoluene; 2-Chloro-5-nitro-a,a,a-trifluorotoluene; and 4-Chloro-3,5-dinitro-a,a,a-trifluorotoluene | Pharma.
2904.99.20 | Nitrotoluenesulfonic acids | Pharma.
2904.99.30 | 1-Bromo-2-nitrobenzene; 1,2-Dichloro-4-nitrobenzene and o-Fluoronitrobenzene | Pharma.
2904.99.35 | 4,4′-Dinitrostilbene-2,2′-disulfonic acid | Pharma.
2904.99.40 | Sulfonated, nitrated or nitrosated derivatives of aromatic products described in additional U.S. note 3 to section VI | Pharma.
2904.99.47 | Other sulfonated, nitrated or nitrosated derivatives of aromatic hydrocarbons excluding aromatic products described in additional U.S. note 3 to section VI | Pharma.
2904.99.50 | Nonaromatic sulfonated, nitrated or nitrosated derivatives of hydrocarbons, nesoi | Pharma.
2905.11.20 | Methanol (Methyl alcohol), other than imported only for use in producing synthetic natural gas (SNG) or for direct use as fuel | Pharma.
2905.12.00 | Propan-1-ol (Propyl alcohol) and Propan-2-ol (isopropyl alcohol) | Pharma.
2905.13.00 | Butan-1-ol (n-Butyl alcohol) | Pharma.
2905.19.10 | Pentanol (Amyl alcohol) and isomers thereof | Pharma.
2905.19.90 | Saturated monohydric alcohols, nesoi | Pharma.
2905.22.10 | Geraniol | Pharma.
2905.22.20 | Isophytol | Pharma.
2905.22.50 | Acyclic terpene alcohols, other than geraniol and isophytol | Pharma.
2905.29.90 | Unsaturated monohydric alcohols, other than allyl alcohol or acyclic terpene alcohols | Pharma.
2905.31.00 | Ethylene glycol (Ethanediol) | Pharma.
2905.32.00 | Propylene glycol (Propane-1,2-diol) | Pharma.
2905.39.90 | Dihydric alcohols (diols), nesoi | Pharma.
2905.49.20 | Esters of glycerol formed with the acids of heading 2904 | Pharma.
2905.49.50 | Polyhydric alcohols, nesoi | Pharma.
2905.51.00 | Ethchlorvynol (INN) | Pharma.
2905.59.10 | Halogenated, sulfonated, nitrated or nitrosated derivatives of monohydric alcohols | Pharma.
2905.59.90 | Halogenated, sulfonated, nitrated or nitrosated derivatives of acyclic alcohols, nesoi | Pharma.
2906.11.00 | Menthol | Pharma.
2906.19.50 | Other cyclanic, cyclenic or cycloterpenic alcohols and their halogenated, sulfonated, nitrated or nitrosated derivatives | Pharma.
2906.29.60 | Other aromatic alcohols and their halogenated, sulfonated, nitrated or nitrosated derivatives | Pharma.
2907.11.00 | Phenol (Hydroxybenzene) and its salts | Pharma.
2907.19.10 | Alkylcresols | Pharma.
2907.19.20 | Alkylphenols | Pharma.
2907.19.40 | Thymol | Pharma.
2907.19.80 | Other monophenols | Pharma.
2907.29.90 | Other polyphenols, nesoi | Pharma.
2908.19.10 | 6-Chloro-m-cresol [OH=1]; m-chlorophenol; and chlorothymol | Pharma.
2908.19.35 | Derivatives of phenols or phenol-alcohols containing only halogen substituents and their salts described in additional U.S. note 3 to section VI | Pharma.
2908.19.60 | Other halogenated, sulfonated, nitrated or nitrosated derivatives of phenol or phenol-alcohols | Pharma.
2908.99.12 | Derivatives nesoi, of phenols or phenol-alcohols containing only sulfo groups, their salts and esters, described in additional U.S. note 3 to section VI | Pharma.
2908.99.15 | Derivatives of phenol or phenol-alcohols containing only sulfo groups, their salts and esters, nesoi | Pharma.
2908.99.25 | Nitrophenols, except p-nitrophenol | Pharma.
2909.11.00 | Diethyl ether | Pharma.
2909.19.18 | Ethers of acyclic monohydric alcohols and their derivatives, nesoi | Pharma.
2909.19.60 | Ethers of polyhydric alcohols and their halogenated, sulfonated, nitrated or nitrosated derivatives, nesoi | Pharma.
2909.20.00 | Cyclanic, cyclenic or cycloterpenic ethers and their halogenated, sulfonated, nitrated or nitrosated derivatives | Pharma.
2909.30.40 | Aromatic ethers and their halogenated, sulfonated, nitrated or nitrosated derivatives, nesoi, described in additional U.S. note 3 to section VI | Pharma.
2909.30.60 | Other aromatic ethers and their halogenated, sulfonated, nitrated, or nitrosated derivatives, nesoi | Pharma.
2909.49.05 | Guaifenesin | Pharma.
2909.49.10 | Other aromatic ether-alcohols, their halogenated, sulfonated, nitrated or nitrosated derivatives described in additional U.S. note 3 to section VI | Pharma.
2909.49.15 | Aromatic ether-alcohols and their halogenated, sulfonated, nitrated or nitrosated derivatives, nesoi | Pharma.
2909.49.20 | Nonaromatic glycerol ethers | Pharma.
2909.49.60 | Other non-aromatic ether-alcohols and their halogenated, sulfonated, nitrated or nitrosated derivatives | Pharma.
2909.50.20 | Guaiacol and its derivatives | Pharma.
2909.50.40 | Odoriferous or flavoring compounds of ether-phenols, ether-alcohol-phenols and their halogenated, sulfonated, nitrated or nitrosated derivatives | Pharma.
2909.50.45 | Ether-phenols, ether-alcohol-phenols and their halogenated, sulfonated, nitrated or nitrosated derivatives nesoi, described in additional U.S. note 3 to section VI | Pharma.
2909.50.50 | Ether-phenols, ether-alcohol-phenols and their halogenated, sulfonated, nitrated or nitrosated derivatives, nesoi | Pharma.
2910.10.00 | Oxirane (Ethylene oxide) | Pharma.
2910.30.00 | 1-Chloro-2,3-epoxypropane (Epichlorohydrin) | Pharma.
2910.40.00 | Dieldrin | Pharma.
2910.50.00 | Endrin | Pharma.
2910.90.10 | Butylene oxide | Pharma.
2910.90.20 | Aromatic epoxides, epoxyalcohols, epoxyphenols and epoxyethers, with a three-membered ring, and their derivatives, nesoi | Pharma.
2910.90.91 | Other nonaromatic epoxides, epoxyalcohols and epoxyethers, with a three-membered ring, and their halogenated, sulfonated, nitrated or nitrosated derivatives | Pharma.
2911.00.10 | 1,1-Bis(1-methylethoxy)cyclohexane | Pharma.
2911.00.50 | Acetals and hemiacetals, whether or not with other oxygen function, and their halogenated, sulfonated, nitrated or nitrosated derivatives | Pharma.
2912.19.50 | Acyclic aldehydes without other oxygen function, nesoi | Pharma.
2912.29.60 | Other cyclic aldehydes without other oxygen function | Pharma.
2912.49.26 | Other aromatic aldehyde-alcohols, aldehyde-ethers, aldehyde-phenols and aldehydes with other oxygen function | Pharma.
2912.60.00 | Paraformaldehyde | Pharma.
2914.11.10 | Acetone, derived in whole or in part from cumene | Pharma.
2914.19.00 | Acyclic ketones without other oxygen function, nesoi | Pharma.
2914.29.30 | Natural camphor | Pharma.
2914.29.50 | Cyclanic, cyclenic or cycloterpenic ketones without other oxygen function, nesoi | Pharma.
2914.39.90 | Aromatic ketones without other oxygen function, nesoi | Pharma.
2914.40.40 | Aromatic ketone-alcohols and ketone-aldehydes, nesoi | Pharma.
2914.40.90 | Nonaromatic ketone-alcohols and ketone-aldehydes, nesoi | Pharma.
2914.50.10 | 5-Benzoyl-4-hydroxy-2-methoxy-benzenesulfonic acid | Pharma.
2914.50.30 | Aromatic ketone-phenols and ketones with other oxygen function | Pharma.
2914.50.50 | Nonaromatic ketone-phenols and ketones with other oxygen function | Pharma.
2914.62.00 | Coenzyme Q10 (ubidecarenone (INN) | Pharma.
2914.69.21 | Quinone drugs | Pharma.
2914.69.90 | Quinones, nesoi | Pharma.
2914.71.00 | Halogenated, sulfonated, nitrated or nitrosated derivatives: chlordecone (ISO) | Pharma.
2914.79.10 | 2,3-dichloro-1,4-naphthoquinone and other artificial musks | Pharma.
2914.79.40 | Other halogenated, sulfonated, nitrated or nitrosated derivatives of aromatic ketones and quinones whether or not with other oxygen function | Pharma.
2914.79.60 | 1-Chloro-5-hexanone | Pharma.
2914.79.90 | Other halogenated, sulfonated, nitrated or nitrosated derivatives of nonaromatic ketones and quinones whether or not with other oxygen function | Pharma.
2915.21.00 | Acetic acid | Pharma.
2915.24.00 | Acetic anhydride | Pharma.
2915.29.30 | Cobalt acetates | Pharma.
2915.29.50 | Other salts of acetic acid | Pharma.
2915.32.00 | Vinyl acetate | Pharma.
2915.36.00 | Dinoseb (ISO) acetate | Pharma.
2915.39.10 | Benzyl acetate | Pharma.
2915.39.31 | Aromatic esters of acetic acid, described in additional U.S. note 3 to section VI | Pharma.
2915.39.35 | Aromatic esters of acetic acid, nesoi | Pharma.
2915.39.40 | Linalyl acetate | Pharma.
2915.39.45 | Odoriferous or flavoring compounds of nonaromatic esters of acetic acid, nesoi | Pharma.
2915.39.47 | Acetates of polyhydric alcohols or of polyhydric alcohol ethers | Pharma.
2915.39.70 | Isobutyl acetate | Pharma.
2915.39.90 | Other non-aromatic esters of acetic acid | Pharma.
2915.40.10 | Chloroacetic acids | Pharma.
2915.40.20 | Aromatic salts and esters of chlorocetic acids, described in additional U.S. note 3 to section VI | Pharma.
2915.40.30 | Aromatic salts and esters of chlorocetic acids, nesoi | Pharma.
2915.40.50 | Nonaromatic salts and esters of chlorocetic acids, nesoi | Pharma.
2915.50.20 | Aromatic salts and esters of propionic acid | Pharma.
2915.90.10 | Fatty acids of animal or vegetable origin, nesoi | Pharma.
2915.90.14 | Valproic acid | Pharma.
2915.90.18 | Saturated acyclic monocarboxylic acids, nesoi | Pharma.
2915.90.20 | Aromatic anhydrides, halides, peroxides and peroxyacids, of saturated acyclic monocarboxylic acids, and their derivatives, nesoi | Pharma.
2915.90.50 | Nonaromatic anhydrides, halides, peroxides and peroxyacids, of saturated acyclic monocarboxylic acids, and their derivatives, nesoi | Pharma.
2916.16.00 | Binapacryl (ISO) | Pharma.
2916.19.30 | Unsaturated acyclic monocarboxylic acids, nesoi | Pharma.
2916.19.50 | Unsaturated acyclic monocarboxylic acid anhydrides, halides, peroxides, peroxyacids and their derivatives, nesoi | Pharma.
2916.20.50 | Cyclanic, cyclenic or cycloterpenic monocarboxylic acids, their anhydrides, halides, peroxides, peroxyacids and their derivatives | Pharma.
2916.31.30 | Benzoic acid esters, except odoriferous or flavoring compounds, described in additional U.S. note 3 to section VI | Pharma.
2916.31.50 | Benzoic acid esters, nesoi | Pharma.
2916.39.15 | Ibuprofen | Pharma.
2916.39.17 | 2,2-Dichlorophenylacetic acid ethyl ester and m-toluic acid | Pharma.
2916.39.46 | Aromatic monocarboxylic acids, their anhydrides, halides, peroxides, peroxyacids and their derivatives, described in additional U.S. note 3 to section VI | Pharma.
2916.39.79 | Other aromatic monocarboxylic acids, their anhydrides, halides, peroxides, peroxyacids and their derivatives | Pharma.
2917.13.00 | Azelaic acid, sebacic acid, their salts and esters | Pharma.
2917.19.10 | Ferrous fumarate | Pharma.
2917.19.15 | Fumaric acid, derived in whole or in part from aromatic hydrocarbons | Pharma.
2917.19.17 | Fumaric acid except derived in whole or in part from aromatic hydrocarbons | Pharma.
2917.19.20 | Specified acyclic polycarboxylic acids and their derivatives, described in additional U.S. note 3 to section VI | Pharma.
2917.19.23 | Maleic acid | Pharma.
2917.19.27 | Succinic acid, glutaric acid, and their derivatives, and derivatives of adipic, fumeric and maleic acids, nesoi | Pharma.
2917.19.30 | Ethylene brassylate | Pharma.
2917.19.35 | Malonic acid | Pharma.
2917.19.40 | Acyclic polycarboxylic acids, derived from aromatic hydrocarbons, and their derivatives, nesoi | Pharma.
2917.19.70 | Acyclic polycarboxylic acids and their derivatives (excluding plasticizers) | Pharma.
2917.20.00 | Cyclanic, cyclenic or cycloterpenic polycarboxylic acids, their anhydrides, halides, peroxides, peroxyacids and their derivatives | Pharma.
2917.34.01 | Esters of orthophthalic acid, nesoi | Pharma.
2917.37.00 | Dimethyl terephthalate | Pharma.
2917.39.30 | Aromatic polycarboxylic acids, their anhydrides, halides, peroxides, peroxyacids and their derivatives nesoi, described in additional U.S. note 3 to section VI | Pharma.
2918.11.51 | Salts and esters of lactic acid | Pharma.
2918.12.00 | Tartaric acid | Pharma.
2918.13.50 | Salts and esters of tartaric acid, nesoi | Pharma.
2918.14.00 | Citric acid | Pharma.
2918.16.50 | Salts and esters of gluconic acid | Pharma.
2918.18.00 | Chlorobenzilate (ISO) | Pharma.
2918.19.15 | Phenylglycolic (Mandelic) acid salts and esters | Pharma.
2918.19.20 | Aromatic carboxylic acids with alcohol function, without other oxygen functions, and their derivatives, described in additional U.S. note 3 to section VI | Pharma.
2918.19.31 | Aromatic carboxylic acids with alcohol function, without other oxygen functions, and their derivatives, nesoi | Pharma.
2918.19.60 | Malic acid | Pharma.
2918.19.90 | Nonaromatic carboxylic acids with alcohol function, without other oxygen function, and their derivatives, nesoi | Pharma.
2918.21.10 | Salicylic acid and its salts, suitable for medicinal use | Pharma.
2918.22.10 | O-Acetylsalicylic acid (Aspirin) | Pharma.
2918.22.50 | Salts and esters of O-acetylsalicylic acid | Pharma.
2918.23.10 | Salol (Phenyl salicylate) suitable for medicinal use | Pharma.
2918.23.30 | Esters of salicylic acid and their salts, described in additional U.S. note 3 to section VI | Pharma.
2918.23.50 | Esters of salicylic acid and their salts, nesoi | Pharma.
2918.29.20 | Gentisic acid; and Hydroxycinnamic acid and its salts | Pharma.
2918.29.22 | p-Hydroxybenzoic acid | Pharma.
2918.29.65 | Carboxylic acids with phenol function but without other oxygen function, described in additional U.S. note 3 to section VI | Pharma.
2918.29.75 | Other carboxylic acids with phenol function but without other oxygen function and their derivatives (excluding goods of additional U.S. note 3 to section VI) | Pharma.
2918.30.10 | 1-Formylphenylacetic acid, methyl ester | Pharma.
2918.30.15 | 2-Chloro-4,5-difluoro-beta-oxobenzenepropanoic acid, ethyl ester; and Ethyl 2-keto-4-phenylbutanoate | Pharma.
2918.30.25 | Aromatic carboxylic acids with aldehyde or ketone function but without other oxygen function and their derivatives described in additional U.S. note 3 to section VI, nesoi | Pharma.
2918.30.30 | Aromatic carboxylic acids with aldehyde or ketone function but without other oxygen function, and their derivatives, nesoi | Pharma.
2918.30.70 | Dimethyl acetyl succinate; Oxalacetic acid diethyl ester, sodium salt; 4,4,4-Trifluoro-3-oxobutanoic acid, both ethyl and methyl ester versions | Pharma.
2918.30.90 | Non-aromatic carboxylic acids with aldehyde or ketone function but without other oxygen function, their anhydrides, halides, peroxides, peroxyacids and their derivatives | Pharma.
2918.99.05 | p-Anisic acid; clofibrate and 3-phenoxybenzoic acid | Pharma.
2918.99.30 | Aromatic drugs derived from carboxylic acids with additional oxygen function, and their derivatives, nesoi | Pharma.
2918.99.43 | Aromatic carboxylic acids with additional oxygen function and their anhydrides, halides, peroxides, peroxyacids and their derivatives, described in additional U.S. note 3 to section VI, nesoi | Pharma.
2918.99.47 | Other aromatic carboxylic acids with additional oxygen function and their anhydrides, halides, peroxides, peroxyacids and their derivatives (excluding goods described in additional U.S. note 3 to section VI) | Pharma.
2918.99.50 | Nonaromatic carboxylic acids with additional oxygen function, and their derivatives, nesoi | Pharma.
2919.10.00 | Tris(2,3-dibromopropyl phosphate) | Pharma.
2919.90.30 | Aromatic phosphoric esters and their salts, including lactophosphates, and their derivatives, not used as plasticizers | Pharma.
2919.90.50 | Nonaromatic phosphoric esters and their salts, including lactophosphates, and their derivatives | Pharma.
2920.19.40 | Other aromatic thiophosphoric esters (phosphorothioates), their salts and their halogenated, sulfonated, nitrated or nitrosated derivatives | Pharma.
2920.19.50 | Nonaromatic phosphorothioates, their salts and their halogenated, sulfonated, nitrated or nitrosated derivatives, nesoi | Pharma.
2920.21.00 | Dimethyl phosphite | Pharma.
2920.22.00 | Diethyl phosphite | Pharma.
2920.23.00 | Trimethyl phosphite | Pharma.
2920.24.00 | Triethyl phosphite | Pharma.
2920.29.00 | Other phosphite esters, their salts and their halogenated, sulfonated, nitrated or nitrosated derivatives | Pharma.
2920.30.00 | Endosulfan (ISO) | Pharma.
2920.90.20 | Aromatic esters of other inorganic acids (excluding hydrogen halides), their salts and their derivatives, nesoi | Pharma.
2920.90.51 | Nonaromatic esters of inorganic acids of nonmetals, their salts and derivatives, excluding esters of hydrogen halides, nesoi | Pharma.
2921.11.00 | Methylamine, di- or trimethylamine, and their salts | Pharma.
2921.14.00 | 2-(N,N,-Diisopropylamino)ethyl chloride hydrochloride | Pharma.
2921.19.11 | Mono- and triethylamines; mono-, di-, and tri(propyl- and butyl-) monoamines; salts of any of the foregoing | Pharma.
2921.19.61 | N,N-Dialkyl (methyl, ethyl, N-Propyl or Isopropyl)-2-Chloroethylamines and their protonated salts; Acyclic monoamines and their derivatives, nesoi | Pharma.
2921.29.00 | Acyclic polyamines, their derivatives and salts, other than ethylenediamine or hexamethylenediamine and their salts | Pharma.
2921.30.10 | Cyclanic, cyclenic or cycloterpenic mono- or polyamines, derivatives and salts, from any aromatic compound described in additional U.S. note 3 to section VI | Pharma.
2921.30.30 | Cyclanic, cyclenic, cycloterpenic mono- or polyamines and their derivatives and salts, derived from any aromatic compound (excluding goods described in additional U.S. note 3 to section VI) | Pharma.
2921.30.50 | Cyclanic, cyclenic or cycloterpenic mono- or polyamines, and their derivatives and salts, derived from any nonaromatic compounds | Pharma.
2921.41.10 | Aniline | Pharma.
2921.41.20 | Aniline salts | Pharma.
2921.42.65 | Aniline derivatives and their salts thereof, described in additional U.S. note 3 to section VI | Pharma.
2921.42.90 | Other aniline derivatives and their salts | Pharma.
2921.43.40 | Toluidines and their derivatives and salts thereof, described in additional U.S. note 3 to section VI | Pharma.
2921.45.60 | Aromatic monoamines and their derivatives and salts thereof, described in additional U.S. note 3 to section VI, nesoi | Pharma.
2921.45.90 | Aromatic monoamines and their derivatives and salts thereof nesoi | Pharma.
2921.46.00 | Amfetamine (INN), benzfetamine (INN), dexamfetamine (INN), etilamfetamine (INN), and other specified INNs; salts thereof | Pharma.
2921.49.38 | Aromatic monoamine antidepressants, tranquilizers and other psychotherapeutic agents, nesoi | Pharma.
2921.49.43 | Aromatic monoamine drugs, nesoi | Pharma.
2921.49.45 | Aromatic monoamines and their derivatives and salts thereof nesoi, described in additional U.S. note 3 to section VI | Pharma.
2921.49.50 | Aromatic monoamines and their derivatives and salts thereof, nesoi | Pharma.
2921.59.40 | Aromatic polyamines and their derivatives and salts thereof, described in additional U.S. note 3 to section VI | Pharma.
2921.59.80 | Aromatic polyamines and their derivatives and salts thereof nesoi | Pharma.
2922.11.00 | Monoethanolamine and its salts | Pharma.
2922.12.00 | Diethanolamine and its salts | Pharma.
2922.14.00 | Dextropropoxyphene (INN) and its salts | Pharma.
2922.15.00 | Triethanolamine | Pharma.
2922.16.00 | Diethylammonium perfluorooctane sulfonate | Pharma.
2922.17.00 | Methyldiethanolamine and ethyldiethanolamine | Pharma.
2922.18.00 | 2-(N,N-Diisopropylamino)ethanol | Pharma.
2922.19.09 | Aromatic amino-alcohols drugs, their ethers and esters, other than those containing more than one kind of oxygen function, and their salts thereof; nesoi | Pharma.
2922.19.20 | 4,4′-Bis(dimethylamino)benzhydrol (Michler's hydrol) and other specified aromatic amino-alcohols, their ethers and esters, and salts thereof | Pharma.
2922.19.33 | N1-(2-Hydroxyethyl-2-nitro-1,4-phenylendiamine; N1,N4,N4-tris(2-hydroxyethyl)-2-nitro-1,4-phenylenediamine; and other specified chemicals | Pharma.
2922.19.60 | Aromatic amino-alcohols, their ethers and esters, other than those containing more than one oxygen function, described in additional U.S. note 3 to section VI | Pharma.
2922.19.70 | Other aromatic amino-alcohols, their ethers and esters, other than those containing more than one oxygen function (excluding goods described in additional U.S. note 3 to section VI) | Pharma.
2922.19.90 | Salts of triethanolamine | Pharma.
2922.19.96 | Amino-alcohols, other than those containing more than one kind of oxygen function, their ethers and esters and salts thereof, nesoi | Pharma.
2922.21.10 | 1-Amino-8-hydroxy-3,6-naphthalenedisulfonic acid; and other specified aminohydroxynaphthalenesulfonic acids and their salts | Pharma.
2922.21.25 | 1-Amino-8-hydroxy-4,6-naphthalenedisulfonic acid, monosodium salts | Pharma.
2922.21.40 | Aminohydroxynaphthalene sulfonic acids and their salts, described in additional U.S. note 3 to section VI | Pharma.
2922.21.50 | Aminohydroxynaphthalene sulfonic acids and their salts, nesoi | Pharma.
2922.29.03 | o-Anisidine; p-anisidine; and p-phenetidine | Pharma.
2922.29.06 | m-Nitro-p-anisidine and m-nitro-o-anisidine as fast color bases | Pharma.
2922.29.08 | m-Nitro-p-anisidine and m-nitro-o-anisidine, nesoi | Pharma.
2922.29.10 | 2-Amino-6-chloro-4-nitrophenol and other specified amino-naphthols and amino-phenols, their ethers and esters; salts thereof | Pharma.
2922.29.13 | o-Aminophenol; and 2,2-bis-[4-(4-aminophenoxy)phenyl]propane | Pharma.
2922.29.15 | m-Diethylaminophenol; m-dimethylaminophenol; 3-ethylamino-p-cresol; and 5-methoxy-m-phenylenediamine | Pharma.
2922.29.20 | 4-Chloro-2,5-dimethoxyaniline; and 2,4-dimethoxyaniline | Pharma.
2922.29.26 | Amino-naphthols and other amino-phenols and their derivatives used as fast color bases | Pharma.
2922.29.27 | Drugs of amino-naphthols and -phenols, their ethers and esters, except those containing more than one oxygen function, and salts thereof, nesoi | Pharma.
2922.29.29 | Photographic chemicals of amino-naphthols and -phenols, their ethers and esters, except those containing more than one oxygen function, and salts thereof, nesoi | Pharma.
2922.29.61 | Amino-naphthols and other amino-phenols and their derivatives, described in additional U.S. note 3 to section VI | Pharma.
2922.29.81 | Amino-naphthols and other amino-phenols, their ethers and esters (not containing more than one oxygen function), and salts thereof, nesoi | Pharma.
2922.31.00 | Amfepramone (INN), methadone (INN) and normethadone (INN), and salts thereof | Pharma.
2922.39.05 | 1-Amino-2,4-dibromoanthraquinone and 2-Amino-5-chlorobenzophenone | Pharma.
2922.39.10 | 2′-Aminoacetophenone and other specified aromatic amino-aldehydes, -ketones and -quinones, other than those with more than one oxygen function | Pharma.
2922.39.14 | 2-Aminoanthraquinone | Pharma.
2922.39.17 | 1-Aminoanthraquinone | Pharma.
2922.39.25 | Aromatic amino-aldehydes, -ketones and -quinones, other than those with more than one oxygen function, and salts thereof, described in additional U.S. note 3 to section VI | Pharma.
2922.39.45 | Aromatic amino-aldehydes, -ketones and -quinones, other than those with more than one oxygen function, and salts thereof, nesoi | Pharma.
2922.39.50 | Nonaromatic amino-aldehydes, -ketones and -quinones, other than those with more than one kind of oxygen function, and salts thereof, nesoi | Pharma.
2922.41.00 | Lysine and its esters and salts thereof | Pharma.
2922.42.10 | Monosodium glutamate | Pharma.
2922.42.50 | Glutamic acid and its salts, other than monosodium glutamate | Pharma.
2922.43.10 | Anthranilic acid and its salts, described in additional U.S. note 3 to section VI | Pharma.
2922.43.50 | Anthranilic acid and its salts, nesoi | Pharma.
2922.44.00 | Tildine (INN) and its salts | Pharma.
2922.49.05 | (R)-a-Aminobenzeneacetic acid; and 2-amino-3-chlorobenzoic acid, methyl ester | Pharma.
2922.49.10 | m-Aminobenzoic acid, technical; and other specified aromatic amino-acids and their esters, except those with more than one oxygen function | Pharma.
2922.49.26 | Aromatic amino-acids drugs and their esters, not containing more than one kind of oxygen function, nesoi | Pharma.
2922.49.30 | Aromatic amino-acids and their esters, excluding those with more than one oxygen function, and their salts, described in additional U.S. note 3 to section VI | Pharma.
2922.49.37 | Aromatic amino-acids and their esters, not containing more than one oxygen function (excluding goods described in additional U.S. note 3 to section VI), nesoi | Pharma.
2922.49.43 | Glycine (aminoacetic acid) | Pharma.
2922.49.49 | Nonaromatic amino-acids, other than those containing more than one oxygen function, other than glycine | Pharma.
2922.49.60 | 3-Aminocrotonic acid, methyl ester; and (R)-a-amino-1,4-cyclohexadiene-1-acetic acid | Pharma.
2922.49.80 | Non-aromatic esters of amino-acids, other than those containing more than one oxygen function, and salts thereof | Pharma.
2922.50.07 | 3,4-Diaminophenetole dihydrogen sulfate, 2-nitro-5-[(2,3-dihydroxy)propoxy]-N-methylaniline and other specified aromatic chemicals | Pharma.
2922.50.10 | Specified aromatic amino-alcohol-phenols, amino-acid-phenols and other amino-compounds with oxygen function | Pharma.
2922.50.11 | Salts of d(underscored)-(-)-p-Hydroxyphenylglycine | Pharma.
2922.50.13 | Isoetharine hydrochloride and other specified aromatic drugs of amino-compounds with oxygen function | Pharma.
2922.50.14 | Other aromatic cardiovascular drugs of amino-compounds with oxygen function | Pharma.
2922.50.17 | Aromatic dermatological agents and local anesthetics of amino-compounds with oxygen function | Pharma.
2922.50.19 | Aromatic guaiacol derivatives of amino-compounds with oxygen function | Pharma.
2922.50.25 | Aromatic drugs of amino-compounds with oxygen function, nesoi | Pharma.
2922.50.35 | Aromatic amino-alcohol-phenols, amino-acid-phenols and other amino-compounds with oxygen function described in additional U.S. note 3 to section VI | Pharma.
2922.50.40 | Aromatic amino-alcohol-phenols, amino-acid-phenols and other amino-compounds with oxygen function, nesoi | Pharma.
2922.50.50 | Nonaromatic amino-alcohol-phenols, amino-acid-phenols and other amino-compounds with oxygen function | Pharma.
2923.10.00 | Choline and its salts | Pharma.
2923.20.10 | Purified egg phospholipids, pharmaceutical grade meeting requirements of the U.S. FDA, for use in intravenous fat emulsion | Pharma.
2923.20.20 | Lecithins and other phosphoaminolipids, nesoi | Pharma.
2923.30.00 | Tetraethylammonium perfluorooctane sulfonate | Pharma.
2923.40.00 | Didecylmethylammonium perfluorooctane sulfonate | Pharma.
2923.90.01 | Quaternary ammonium salts and hydroxides, whether or not chemically defined, nesoi | Pharma.
2924.11.00 | Meprobamate (INN) | Pharma.
2924.12.00 | Fluoroacetamide (ISO), monocrotophos (ISO) and phosphamidon (ISO) | Pharma.
2924.19.11 | Acyclic amides (including acyclic carbamates) | Pharma.
2924.19.80 | Acyclic amide derivatives and salts thereof; nesoi | Pharma.
2924.21.16 | Aromatic ureines and their derivatives, nesoi | Pharma.
2924.21.20 | Aromatic ureines, their derivatives and salts thereof, described in additional U.S. note 3 to section VI | Pharma.
2924.21.45 | Aromatic ureines, their derivatives and salts thereof, nesoi | Pharma.
2924.21.50 | Nonaromatic ureines and their derivatives; and salts thereof | Pharma.
2924.23.70 | 2-Acetamidobenzoic acid salts described in additional U.S. note 3 to section VI | Pharma.
2924.23.75 | 2-Acetamidobenzoic acid salts, nesoi | Pharma.
2924.24.00 | Ethinamate (INN) | Pharma.
2924.25.00 | Alachlor (ISO) | Pharma.
2924.29.01 | p-Acetanisidide; p-acetoacetatoluidide; 4′-amino-N-methylacetanilide; 2,5-dimethoxyacetanilide; and N-(7-hydroxy-1-naphthyl)acetamide | Pharma.
2924.29.03 | 3,5-Dinitro-o-toluamide | Pharma.
2924.29.05 | Biligrafin acid; 3,5-diacetamido-2,4,6-triiodobenzoic acid; and metrizoic acid | Pharma.
2924.29.10 | Acetanilide; N-acetylsulfanilyl chloride; aspartame; and 2-methoxy-5-acetamino-N,N-bis(2-acetoxyethyl)aniline | Pharma.
2924.29.23 | 4-Aminoacetanilide; 2-2-oxamidobis[ethyl-3-(3,5-di-tert-butyl-4-hydroxyphenyl)propionate]; and other specified cyclic amide chemicals | Pharma.
2924.29.26 | 3-Aminomethoxybenzanilide | Pharma.
2924.29.28 | N-[[(4-Chlorophenyl)amino]carbonyl]difluorobenzamide; and 3,5-dichloro-N-(1,1-dimethyl-2-propynyl)benzamide (pronamide) | Pharma.
2924.29.33 | 3-Hydroxy-2-naphthanilide; 3-hydroxy-2-naphtho-o-toluidide; 3-hydroxy-2-naphtho-o-anisidine; 3-hydroxy-2-naphtho-o-phenetidide; and other | Pharma.
2924.29.57 | Diethylaminoacetoxylidide (Lidocaine) | Pharma.
2924.29.62 | Other aromatic cyclic amides and derivatives for use as drugs | Pharma.
2924.29.65 | 5-Bromoacetyl-2-salicylamide | Pharma.
2924.29.71 | Aromatic cyclic amides and their derivatives, described in additional U.S. note 3 to section VI, nesoi | Pharma.
2924.29.77 | Aromatic cyclic amides (including cyclic carbamates), their derivatives and salts thereof, nesoi | Pharma.
2924.29.80 | 2,2-Dimethylcyclopropylcarboxamide | Pharma.
2924.29.95 | Other nonaromatic cyclic amides, their derivatives and salts thereof; nesoi | Pharma.
2925.12.00 | Glutethimide (INN) | Pharma.
2925.19.42 | Other aromatic imides, their derivatives and salts thereof; nesoi | Pharma.
2925.19.91 | Other non-aromatic imides and their derivatives | Pharma.
2925.21.00 | Chlordimeform (ISO) | Pharma.
2925.29.10 | N′-(4-Chloro-o-tolyl)-N,N-dimethylformamidine; bunamidine hydrochloride; and pentamidine | Pharma.
2925.29.18 | N,N′-Diphenylguanidine; 3-Dimethyl amino methyleneiminophenol hydrochloride; 1,3-Di-o-tolylguanidine; and N,N-Dimethyl-N′-[3-[[(methylamino) carbonyl]- oxy] phenyl] methanimidamide monohydro- chloride | Pharma.
2925.29.20 | Aromatic drugs of imines and their derivatives, nesoi | Pharma.
2925.29.60 | Aromatic imines, their derivatives and salts thereof (excluding drugs), nesoi | Pharma.
2925.29.70 | Tetramethylguanidine | Pharma.
2925.29.90 | Non-aromatic imines, their derivatives and salts thereof | Pharma.
2926.30.10 | Fenproporex (INN) and its salts | Pharma.
2926.40.00 | a-Phenylacetoacetonitrile | Pharma.
2926.90.14 | p-Chlorobenzonitrile and verapamil hydrochloride | Pharma.
2926.90.43 | Aromatic nitrile-function compounds, nesoi, described in additional U.S. note 3 to section VI | Pharma.
2926.90.48 | Aromatic nitrile-function compounds other than those products described in additional U.S. note 3 to section VI, nesoi | Pharma.
2926.90.50 | Nonaromatic nitrile-function compounds, nesoi | Pharma.
2927.00.40 | Diazo-, azo- or azoxy-compounds, nesoi, described in additional U.S. note 3 to section VI | Pharma.
2927.00.50 | Other diazo-, azo- or azoxy-compounds, nesoi | Pharma.
2928.00.10 | Methyl ethyl ketoxime | Pharma.
2928.00.15 | Phenylhydrazine | Pharma.
2928.00.25 | Aromatic organic derivatives of hydrazine or of hydroxylamine | Pharma.
2928.00.30 | Nonaromatic drugs of organic derivatives of hydrazine or of hydroxylamine, other than Methyl ethyl ketoxime | Pharma.
2928.00.50 | Nonaromatic organic derivatives of hydrazine or of hydroxylamine, nesoi | Pharma.
2929.90.05 | 2,2-Bis(4-cyanatophenyl)-1,1,1,3,3,3,-hexafluoropropane; 2,2-bis(4-cyanatophenyl)propane; 1,1-ethylidenebis(phenyl-4-cyanate); and 2 others | Pharma.
2929.90.15 | Other aromatic compounds with other nitrogen function, described in additional U.S. note 3 to section VI | Pharma.
2929.90.20 | Aromatic compounds with other nitrogen function, nesoi | Pharma.
2929.90.50 | Nonaromatic compounds with other nitrogen functions, except isocyanates | Pharma.
2930.10.01 | 2-(N,N-Dimethylamino) ethanethiol | Pharma.
2930.20.20 | Aromatic compounds of thiocarbamates and dithiocarbamates, excluding pesticides | Pharma.
2930.20.90 | Other non-aromatic thiocarbamates and dithiocarbamates | Pharma.
2930.30.60 | Thiuram mono-, di- or tetrasulfides, other than tetramethylthiuram monosulfide | Pharma.
2930.40.00 | Methionine | Pharma.
2930.60.00 | 2-(N,N-Diethylamino)ethanethiol | Pharma.
2930.70.00 | Bis(2-hydroxyethyl)sulfide (thiodiglycol (INN)) | Pharma.
2930.90.29 | Other aromatic organo-sulfur compounds (excluding pesticides) | Pharma.
2930.90.49 | Nonaromatic organo-sulfur acids, nesoi | Pharma.
2930.90.92 | Other non-aromatic organo-sulfur compounds | Pharma.
2931.41.00 | Dimethyl methylphosphonate | Pharma.
2931.42.00 | Dimethyl propylphosphonate | Pharma.
2931.43.00 | Diethyl ethylphosphonate | Pharma.
2931.44.00 | Methylphosphonic acid | Pharma.
2931.45.00 | Salt of methylphosphonic acid and (aminoiminomethyl)urea (1:1) | Pharma.
2931.46.00 | 2,4,6-Tripropyl-1,3,5,2,4,6-trioxatriphosphinane 2,4,6-trioxide | Pharma.
2931.47.00 | (5-Ethyl-2-methyl-2-oxido-1,3,2-dioxaphosphinan-5-yl) methyl methyl methylphosphonate | Pharma.
2931.48.00 | 3,9-Dimethyl-2,4,8,10-tetraoxa-3,9-diphosphaspiro [5.5] undecane 3,9-dioxide | Pharma.
2931.49.00 | Other non-halogenated organo-phosphorous derivatives | Pharma.
2931.51.00 | Methylphosphonic dichloride | Pharma.
2931.52.00 | Propylphosphonic dichloride | Pharma.
2931.53.00 | O-(3-chloropropyl) O-[4-nitro-3-(trifluoromethyl)phenyl] methylphosphonothionate | Pharma.
2931.54.00 | Trichlorfon (ISO) | Pharma.
2931.59.00 | Other halogenated organo-phosphorous derivatives | Pharma.
2931.90.22 | Drugs of aromatic organo-inorganic compounds | Pharma.
2931.90.30 | Aromatic organo-inorganic compounds, nesoi, described in additional U.S. note 3 to section VI | Pharma.
2931.90.60 | Other aromatic organo-inorganic compounds (excluding products described in additional U.S. note 3 to section VI) | Pharma.
2931.90.90 | Other non-aromatic organo-inorganic compounds | Pharma.
2932.11.00 | Tetrahydrofuran | Pharma.
2932.14.00 | Sucralose | Pharma.
2932.19.10 | Aromatic heterocyclic compounds with oxygen hetero-atom(s) only, containing an unfused furan ring, nesoi | Pharma.
2932.19.51 | Nonaromatic compounds containing an unfused furan ring (whether or not hydrogenated) in the ring | Pharma.
2932.20.05 | Coumarin, methylcoumarins and ethylcoumarins | Pharma.
2932.20.20 | Aromatic drugs of lactones | Pharma.
2932.20.25 | 4-Hydroxycoumarin | Pharma.
2932.20.30 | Aromatic lactones, nesoi, described in additional U.S. note 3 to section VI | Pharma.
2932.20.45 | Aromatic lactones, nesoi | Pharma.
2932.20.50 | Nonaromatic lactones | Pharma.
2932.95.00 | Tetrahydrocannabinols (all isomers) | Pharma.
2932.99.04 | 2,2-Dimethyl-1,3-benzodioxol-4-yl methylcarbamate (Bendiocarb) | Pharma.
2932.99.08 | 2-Ethoxy-2,3-dihydro-3,3-dimethyl-5-benzofuranylmethanesulfonate | Pharma.
2932.99.21 | Aromatic pesticides of heterocyclic compounds with oxygen hetero-atom(s) only, nesoi | Pharma.
2932.99.32 | Benzofuran (Coumarone); and Dibenzofuran (Diphenylene oxide) | Pharma.
2932.99.35 | 2-Hydroxy-3-dibenzofurancarboxylic acid | Pharma.
2932.99.39 | Benzointetrahydropyranyl ester; and Xanthen-9-one | Pharma.
2932.99.55 | Bis-O-[(4-methylphenyl)methylene]-D-glucitol (Dimethylbenzylidene sorbitol); and Rhodamine 2C base | Pharma.
2932.99.61 | Aromatic heterocyclic compounds with oxygen hetero-atom(s) only, described in additional U.S. note 3 to section VI, nesoi | Pharma.
2932.99.70 | Aromatic heterocyclic compounds with oxygen hetero-atom(s) only, nesoi | Pharma.
2932.99.90 | Nonaromatic heterocyclic compounds with oxygen hetero-atom(s) only, nesoi | Pharma.
2933.11.00 | Phenazone (Antipyrine) and its derivatives | Pharma.
2933.19.08 | 3-(5-Amino-3-methyl-1H-pyrazol-1-yl)benzenesulfonic acid; amino-J-pyrazolone; and another 12 specified chemicals | Pharma.
2933.19.35 | Aromatic or modified aromatic drugs of heterocyclic compounds with nitrogen hetero-atom(s) only, containing an unfused pyrazole ring | Pharma.
2933.19.37 | Aromatic or modified aromatic compounds, described in additional U.S. note 3 to section VI, containing an unfused pyrazole ring (whether or not hydrogenated) in the structure | Pharma.
2933.19.43 | Aromatic or modified aromatic compounds (excluding products described in additional U.S. note 3 to section VI), containing an unfused pyrazole ring in the structure | Pharma.
2933.19.45 | Nonaromatic drugs of heterocyclic compounds with nitrogen hetero-atom(s) only, containing an unfused pyrazole ring | Pharma.
2933.19.90 | Other compounds (excluding aromatic or modified aromatic compounds and drugs) containing an unfused pyrazole ring (whether or not hydrogenated) in the structure | Pharma.
2933.21.00 | Hydantoin and its derivatives | Pharma.
2933.29.05 | 1-[1-((4-Chloro-2-(trifluoromethyl)phenyl)imino)-2-propoxyethyl]-1H-imidazole (triflumizole); and ethylene thiourea | Pharma.
2933.29.10 | 2-Phenylimidazole | Pharma.
2933.29.20 | Aromatic or modified aromatic drugs of heterocyclic compounds with nitrogen hetero-atom(s) only, containing an unfused imidazole ring | Pharma.
2933.29.35 | Aromatic or modified aromatic goods, described in additional U.S. note 3 to section VI, containing an unfused imidazole ring (whether or not hydrogenated) in structure | Pharma.
2933.29.43 | Aromatic or modified aromatic goods containing an unfused imidazole ring (whether or not hydrogenated) in the structure (excluding products described in additional U.S. note 3 to section VI) | Pharma.
2933.29.45 | Nonaromatic drugs of heterocyclic compounds with nitrogen hetero-atom(s) only, containing an unfused imidazole ring, nesoi | Pharma.
2933.29.60 | Imidazole | Pharma.
2933.29.90 | Other compounds (excluding drugs, aromatic and modified aromatic compounds) containing an unfused imidazole ring (whether or not hydrogenated) | Pharma.
2933.31.00 | Pyridine and its salts | Pharma.
2933.33.01 | Alfentanil (INN), anileridine (INN), bezitramide (INN), bromazepam (INN), difenoxin (INN), and other specified INNs; salts thereof | Pharma.
2933.34.00 | Other fentanyls and their derivatives, containing an unfused pyrazole ring | Pharma.
2933.35.00 | 3-Quinuclidinol | Pharma.
2933.36.00 | 4-Anilino-N-phenethylpiperidine (ANPP) | Pharma.
2933.37.00 | N-Phenethyl-4-piperidone (NPP) | Pharma.
2933.39.08 | 1-(3-Sulfapropyl)pryidinium hydroxide; N,N-bis(2,2,6,6-tetramethyl-4-piperidinyl)-1,6-hexanediamine; and 5 other specified chemicals | Pharma.
2933.39.10 | Collidines, lutidines and picolines | Pharma.
2933.39.20 | p-Chloro-2-benzylpyridine and other specified heterocyclic compounds, with nitrogen hetero-atom(s) only, containing an unfused pyridine ring | Pharma.
2933.39.21 | Fungicides of heterocyclic compounds with nitrogen hetero-atom(s) only, containing an unfused pyridine ring | Pharma.
2933.39.23 | o-Paraquat dichloride | Pharma.
2933.39.25 | Herbicides nesoi, of heterocyclic compounds with nitrogen hetero-atom(s) only, containing an unfused pyridine ring | Pharma.
2933.39.27 | Pesticides nesoi, of heterocyclic compounds with nitrogen hetero-atom(s) only, containing an unfused pyridine ring | Pharma.
2933.39.31 | Psychotherapeutic agents of heterocyclic compounds with nitrogen hetero-atom(s) only, containing an unfused pyridine ring, nesoi | Pharma.
2933.39.41 | Drugs containing an unfused pyridine ring (whether or not hydrogenated) in the structure, nesoi | Pharma.
2933.39.61 | Heterocyclic compounds with nitrogen hetero-atom(s) only, containing an unfused pyridine ring, described in additional U.S. note 3 to section VI | Pharma.
2933.39.92 | Heterocyclic compounds with nitrogen hetero-atom(s) only, containing an unfused pyridine ring, nesoi | Pharma.
2933.41.00 | Levorphenol (INN) and its salts | Pharma.
2933.49.20 | 5-Chloro-7-iodo-8-quinolinol (Iodochlorhydroxyquin); Decoquinate; Diiodohydroxyquin; and Oxyquinoline sulfate | Pharma.
2933.49.26 | Drugs containing a quinoline or isoquinoline ring-system (whether or not hydrogenated), not further fused, nesoi | Pharma.
2933.49.60 | Products described in additional U.S. note 3 to section VI containing quinoline or isoquinoline ring-system (whether or not hydrogenated), not further fused | Pharma.
2933.49.70 | Heterocyclic compounds with nitrogen hetero-atom(s) only, containing a quinoline ring-system, not further fused, nesoi | Pharma.
2933.53.00 | Allobarbital (INN), amobarbital (INN), barbital (INN), butalbital (INN), butobarbital, and other specified INNs; salts thereof | Pharma.
2933.54.00 | Other derivatives of malonylurea (barbituric acid); salts thereof | Pharma.
2933.55.00 | Loprazolam (INN), mecloqualone (INN), methaqualone (INN) and zipeprol (INN); salts thereof | Pharma.
2933.59.10 | Aromatic or modified aromatic herbicides of heterocyclic compounds with nitrogen hetero-atom(s) only, containing a pyrimidine or piperazine ring | Pharma.
2933.59.15 | Aromatic or modified aromatic pesticides nesoi, of heterocyclic compounds with nitrogen hetero-atom(s) only, containing a pyrimidine or piperazine ring | Pharma.
2933.59.18 | Nonaromatic pesticides of heterocyclic compounds with nitrogen hetero-atom(s) only, containing a pyrimidine or piperazine ring, nesoi | Pharma.
2933.59.21 | Antihistamines, including those principally used as antinauseants | Pharma.
2933.59.22 | Nicarbazin and trimethoprim | Pharma.
2933.59.36 | Anti-infective agents nesoi, of heterocyclic compounds with nitrogen hetero-atom(s) only, containing a pyrimidine or piperazine ring | Pharma.
2933.59.46 | Psychotherapeutic agents of heterocyclic compounds with nitrogen hetero-atom(s) only, containing a pyrimidine or piperazine ring, nesoi | Pharma.
2933.59.53 | Other aromatic or modified aromatic drugs containing a pyrimidine ring (whether or not hydrogenated) or piperazine ring in the structure | Pharma.
2933.59.59 | Nonaromatic drugs of heterocyclic compounds nesoi, with nitrogen hetero-atom(s) only, containing a pyrimidine or piperazine ring | Pharma.
2933.59.70 | Aromatic heterocyclic compounds nesoi, with nitrogen hetero-atom(s) only, containing a pyrimidine or piperazine ring, described in additional U.S. note 3 to section VI | Pharma.
2933.59.80 | Aromatic or modified aromatic heterocyclic compounds nesoi, with nitrogen hetero-atom(s) only, containing a pyrimidine or piperazine ring | Pharma.
2933.59.85 | 2-Amino-4-chloro-6-methoxypyrimidine; 2-amino-4,6-dimethoxypyrimidine; and 6-methyluracil | Pharma.
2933.59.95 | Other (excluding aromatic or modified aromatic) compounds containing a pyrimidine ring (whether or not hydrogenated) or piperazine ring in the structure | Pharma.
2933.69.50 | Hexamethylenetetramine | Pharma.
2933.69.60 | Other compounds containing an unfused triazine ring (whether or not hydrogenated) in the structure | Pharma.
2933.72.00 | Clobazam (INN) and methyprylon (INN) | Pharma.
2933.79.04 | 2,4-Dihydro-3,6-diphenylpyrrolo-(3,4-C)pyrrole-1,4-dione | Pharma.
2933.79.08 | Aromatic or modified aromatic lactams with nitrogen hetero-atoms only, described in additional U.S. note 3 to section VI | Pharma.
2933.79.15 | Aromatic or modified aromatic lactams, nesoi | Pharma.
2933.79.20 | N-Methyl-2-pyrrolidone; and 2-pyrrolidone | Pharma.
2933.79.30 | N-Vinyl-2-pyrrolidone, monomer | Pharma.
2933.79.40 | 12-Aminododecanoic acid lactam | Pharma.
2933.79.85 | Aromatic or modified aromatic lactams with nitrogen hetero-atoms only, nesoi | Pharma.
2933.91.00 | Alprazolam (INN), camazepam (INN), chlordiazepoxide (INN), clonazepam (INN), clorazepate, and other specified INNs; salts thereof | Pharma.
2933.99.01 | Butyl (R)-2-[4-(5-triflouromethyl-2-pyridinyloxy)phenoxy]propanoate | Pharma.
2933.99.02 | 2-[4-[(6-Chloro-2-quinoxalinyl)oxy]phenoxy]propionic acid, ethyl ester; and 1 other specified aromatic chemical | Pharma.
2933.99.05 | Acridine and indole | Pharma.
2933.99.06 | a-Butyl-a-(4-chlorophenyl)-1H-1,2,4-triazole-1-propanenitrile (Mycolbutanil); and one other specified aromatic chemical | Pharma.
2933.99.08 | Acetoacetyl-5-aminobenzimidazolone; 1,3,3-Trimethyl-2-methyleneindoline; and two other specified aromatic chemicals | Pharma.
2933.99.11 | Carbazole | Pharma.
2933.99.12 | 6-Bromo-5-methyl-1H-imidazo-(4,5-b)pyridine; 2-sec-butyl-4-tert-butyl-6-(benzotriazol-2-yl)phenol; 2-methylindoline; and other specific | Pharma.
2933.99.14 | 5-Amino-4-chloro-a-phenyl-3-pyridazinone | Pharma.
2933.99.16 | o-Diquat dibromide (1,1-Ethylene-2,2-dipyridylium dibromide) | Pharma.
2933.99.17 | Aromatic or modified aromatic insecticides with nitrogen hetero-atom(s) only, nesoi | Pharma.
2933.99.22 | Other heterocyclic aromatic or modified aromatic pesticides with nitrogen hetero-atom(s) only, nesoi | Pharma.
2933.99.24 | Aromatic or modified aromatic photographic chemicals with nitrogen hetero-atom(s) only | Pharma.
2933.99.26 | Aromatic or modified aromatic antihistamines of heterocyclic compounds with nitrogen hetero-atom(s) only | Pharma.
2933.99.42 | Acriflavin; Acriflavin hydrochloride; Carbadox; Pyrazinamide | Pharma.
2933.99.46 | Aromatic or modified aromatic anti-infective agents of heterocyclic compounds with nitrogen hetero-atom(s) only, nesoi | Pharma.
2933.99.51 | Hydralazine hydrochloride | Pharma.
2933.99.53 | Aromatic or modified aromatic cardiovascular drugs of heterocyclic compounds with nitrogen hetero-atom(s) only, nesoi | Pharma.
2933.99.55 | Aromatic or modified aromatic analgesics and certain like affecting chemicals, of heterocyclic compounds with nitrogen hetero-atom(s) only | Pharma.
2933.99.58 | Droperidol; and Imipramine hydrochloride | Pharma.
2933.99.61 | Aromatic or modified aromatic psychotherapeutic agents, affecting the central nervous system, of heterocyclic compounds with nitrogen hetero-atom(s) only, nesoi | Pharma.
2933.99.65 | Aromatic or modified aromatic anticonvulsants, hypnotics and sedatives, of heterocyclic compounds with nitrogen hetero-atom(s) only, nesoi | Pharma.
2933.99.70 | Aromatic or modified aromatic drugs affecting the central nervous system, of heterocyclic compounds with nitrogen atom(s) only, nesoi | Pharma.
2933.99.75 | Aromatic or modified aromatic drugs of heterocyclic compounds with nitrogen hetero-atom(s) only, nesoi | Pharma.
2933.99.79 | Aromatic or modified aromatic compounds with nitrogen hetero-atom(s) only, described in additional U.S. note 3 to section VI | Pharma.
2933.99.82 | Aromatic or modified aromatic compounds with nitrogen hetero-atom(s) only, excluding products described in additional U.S. note 3 to section VI, nesoi | Pharma.
2933.99.85 | 3-Amino-1,2,4-triazole | Pharma.
2933.99.89 | Hexamethyleneimine | Pharma.
2933.99.90 | Nonaromatic drugs of heterocyclic compounds with nitrogen hetero-atom(s) only, nesoi | Pharma.
2933.99.97 | Nonaromatic heterocyclic compounds with nitrogen hetero-atom(s) only, nesoi | Pharma.
2934.10.10 | Aromatic or modified aromatic heterocyclic compounds containing an unfused thiazole ring, described in additional U.S. note 3 to section VI | Pharma.
2934.10.20 | Aromatic or modified aromatic heterocyclic compounds, nesoi, containing an unfused thiazole ring | Pharma.
2934.10.70 | 4,5-Dichloro-2-n-octyl-4-isothiazolin-3-one; thiothiamine hydrochloride; and 4 other specified chemicals | Pharma.
2934.10.90 | Other (excluding aromatic or modified aromatic) compounds containing an unfused thiazole ring (whether or not hydrogenated) in the structure | Pharma.
2934.20.40 | Heterocyclic compounds containing a benzothiazole ring-system, not further fused, described in additional U.S. note 3 to section VI | Pharma.
2934.20.80 | Other compounds containing a benzothiazole ring system (whether or not hydrogenated), not further fused | Pharma.
2934.30.18 | Ethyl (1H-phenothiazin-2,4,1)carbamate | Pharma.
2934.30.23 | Antidepressants, tranquilizers and other psychotherapeutic agents containing a phenothiazine ring-system, not further fused | Pharma.
2934.30.27 | Other drugs containing a phenothiazine ring system (whether or not hydrogenated), not further fused, nesoi | Pharma.
2934.30.43 | Products described in additional U.S. note 3 to section VI containing a phenothiazine ring system (whether or not hydrogenated), not further fused | Pharma.
2934.30.50 | Heterocyclic compounds containing a phenothiazine ring-system (whether or not hydrogenated), not further fused, nesoi | Pharma.
2934.91.00 | Aminorex (INN), brotizolam (INN), clotiazepam (INN), cloxazolam (INN), dextromoramide (INN), and other specified INNs; salts thereof | Pharma.
2934.92.00 | Other fentanyls and their derivatives, containing an unfused thiazole ring | Pharma.
2934.99.01 | Mycophenolate mofetil | Pharma.
2934.99.03 | 2-Acetylbenzo(b)thiophene; and 2 other specified aromatic or modified aromatic compounds | Pharma.
2934.99.05 | 5-Amino-3-phenyl-1,2,4-thiadiazole(3-Phenyl-5-amino-1,2,4-thiadiazole); and 3 other specified aromatic/mod. aromatic heterocyclic compounds | Pharma.
2934.99.06 | 7-Nitronaphth[1,2]oxadiazole-5-sulfonic acid and its salts | Pharma.
2934.99.07 | Ethyl 2-[4-[(6-chloro-2-benzoxazoyl)oxy]phenoxy]propanoate (Fenoxaprop- ethyl) | Pharma.
2934.99.08 | 2,5-Diphenyloxazole | Pharma.
2934.99.09 | 1,2-Benzisothiazolin-3-one | Pharma.
2934.99.11 | 2-tert-Butyl-4-(2,4-dichloro-5-isopropoxyphenyl)-delta(squared)-1,3,4-oxadiazolin-5-one; Bentazon; Phosalone | Pharma.
2934.99.12 | Aromatic or modified aromatic fungicides of other heterocyclic compounds, nesoi | Pharma.
2934.99.15 | Aromatic or modified aromatic herbicides of other heterocyclic compounds, nesoi | Pharma.
2934.99.16 | Aromatic or modified aromatic insecticides of other heterocyclic compounds, nesoi | Pharma.
2934.99.18 | Aromatic or modified aromatic pesticides nesoi, of other heterocyclic compounds, nesoi | Pharma.
2934.99.20 | Aromatic or modified aromatic photographic chemicals of other heterocyclic compounds, nesoi | Pharma.
2934.99.30 | Aromatic or modified aromatic drugs of other heterocyclic compounds, nesoi | Pharma.
2934.99.39 | Aromatic or modified aromatic, other heterocyclic compounds, described in additional U.S. note 3 to section VI | Pharma.
2934.99.44 | Aromatic or modified aromatic, other heterocyclic compounds, nesoi | Pharma.
2934.99.47 | Nonaromatic drugs of other heterocyclic compounds, nesoi | Pharma.
2934.99.70 | Morpholinoethyl chloride hydrochloride; 2-Methyl-2,5-dioxo-1-oxa-2-phospholan; and (6R-trans)-7-Amino-3-methyl-8-oxo-5- thia-1-azabicyclo[4.2.0]-oct-2-ene-2- carboxylic acid | Pharma.
2934.99.90 | Nonaromatic other heterocyclic compounds, nesoi | Pharma.
2935.90.06 | 4-Amino-6-chloro-m-benzenedisulfonamide and Methyl-4-aminobenzenesulfonylcarbamate (Asulam) | Pharma.
2935.90.29 | Acetylsulfaguanidine | Pharma.
2935.90.30 | Sulfamethazine | Pharma.
2935.90.32 | Acetylsulfisoxazole; Sulfacetamide, sodium; and Sulfamethazine, sodium | Pharma.
2935.90.33 | Sulfathiazole and Sulfathiazole, sodium | Pharma.
2935.90.42 | Salicylazosulfapyridine (Sulfasalazine); Sulfadiazine; Sulfaguanidine; Sulfamerizine; and Sulfapyridine | Pharma.
2935.90.48 | Other sulfonamides used as anti-infective agents | Pharma.
2935.90.60 | Other sulfonamide drugs (excluding anti-infective agents) | Pharma.
2935.90.75 | Other sulfonamides (excluding fast color bases, fast color salts, and drugs) of products described in additional U.S. note 3 to section VI | Pharma.
2935.90.95 | Other sulfonamides, excluding fast color bases, fast color salts, and drugs and products described in additional U.S. note 3 to section VI | Pharma.
2936.21.00 | Vitamins A and their derivatives, unmixed, natural or synthesized | Pharma.
2936.22.00 | Vitamin B1 (Thiamine) and its derivatives, unmixed, natural or synthesized | Pharma.
2936.23.00 | Vitamin B2 (Riboflavin) and its derivatives, unmixed, natural or synthesized | Pharma.
2936.24.01 | Vitamin B5 (D- or DL-Pantothenic acid) and its derivatives, unmixed, natural or synthesized | Pharma.
2936.25.00 | Vitamin B6 (Pyridoxine and related compounds with Vitamin B6 activity) and its derivatives, unmixed, natural or synthesized | Pharma.
2936.26.00 | Vitamin B12 (Cyanocobalamin and related compounds with Vitamin B12 activity) and its derivatives, unmixed, natural or synthesized | Pharma.
2936.27.00 | Vitamin C (Ascorbic acid) and its derivatives, unmixed, natural or synthesized | Pharma.
2936.28.00 | Vitamin E (Tocopherols and related compounds with Vitamin E activity) and its derivatives, unmixed, natural or synthesized | Pharma.
2936.29.10 | Folic acid and its derivatives, unmixed | Pharma.
2936.29.16 | Niacin and niacinamide | Pharma.
2936.29.20 | Aromatic or modified aromatic vitamins and their derivatives, nesoi | Pharma.
2936.29.50 | Other vitamins and their derivatives, nesoi | Pharma.
2936.90.01 | Vitamins or provitamins (including natural concentrates) and intermixtures of the foregoing, whether or not in any solvent | Pharma.
2937.11.00 | Somatotropin, its derivatives and structural analogues | Pharma.
2937.12.00 | Insulin and its salts | Pharma.
2937.19.00 | Polypeptide hormones, protein hormones and glycoprotein hormones, their derivatives and structural analogues, nesoi | Pharma.
2937.21.00 | Cortisone, hydrocortisone, prednisone (Dehydrocortisone) and prednisolone (Dehydrohydrocortisone) | Pharma.
2937.22.00 | Halogenated derivatives of corticosteroidal hormones | Pharma.
2937.23.10 | Estrogens and progestins obtained directly or indirectly from animal or vegetable materials | Pharma.
2937.23.25 | Estradiol benzoate; and Estradiol cyclopentylpropionate (estradiol cypionate) | Pharma.
2937.23.50 | Other estrogens and progestins not derived from animal or vegetable materials, nesoi | Pharma.
2937.29.10 | Desonide; and Nandrolone phenpropionate | Pharma.
2937.29.90 | Steroidal hormones, their derivatives and structural analogues, nesoi | Pharma.
2937.50.00 | Prostaglandins, thromboxanes and leukotrienes, their derivatives and structural analogues | Pharma.
2937.90.05 | Epinephrine | Pharma.
2937.90.10 | Epinephrine hydrochloride | Pharma.
2937.90.20 | Catecholamine hormones, their derivatives and structural analogues, nesoi | Pharma.
2937.90.40 | l-Thyroxine(Levothyroxine), sodium | Pharma.
2937.90.45 | Amino-acid derivatives of hormones and their derivatives, nesoi | Pharma.
2937.90.90 | Other hormones, their derivatives and structural analogues, other steroid derivatives and structural analogue used primarily as hormones, nesoi | Pharma.
2938.10.00 | Rutoside (Rutin) and its derivatives | Pharma.
2938.90.00 | Glycosides, natural or synthesized, and their salts, ethers, esters, and other derivatives other than rutoside and its derivatives | Pharma.
2939.11.00 | Concentrates of poppy straw; buprenorphine (INN), codeine, dihydrocodeine (INN), ethylmorphine, and other specified INNs; salts thereof | Pharma.
2939.19.10 | Papaverine and its salts | Pharma.
2939.19.20 | Synthetic alkaloids of opium, their derivatives and salts thereof, nesoi | Pharma.
2939.19.50 | Nonsynthetic alkaloids of opium, their derivatives and salts thereof, nesoi | Pharma.
2939.20.00 | Alkaloids of cinchona, their derivatives and salts thereof, other than quinine and its salts | Pharma.
2939.30.00 | Caffeine and its salts | Pharma.
2939.41.00 | Ephedrine and its salts | Pharma.
2939.42.00 | Pseudoephedrine and its salts | Pharma.
2939.43.00 | Cathine (INN) and its salts | Pharma.
2939.44.00 | Norephedrine and its salts | Pharma.
2939.45.00 | Levometamfetamine, metamfetamine (INN), metamfetamine racemate and their salts | Pharma.
2939.49.03 | Alkaloids of ephedra and their salts, other than ephedrine, pseudoephedrine, cathine, norephedrine, levometamfetamine and their salts | Pharma.
2939.51.00 | Fenetylline (INN) its salts | Pharma.
2939.59.00 | Theophylline aminophylline (Theophylline-ethylenediamine), their derivatives and salts thereof, nesoi | Pharma.
2939.61.00 | Ergometrine and its salts | Pharma.
2939.62.00 | Ergotamine and its salts | Pharma.
2939.63.00 | Lysergic acid and its salts | Pharma.
2939.69.00 | Alkaloids of rye ergot, their derivatives and salts thereof, nesoi | Pharma.
2939.72.00 | Cocaine, ecgonine; salts, esters and other derivatives thereof | Pharma.
2939.79.00 | Vegetable alkaloids, natural or reproduced by synthesis, their salts and other derivatives, nesoi | Pharma.
2939.80.00 | Other alkaloids, natural or reproduced by synthesis, and their salts, ethers, esters and other derivatives, nesoi | Pharma.
2940.00.60 | Other sugars, nesoi, excluding d-arabinose | Pharma.
2941.10.10 | Ampicillin and its salts | Pharma.
2941.10.20 | Penicillin G salts | Pharma.
2941.10.30 | Carfecillin, sodium; cloxacillin, sodium; dicloxacillin, sodium; flucloxacillin (Floxacillin); and oxacillin, sodium | Pharma.
2941.10.50 | Penicillins and their derivatives nesoi, with a penicillanic acid structure; salts thereof | Pharma.
2941.20.50 | Streptomycins and their derivatives; salts thereof, nesoi | Pharma.
2941.30.00 | Tetracyclines and their derivatives; salts thereof | Pharma.
2941.40.00 | Chloramphenicol and their derivatives; salts thereof | Pharma.
2941.50.00 | Erythromycin and their derivatives; salts thereof | Pharma.
2941.90.10 | Natural antibiotics, nesoi | Pharma.
2941.90.30 | Antibiotics nesoi, aromatic or modified aromatic, other than natural | Pharma.
2941.90.50 | Antibiotics nesoi, other than aromatic or modified aromatic antibiotics | Pharma.
2942.00.03 | [2,2′-Thiobis(4-(1,1,3,3-tetramethyl-n-butyl)phenolato)(2,1)]-O,O′,S-s(1-butanamine), nickel II | Pharma.
2942.00.05 | Aromatic or modified aromatic drugs of other organic compounds, nesoi | Pharma.
2942.00.10 | Aromatic or modified aromatic organic compounds, nesoi, described in additional U.S. note 3 to section VI | Pharma.
2942.00.35 | Other aromatic or modified aromatic organic compounds (excluding products described in additional U.S. note 3 to section VI) | Pharma.
2942.00.50 | Nonaromatic organic compounds, nesoi | Pharma.
3001.20.00 | Extracts of glands or other organs or of their secretions for organotherapeutic uses | Pharma.
3001.90.01 | Glands and other organs for organotherapeutic uses, dried, whether or not powdered | Pharma.
3002.12.00 | Antisera and other blood fractions including human blood and fetal bovine serum | Pharma.
3002.13.00 | Immunological products, unmixed, not put up in measured doses or in forms or packings for retail sale | Pharma.
3002.14.00 | Immunological products, mixed, not put up in measured doses or in forms or packings for retail sale | Pharma.
3002.15.00 | Immunological products, put up in measured doses or in forms or packings for retail sale | Pharma.
3002.41.00 | Vaccines for human medicine | Pharma.
3002.42.00 | Vaccines for veterinary medicine | Pharma.
3002.49.00 | Toxins or cultures of micro-organisms (excluding yeasts) | Pharma.
3002.51.00 | Cell therapy products | Pharma.
3002.59.00 | Other cell cultures, other than cell therapy products | Pharma.
3002.90.10 | Ferments, excluding yeasts | Pharma.
3002.90.52 | Human blood; animal blood prepared for therapeutic, prophylactic, diagnostic uses; antisera; antiallergenic preparations nesoi and like products | Pharma.
3003.10.00 | Medicaments, containing penicillins or streptomycins, not dosage form and not packed for retail | Pharma.
3003.20.00 | Medicaments containing antibiotics, nesoi, not dosage form and not packed for retail | Pharma.
3003.31.00 | Medicaments containing insulin, not dosage form and not packed for retail | Pharma.
3003.39.10 | Medicaments containing artificial mixtures of natural hormones, but not antibiotics, not dosage form and not packed for retail | Pharma.
3003.39.50 | Medicaments containing products of heading 2937, nesoi, but not antibiotics, not dosage form and not packed for retail | Pharma.
3003.41.00 | Medicaments containing ephedrine or its salts, not dosage form and not packed for retail | Pharma.
3003.42.00 | Medicaments containing pseudoephedrine (INN) or its salts, not dosage form and not packed for retail | Pharma.
3003.43.00 | Medicaments containing norephedrine or its salts, not dosage form and not packed for retail | Pharma.
3003.49.00 | Other medicaments containing alkaloids or derivatives thereof, nesoi, not dosage form and not packed for retail | Pharma.
3003.60.00 | Other medicaments containing antimalarial active principles described in subheading note 2 to this chapter, not dosage form and not packed for retail | Pharma.
3003.90.01 | Other medicaments (excluding goods of heading 3002, 3005 or 3006) consisting of two or more constituents mixed together for therapeutic or prophylactic uses, not dosage form and not packed for retail | Pharma.
3004.10.10 | Medicaments containing penicillin G salts, in dosage form or packed for retail | Pharma.
3004.10.50 | Medicaments containing penicillins or streptomycins, nesoi, in dosage form or packed for retail | Pharma.
3004.20.00 | Medicaments containing antibiotics, nesoi, in dosage form or packed for retail | Pharma.
3004.31.00 | Medicaments containing insulin, in dosage form or packed for retail | Pharma.
3004.32.00 | Medicaments containing adrenal cortical hormones, in dosage form or packed for retail | Pharma.
3004.39.00 | Medicaments containing products of heading 2937 nesoi, in dosage form or packed for retail | Pharma.
3004.41.00 | Medicaments containing ephedrine or its salts, in dosage form or packed for retail | Pharma.
3004.42.00 | Medicaments containing pseudoephedrine (INN) or its salts, in dosage form or packed for retail | Pharma.
3004.43.00 | Medicaments containing norephedrine or its salts, in dosage form or packed for retail | Pharma.
3004.49.00 | Other medicaments containing alkaloids or derivatives thereof, nesoi, in dosage form or packed for retail | Pharma.
3004.50.10 | Medicaments containing vitamin B2 synthesized from aromatic or modified aromatic compounds, in dosage form or packed for retail | Pharma.
3004.50.20 | Medicaments containing vitamin B12 synthesized from aromatic or modified aromatic compounds, in dosage form or packed for retail | Pharma.
3004.50.30 | Medicaments containing vitamin E synthesized from aromatic or modified aromatic compounds, in dosage form or packed for retail | Pharma.
3004.50.40 | Medicaments containing vitamins nesoi, synthesized from aromatic or modified aromatic compounds, in dosage form or packed for retail | Pharma.
3004.50.50 | Medicaments containing vitamins or other products of heading 2936, nesoi, in dosage form or packed for retail | Pharma.
3004.60.00 | Other medicaments containing antimalarial active principles described in subheading note 2 to this chapter, in dosage form or packed for retail | Pharma.
3004.90.10 | Medicaments containing antigens or hyaluronic acid or its sodium salt, nesoi, in dosage form or packed for retail | Pharma.
3004.90.92 | Medicaments nesoi, in dosage form or packed for retail | Pharma.
3006.30.10 | Opacifying preparation for X-ray examination; diagnostic reagents designed to be administered to the patient; all containing antigens or antisera | Pharma.
3006.30.50 | Opacifying preparations for X-ray examinations; diagnostic reagents designed to be administered to the patient, nesoi | Pharma.
3006.60.00 | Chemical contraceptive preparations based on hormones or spermicides | Pharma.
3006.70.00 | Gel preparations designed to be used in human/veterinary medicine as a lubricant in surgical operation, physical exam or coupling agent between body and medical instrument | Pharma.
3006.92.00 | Waste pharmaceuticals | Pharma.
3006.93.10 | Placebos and blinded clinical trial kits, put up in measured doses, packaged with medicinal preparations | Pharma.
3006.93.20 | Placebos and blinded clinical trial kits, put up in measured doses, containing over 10% by dry weight of sugar | Pharma.
3006.93.50 | Placebos and blinded clinical trial kits, put up in measured doses, containing ingredients having nutritional value | Pharma.
3006.93.60 | Placebos and blinded clinical trial kits, put up in measured doses, in liquid form for oral intake | Pharma.
3006.93.80 | Placebos and blinded clinical trial kits, put up in measured doses, containing other chemicals other than medicaments | Pharma.
3104.20.00 | Potassium chloride
3104.30.00 | Potassium sulfate
3104.90.01 | Mineral or chemical fertilizers, potassic, nesoi
3203.00.80 | Coloring matter of vegetable or animal origin, nesoi | Pharma.
3204.13.60 | Basic dyes and preparations based thereon, described in additional U.S note 3 to section VI | Pharma.
3204.13.80 | Basic dyes and preparations based thereon, nesoi | Pharma.
3204.18.00 | Carotenoid coloring matters and preparations based thereon | Pharma.
3204.90.00 | Synthetic organic coloring matter or preparations based thereon, nesoi; synthetic organic products used as luminophores | Pharma.
3206.11.00 | Pigments and preparations based on titanium dioxide, containing 80 percent or more by weight of titanium dioxide calculated on the dry weight
3206.19.00 | Pigments and preparations based on titanium dioxide, nesoi
3301.29.51 | Essential oils other than those of citrus fruit, other, nesoi, for religious purposes only | Ex.
3401.30.10 | Organic surface-active products for washing skin, in liquid or cream form, containing any aromatic or modified aromatic surface-active agent, put up for retail | Pharma.
3402.42.10 | Non-ionic organic surface-active agents, aromatic or modified aromatic | Pharma.
3402.42.20 | Fatty substances of animal, vegetable or microbial origin; non-ionic organic surface-active agents, other than aromatic or modified aromatic | Pharma.
3402.42.90 | Non-ionic organic surface-active agents, other than fatty substances of animal, vegetable or microbial origin, other than aromatic or modified aromatic | Pharma.
3402.50.11 | Preparations of organic surface-active agents, put up for retail sale, containing any aromatic or modified aromatic surface-active agent | Pharma.
3507.90.70 | Enzymes and prepared enzymes, nesoi | Pharma.
3606.90.30 | Ferrocerium and other pyrophoric alloys in all forms
3802.10.00 | Activated carbon | Pharma.
3808.59.40 | Disinfectants specified in subheading note 1 to chapter 38 | Pharma.
3808.59.50 | Pesticides, nesoi, specified in subheading note 1 to chapter 38 | Pharma.
3808.61.50 | Pesticides, nesoi, not exceeding 300g, specified in subheading note 2 to chapter 38 | Pharma.
3808.94.10 | Disinfectants, containing any aromatic or modified aromatic disinfectant | Pharma.
3808.94.50 | Disinfectants not included in subheading note 1 of chapter 38, nesoi | Pharma.
3812.31.00 | Mixtures of oligomers of 2,2,4-trimethyl-1,2-dihydroquinoline (TMQ) | Pharma.
3815.11.00 | Supported catalysts with nickel or nickel compounds as the active substance | Pharma.
3815.12.00 | Supported catalysts with precious metal or precious metal compounds as the active substance | Pharma.
3815.90.50 | Reaction initiators, reaction accelerators and catalytic preparations, nesoi | Pharma.
3823.11.00 | Stearic acid
3823.12.00 | Oleic acid
3823.19.20 | Industrial monocarboxylic fatty acids or acid oils from refining derived from coconut, palm-kernel, or palm oil
3823.70.40 | Industrial fatty alcohols, other than oleyl, derived from fatty substances of animal or vegetable origin
3824.81.00 | Chemical mixtures containing oxirane (ethylene oxide) | Pharma.
3824.82.10 | Goods specified in subheading note 3 to chapter 38, containing PCBs, PCTs or PBBs, chlorinated but not otherwise halogenated, nesoi | Pharma.
3824.82.90 | Goods specified in subheading note 3 to chapter 38, containing PCBs, PCTs or PBBs, other than chlorinated only, nesoi | Pharma.
3824.83.00 | Containing tris(2,3-dibromopropyl) phosphate | Pharma.
3824.84.00 | Other mixtures containing aldrin, camphechlor (toxaphene), chlordane, chlordecone, DDT (clofenatone), 1,1,1-trichloro-2,2-bis(p-chlorophenyl)ethane), dieldrin, endosulfan, endrin, heptachlor or mirex | Pharma.
3824.85.00 | Mixtures containing 1,2,3,4,5,6-hexachlorocyclohexane (HCH (ISO)), including lindane (ISO,INN) | Pharma.
3824.86.00 | Mixtures containing pentachlorobenzene (ISO) or hexachlorobenzene (ISO) | Pharma.
3824.87.00 | Mixtures containing perfluorooctane sulfonic acid, its salts, perfluorooctane sulfonamides, or perfluorooctane sulfonyl fluoride | Pharma.
3824.88.00 | Mixtures containing tetra-, penta-, hexa-, hepta-, or octabromodiphenyl ethers | Pharma.
3824.89.00 | Mixtures containing short-chain chlorinated paraffins | Pharma.
3824.91.00 | Mixtures consisting mainly of methylphosphonate etc. | Pharma.
3824.92.00 | Polyglycol esters mixtures of methylphosphonic acid | Pharma.
3824.99.25 | Mixtures of triphenyl sulfonium chloride, diphenyl (4-phenylthio)phenyl sulfonium chloride and (thiodi-4,1- phenylene)bis(diphenyl sulfonium) dichloride | Pharma.
3824.99.29 | Mixtures containing 5% or more by weight of one or more aromatic or modified aromatic substance, nesoi | Pharma.
3824.99.49 | Mixtures that are in whole or in part of hydrocarbons derived in whole or in part from petroleum, shale oil or natural gas | Pharma.
3824.99.50 | Mixtures chlorinated but not otherwise halogenated | Pharma.
3824.99.55 | Mixtures of halogenated hydrocarbons, nesoi | Pharma.
3826.00.30 | Biodiesel containing less than 70% petroleum or bituminous oil | Pharma.
3827.13.00 | Mixtures containing carbon tetrachloride | Pharma.
3827.14.00 | Mixtures containing methyl chloroform | Pharma.
3827.40.00 | Mixtures containing bromomethane or bromochloromethane | Pharma.
3901.90.90 | Polymers of ethylene, nesoi, in primary forms, other than elastomeric | Pharma.
3902.90.00 | Polymers of propylene or of other olefins, nesoi, in primary forms | Pharma.
3904.61.00 | Polytetrafluoroethylene (PTFE), in primary forms | Pharma.
3905.91.10 | Copolymers of vinyl esters or other vinyls, in primary forms, containing by weight 50% or more of derivatives of vinyl acetate | Pharma.
3905.91.50 | Copolymers of vinyl esters or other vinyls, in primary forms, nesoi | Pharma.
3905.99.80 | Polymers of vinyl esters or other vinyl polymers, in primary forms, nesoi | Pharma.
3906.90.50 | Acrylic polymers (except plastics or elastomers), in primary forms, nesoi | Pharma.
3907.10.00 | Polyacetals in primary forms | Pharma.
3907.21.00 | Bis(polyoxyethylene) methylphosphonate | Pharma.
3907.70.00 | Poly(lactic acid) | Pharma.
3908.10.00 | Polyamide-6, -11, -12, -6,6, -6,9, -6,10 or -6,12 in primary form | Pharma.
3908.90.20 | Bis(4-amino-3-methylcyclohexyl)methaneisophthalic acid-laurolactam copolymer | Pharma.
3909.10.00 | Urea resins; thiourea resins | Pharma.
3909.40.00 | Phenolic resins | Pharma.
3911.20.00 | Poly(1,3-phenylene methylphosphonate) | Pharma.
3911.90.25 | Thermoplastic polysulfides, polysulfones and other products specified in note 3 to chapter 39, containing aromatic monomer units or derived therefrom | Pharma.
3911.90.45 | Thermosetting polysulfides, polysulfones and other products specified in note 3 to chapter 39, containing aromatic monomer units or derived therefrom | Pharma.
3911.90.91 | Polysulfides, polysulfones and other products specified in note 3 to chapter 39, nesoi | Pharma.
3912.20.00 | Cellulose nitrates (including collodions), in primary forms | Pharma.
3912.31.00 | Carboxymethylcellulose and its salts | Pharma.
3912.39.00 | Cellulose ethers, other than carboxymethylcellulose and its salts, in primary forms | Pharma.
3912.90.00 | Cellulose and its chemical derivatives, nesoi, in primary forms | Pharma.
3913.90.20 | Polysaccharides and their derivatives, nesoi, in primary forms | Pharma.
3913.90.50 | Natural polymers and modified natural polymers, nesoi, in primary forms | Pharma.
3914.00.20 | Cross-linked polyvinylbenzyltrimethylammonium chloride (Cholestyramine resin USP) | Pharma.
3914.00.60 | Ion-exchangers based on polymers of headings 3901 to 3913, in primary forms, nesoi | Pharma.
3917.21.00 | Tubes, pipes and hoses, rigid, of polymers of ethylene | Aircraft.
3917.22.00 | Tubes, pipes and hoses, rigid, of polymers of propylene | Aircraft.
3917.23.00 | Tubes, pipes and hoses, rigid, of polymers of vinyl chloride | Aircraft.
3917.29.00 | Tubes, pipes and hoses, rigid, of other plastics nesoi | Aircraft.
3917.31.00 | Flexible plastic tubes, pipes and hoses, having a minimum burst pressure of 27.6 MPa | Aircraft.
3917.33.00 | Flexible plastic tubes, pipes and hoses, nesoi, with fittings, not reinforced or otherwise combined with other materials | Aircraft.
3917.39.00 | Flexible plastic tubes, pipes and hoses, nesoi | Aircraft.
3917.40.00 | Fittings of plastics, for plastic tubes, pipes and hoses, nesoi | Aircraft.
3926.90.45 | Gaskets, washers and other seals, of plastics | Aircraft.
3926.90.94 | Cards, not punched, suitable for use as, or in making, jacquard cards; Jacquard cards and jacquard heads for power-driven weaving machines, and parts thereof; and transparent sheeting of plastics containing 30% or more by weight of lead | Aircraft.
3926.90.96 | Casing for bicycle derailleur cables; and casing for cable or inner wire for caliper and cantilever brakes, whether or not cut to length; of plastic | Aircraft.
3926.90.99 | Other articles of plastic, nesoi | Aircraft.
4008.29.20 | Rods and profile shapes of vulcanized, noncellular rubber, other than hard rubber | Aircraft.
4009.12.00 | Tubes, pipes and hoses of vulcanized rubber other than hard rubber, not reinforced or combined with other materials, with fittings | Aircraft.
4009.22.00 | Tubes, pipes and hoses of vulcanized rubber other than hard rubber, reinforced or combined only with metal, with fittings | Aircraft.
4009.32.00 | Tubes, pipes and hoses of vulcanized rubber other than hard rubber, reinforced or combined only with textile materials, with fittings | Aircraft.
4009.42.00 | Tubes, pipes and hoses of vulcanized rubber other than hard rubber, reinforced or combined with other materials nesoi, with fittings | Aircraft.
4011.30.00 | New pneumatic tires, of rubber, of a kind used on aircraft | Aircraft.
4012.13.00 | Retreaded pneumatic tires, of rubber, of a kind used on aircraft | Aircraft.
4012.20.10 | Used pneumatic tires of rubber, for aircraft | Aircraft.
4016.10.00 | Articles of vulcanized cellular rubber other than hard rubber | Aircraft.
4016.93.50 | Gaskets, washers and other seals, of noncellular vulcanized rubber other than hard rubber, not for use in automotive goods of chapter 87 | Aircraft.
4016.99.35 | Articles made of noncellular vulcanized natural rubber, not used as vibration control goods in vehicles of headings 8701 through 8705, nesoi | Aircraft.
4016.99.60 | Articles of noncellular vulcanized synthetic rubber other than hard rubber | Aircraft.
4017.00.00 | Hard rubber (for example, ebonite) in all forms, including waste and scrap; articles of hard rubber | Aircraft.
4501.10.00 | Natural cork, raw or simply prepared
4501.90.20 | Waste cork
4501.90.40 | Crushed, granulated or ground cork
4502.00.00 | Natural cork, debacked or roughly squared or in rectangular blocks, plates, sheets or strip (including sharp-edged blanks for corks or stoppers)
4503.10.20 | Corks and stoppers of natural cork, tapered and of a thickness (or length) greater than the maximum diameter, not over 19mm maximum diameter
4503.10.30 | Corks and stoppers wholly of natural cork, tapered and of a thickness (or length) greater than the maximum diameter, over 19mm maximum diameter
4503.10.40 | Corks and stoppers of natural cork, tapered and of a thickness (or length) greater than the maximum diameter, over 19mm maximum diameter, nesoi
4503.10.60 | Corks and stoppers of natural cork, of a thickness (or length) not greater than the maximum diameter
4503.90.20 | Disks, wafers and washers of natural cork
4503.90.40 | Natural cork wallcoverings, backed with paper or otherwise reinforced
4503.90.60 | Articles of natural cork, other than corks and stoppers
4504.10.10 | Vulcanized sheets and slabs wholly of agglomerated ground or pulverized cork and rubber
4504.10.20 | Insulation of compressed agglomerated cork, coated or not coated
4504.10.30 | Floor coverings of agglomerated cork
4504.10.40 | Agglomerated cork wallcoverings, backed with paper or otherwise reinforced
4504.10.45 | Agglomerated cork stoppers, not tapered, wholly of cork, of a thickness (or length) greater than the maximum diameter
4504.10.47 | Corks, stoppers, disks, wafers and washers of agglomerated cork, nesoi
4504.10.50 | Blocks, plates, sheets and strip; tiles of any shape; solid cylinder; all the foregoing of cork; all the foregoing, nesoi
4504.90.00 | Agglomerated cork and articles of cork, nesoi
4823.90.10 | Articles of paper pulp, nesoi | Aircraft.
4823.90.20 | Articles of papier-mâché, nesoi | Aircraft.
4823.90.31 | Cards of paper or paperboard, nesoi, not punched, for punchcard machines, whether or not in strips | Aircraft.
4823.90.40 | Frames or mounts for photographic slides of paper or paperboard | Aircraft.
4823.90.50 | Hand fans of paper or paperboard | Aircraft.
4823.90.60 | Gaskets, washers and other seals of coated paper or paperboard | Aircraft.
4823.90.67 | Coated paper or paperboard, nesoi | Aircraft.
4823.90.70 | Articles of cellulose wadding, nesoi | Aircraft.
4823.90.80 | Gaskets, washers and other seals of paper, paperboard and webs of cellulose fibers, nesoi | Aircraft.
4823.90.86 | Articles of paper pulp, paper, paperboard, cellulose wadding or webs of cellulose fibers, nesoi | Aircraft.
5004.00.00 | Silk yarns (other than yarn spun from silk waste), not put up for retail sale
5005.00.00 | Yarn spun from silk waste, not put up for retail sale
5006.00.10 | Spun yarn, containing 85% or more by weight of silk, put up for retail sale; silkworm gut
5006.00.90 | Spun silk yarn, containing less than 85% by weight of silk, put up for retail sale
5007.10.30 | Woven fabrics of noil silk, containing 85% or more by weight of silk or silk waste
5007.10.60 | Woven fabrics of noil silk, containing less than 85% by weight of silk or silk waste
5007.20.00 | Woven fabrics containing 85% or more by weight of silk or silk waste, other than noil silk
5007.90.30 | Woven silk fabrics, containing 85% or more by weight of silk or silk waste, nesoi
6812.80.90 | Articles or mixtures of crocidolite, nesoi | Aircraft.
6812.99.10 | Paper, millboard and felt of asbestos, other than crocidolite | Aircraft.
6812.99.20 | Compressed asbestos (other than crocidolite) fiber jointing, in sheets or rolls | Aircraft.
6812.99.90 | Articles of mixtures of or with a basis of asbestos, nesoi, other than crocidolite | Aircraft.
6813.20.00 | Friction material and articles thereof, containing asbestos | Aircraft.
6813.81.00 | Brake linings and pads not containing asbestos | Aircraft.
6813.89.00 | Friction material and articles thereof with a basis of mineral substances (other than asbestos) or of cellulose, nesoi | Aircraft.
7007.21.11 | Laminated safety glass windshields, of size and shape suitable for incorporation in vehicles (other than for goods of headings 8701 through 8705), aircraft, spacecraft or vessels | Aircraft.
7101.10.30 | Natural pearls, graded and temporarily strung for convenience of transport
7101.10.60 | Natural pearls, not strung, mounted or set
7102.10.00 | Diamonds, unsorted, whether or not worked
7102.31.00 | Nonindustrial diamonds, unworked or simply sawn, cleaved or bruted
7102.39.00 | Nonindustrial diamonds, worked, but not mounted or set
7103.10.20 | Precious stones (other than diamonds) and semiprecious stones, unworked
7103.10.40 | Precious stones (other than diamonds) and semiprecious stones, simply sawn or roughly shaped
7103.91.00 | Rubies, sapphires and emeralds, worked, whether or not graded, but not strung, mounted or set
7103.99.10 | Precious or semiprecious stones, nesoi, cut but not set, suitable for use in the manufacture of jewelry
7103.99.50 | Precious or semiprecious stones, nesoi, worked, whether or not graded, but not strung, mounted or set
7110.11.00 | Platinum, unwrought or in powder form
7110.19.00 | Platinum, in semimanufactured forms
7110.21.00 | Palladium, unwrought or in powder form
7110.29.00 | Palladium, in semimanufactured forms
7110.31.00 | Rhodium, unwrought or in powder form
7110.39.00 | Rhodium, in semimanufactured forms
7110.41.00 | Iridium, osmium and ruthenium, unwrought or in powder form
7110.49.00 | Iridium, osmium and ruthenium, in semimanufactured forms
7112.92.01 | Platinum waste and scrap, including metal clad with platinum, excluding sweepings containing other precious metals, other than goods of heading 8549
7118.90.00 | Coins, nesoi
7201.10.00 | Nonalloy pig iron containing by weight 0.5% or less of phosphorus
7201.20.00 | Nonalloy pig iron containing by weight more than 0.5% of phosphorus
7201.50.30 | Alloy pig iron in blocks or other primary forms
7202.11.10 | Ferromanganese containing by weight more than 2% but not more than 4% of carbon
7202.11.50 | Ferromanganese containing by weight more than 4% of carbon
7202.19.10 | Ferromanganese containing by weight not more than 1% of carbon
7202.19.50 | Ferromanganese containing by weight more than 1% but not more than 2% of carbon
7202.30.00 | Ferrosilicon manganese
7202.41.00 | Ferrochromium containing by weight more than 4% of carbon
7202.49.10 | Ferrochromium containing by weight more than 3% but not more than 4% of carbon
7202.49.50 | Ferrochromium containing by weight 3% or less of carbon
7202.50.00 | Ferrosilicon chromium
7202.60.00 | Ferronickel
7202.80.00 | Ferrotungsten and ferrosilicon tungsten
7202.91.00 | Ferrotitanium and ferrosilicon titanium
7202.93.40 | Ferroniobium containing by weight less than 0.02% of phosphorus or sulfur or less than 0.4% of silicon
7202.93.80 | Ferroniobium, nesoi
7204.21.00 | Stainless steel waste and scrap
7205.10.00 | Pig iron, spiegeleisen, and iron or steel granules
7304.31.30 | Iron (other than cast) or nonalloy steel, seamless, cold-drawn or cold-rolled, hollow bars with circular cross section | Aircraft.
7304.31.60 | Iron (other than cast) or nonalloy steel, seamless, cold-drawn or cold-rolled, tubes, pipes and hollow profiles, with circular cross section, nesoi | Aircraft.
7304.39.00 | Iron (other than cast) or nonalloy steel, seamless, not cold-drawn or cold-rolled, tubes, pipes and hollow profiles, with circular cross section, nesoi | Aircraft.
7304.41.30 | Stainless steel, seamless, cold-drawn or cold-rolled, tubes, pipes and hollow profiles, with circular cross section and external diameter of less than 19mm | Aircraft.
7304.41.60 | Stainless steel, seamless, cold-drawn or cold-rolled, tubes, pipes and hollow profiles, with circular cross section and external diameter of 19mm or more | Aircraft.
7304.49.00 | Stainless steel, seamless, not cold-drawn or cold-rolled, tubes, pipes and hollow profiles, with circular cross section | Aircraft.
7304.51.10 | Alloy steel (other than stainless), seamless, cold-drawn or cold-rolled, tubes, pipes and hollow profiles, with circular cross section, for manufacture of ball or roller bearings | Aircraft.
7304.51.50 | Alloy steel (other than stainless), seamless, cold-drawn or cold-rolled, tubes, pipes and hollow profiles, with circular cross section, nesoi | Aircraft.
7304.59.10 | Alloy steel (other than stainless), seamless, not old-drawn or cold-rolled, tubes, pipes and hollow profiles, with circular cross section, for manufacture of ball or roller bearings | Aircraft.
7304.59.20 | Alloy steel (other than stainless), seamless, not cold-drawn or cold-rolled, tubes, pipes and hollow profiles, with circular cross section, for boilers, heaters, etc. | Aircraft.
7304.59.60 | Heat-resisting alloy steel (other than stainless), seamless, not cold-drawn or cold-rolled, tubes, pipes and hollow profiles, with circular cross section, nesoi | Aircraft.
7304.59.80 | Alloy steel (other than heat-resist or stainless), seamless, not cold-drawn or cold-rolled, tubes, pipes and hollow profiles, with circular cross section, nesoi | Aircraft.
7304.90.10 | Iron (other than cast) or nonalloy steel, seamless, tubes, pipes and hollow profiles, other than circular cross section, with wall thickness of 4 mm or more | Aircraft.
7304.90.30 | Alloy steel (other than stainless), seamless, tubes, pipes and hollow profiles, other than circular cross section, with wall thickness of 4 mm or more | Aircraft.
7304.90.50 | Iron (other than cast) or nonalloy steel, seamless, tubes, pipes and hollow profiles, other than circular cross section, with wall thickness of less than 4 mm | Aircraft.
7304.90.70 | Alloy steel (other than stainless), seamless, tubes, pipes and hollow profiles, other than circular cross section, with wall thickness of less than 4 mm | Aircraft.
7306.30.10 | Iron or nonalloy steel, welded, with circular cross section and external diameter of 406.4mm or less, tubes, pipes and hollow profiles, with wall thickness of less than 1.65 mm | Aircraft.
7306.30.30 | Nonalloy steel, welded, with circular cross-section and external diameter 406.4mm or less, tapered pipes and tubes, with wall thickness of 1.65 mm+, principally used as parts of illuminating articles | Aircraft.
7306.30.50 | Iron or nonalloy steel, welded, with circular cross section and external diameter of 406.4mm or less, pipes, tubes and hollow profiles, with wall thickness of 1.65 mm or more | Aircraft.
7306.40.10 | Stainless steel, welded, with circular cross section and external diameter of 406.4mm or less, tubes, pipes and hollow profiles, with wall thickness of less than 1.65 mm | Aircraft.
7306.40.50 | Stainless steel, welded, with circular cross section and external diameter of 406.4mm or less, tubes, pipes and hollow profiles, with wall thickness of 1.65 mm or more | Aircraft.
7306.50.10 | Alloy steel (other than stainless), welded, with circular cross section and external diameter of 406.4mm or less, tubes, pipes and hollow profiles, with wall thickness of less than 1.65 mm | Aircraft.
7306.50.30 | Alloy steel (other than stainless), welded, with circular cross section and external diameter 406.4mm or less, tapered pipes and tubes, with wall thickness of 1.65 mm or more, principally used as parts of illuminating articles | Aircraft.
7306.50.50 | Alloy steel (other than stainless), welded, with circular cross section and external diameter of 406.4mm or less, tubes, pipes and hollow profiles, with wall thickness of 1.65 mm or more | Aircraft.
7306.61.10 | Iron or nonalloy steel, welded, with square or rectangular cross section, tubes, pipes and hollow profiles, with wall thickness of 4 mm or more | Aircraft.
7306.61.30 | Alloy steel, welded, with square or rectangular cross section, tubes, pipes and hollow profiles, with wall thickness of 4 mm or more | Aircraft.
7306.61.50 | Iron or nonalloy steel, welded, with square or rectangular cross section, tubes, pipes and hollow profiles, with wall thickness of less than 4 mm | Aircraft.
7306.61.70 | Alloy steel, welded, with square or rectangular cross section, tubes, pipes and hollow profiles, with wall thickness of less than 4 mm | Aircraft.
7306.69.10 | Iron or nonalloy steel, welded, with other non-circular cross section, tubes, pipes and hollow profiles, with wall thickness of 4 mm or more | Aircraft.
7306.69.30 | Alloy steel, welded, with other non-circular cross-section, tubes, pipes and hollow profiles, with wall thickness of 4 mm or more | Aircraft.
7306.69.50 | Iron or nonalloy steel, welded, with other non-circular cross section, tubes, pipes and hollow profiles, with wall thickness of less than 4 mm | Aircraft.
7306.69.70 | Alloy steel, welded, with other non-circular cross section, tubes, pipes and hollow profiles, with wall thickness of less than 4 mm | Aircraft.
7312.10.05 | Stainless steel, stranded wire, not electrically insulated, fitted with fittings or made up into articles | Aircraft.
7312.10.10 | Stainless steel, stranded wire, not electrically insulated, not fitted with fittings or made up into articles | Aircraft.
7312.10.20 | Iron or steel (other than stainless), stranded wire, not electrically insulated, fitted with fittings or made up into articles | Aircraft.
7312.10.30 | Iron or steel (other than stainless), stranded wire, not electrically insulated, not fitted with fittings or made up into articles | Aircraft.
7312.10.50 | Stainless steel, ropes, cables and cordage (other than stranded wire), not electrically insulated, fitted with fittings or made up into articles | Aircraft.
7312.10.60 | Stainless steel, ropes, cables and cordage (other than stranded wire), not electrically insulated, not fitted with fittings or made up into articles | Aircraft.
7312.10.70 | Iron or steel (other than stainless), ropes, cables and cordage (other than stranded wire), not electrically insulated, fitted with fittings or made up into articles | Aircraft.
7312.10.80 | Iron or steel (other than stainless), ropes, cables and cordage, of brass plated wire (other than stranded wire), not electrically insulated, without fittings or articles | Aircraft.
7312.10.90 | Iron or steel (other than stainless), ropes, cables and cordage, other than of brass plate wire (other than stranded wire), not electrically insulated, without fittings or articles | Aircraft.
7312.90.00 | Iron or steel (other than stainless), plaited bands, slings and the like, not electrically insulated | Aircraft.
7322.90.00 | Iron or steel, non-electrically heated air heaters and hot air distributors with motor driven fan or blower and parts thereof | Aircraft.
7324.10.00 | Stainless steel, sinks and wash basins | Aircraft.
7324.90.00 | Iron or steel, sanitary ware (other than baths or stainless steel sinks and wash basins) and parts thereof | Aircraft.
7326.20.00 | Iron or steel, articles of wire, nesoi | Aircraft.
7413.00.90 | Copper, stranded wire, cables, plaited bands and the like, not electrically insulated, fitted with fittings or made up into articles | Aircraft.
7501.10.00 | Nickel mattes
7502.10.00 | Nickel (other than alloy), unwrought
7502.20.00 | Nickel alloys, unwrought
7503.00.00 | Nickel, waste and scrap
7504.00.00 | Nickel, powders and flakes
7508.90.50 | Nickel, articles of nesoi | Pharma.
7608.10.00 | Aluminum (other than alloy), tubes and pipes | Aircraft.
7608.20.00 | Aluminum alloy, tubes and pipes | Aircraft.
7901.11.00 | Zinc (other than alloy), unwrought, containing 99.99% or more by weight of zinc
7901.12.10 | Zinc (other than alloy), unwrought, casting-grade zinc, containing at least 97.5% but less than 99.99% by weight of zinc
7901.12.50 | Zinc (other than alloy), unwrought, other than casting-grade zinc, containing at least 97.5% but less than 99.99% by weight of zinc
7901.20.00 | Zinc alloy, unwrought
7902.00.00 | Zinc, waste and scrap
7903.90.30 | Zinc, powders
7907.00.60 | Zinc, articles (other than for household, table or kitchen use), nesoi | Pharma.
8001.10.00 | Tin (other than alloy), unwrought
8001.20.00 | Tin alloy, unwrought
8002.00.00 | Tin, waste and scrap
8007.00.50 | Tin, articles nesoi | Pharma.
8101.10.00 | Tungsten, powders
8101.97.00 | Tungsten waste and scrap
8103.20.00 | Tantalum, unwrought (including bars and rods obtained simply by sintering); tantalum powders
8103.30.00 | Tantalum waste and scrap
8103.91.00 | Tantalum, crucibles
8104.11.00 | Magnesium, unwrought, containing at least 99.8% by weight of magnesium
8104.19.00 | Magnesium, unwrought, nesoi
8104.20.00 | Magnesium, waste and scrap
8104.30.00 | Magnesium, raspings, turnings and granules graded according to size; magnesium powders
8104.90.00 | Magnesium, articles nesoi
8105.20.30 | Cobalt alloys, unwrought
8105.20.60 | Cobalt (other than alloys), unwrought
8105.20.90 | Cobalt, mattes and other intermediate products of cobalt metallurgy; cobalt powders
8105.30.00 | Cobalt waste and scrap
8106.10.00 | Bismuth (including waste and scrap) and articles thereof, containing more than 99.99% of bismuth by weight
8106.90.00 | Bismuth (including waste and scrap) and articles thereof, containing 99.99% of bismuth or less, nesoi
8108.20.00 | Titanium, unwrought; titanium powders
8108.30.00 | Titanium waste and scrap
8108.90.60 | Wrought titanium, nesoi | Aircraft.
8110.10.00 | Antimony, unwrought; antimony powders
8110.20.00 | Antimony waste and scrap
8110.90.00 | Articles of antimony, nesoi
8111.00.47 | Unwrought manganese flake containing at least 99.5% by weight of manganese
8111.00.49 | Unwrought manganese, nesoi
8112.21.00 | Chromium, unwrought; chromium powders
8112.22.00 | Chromium waste and scrap
8112.41.10 | Rhenium, waste and scrap
8112.41.50 | Rhenium, unwrought; rhenium powders
8112.59.00 | Articles of thallium, nesoi | Pharma.
8112.92.07 | Waste and scrap of gallium, germanium, indium, niobium, or vanadium
8112.92.10 | Gallium, unwrought; gallium powders
8112.92.30 | Indium, unwrought; indium powders
8112.92.40 | Niobium (columbium), unwrought; niobium powders
8112.92.60 | Germanium, unwrought
8112.92.65 | Germanium powder, wrought
8112.99.10 | Germanium nesoi and articles thereof
8112.99.91 | Articles of gallium, indium, or niobium, nesoi
8302.10.60 | Iron or steel, aluminum, or zinc hinges and base metal parts thereof, not designed for motor vehicles | Aircraft.
8302.10.90 | Base metal (other than iron or steel or aluminum or zinc) hinges and base metal parts thereof | Aircraft.
8302.20.00 | Base metal castors and base metal parts thereof | Aircraft.
8302.42.30 | Iron or steel, aluminum, or zinc mountings, fittings and similar articles, suitable for furniture, and base metal parts thereof | Aircraft.
8302.42.60 | Base metal (other than iron or steel or aluminum or zinc) mountings, fittings and similar articles, suitable for furniture, and base metal parts thereof | Aircraft.
8302.49.40 | Base metal harness, saddlery or riding-bridle hardware, not coated or plated with precious metal, and base metal parts thereof | Aircraft.
8302.49.60 | Iron or steel, aluminum, or zinc, mountings, fittings and similar articles nesoi, and base metal parts thereof | Aircraft.
8302.49.80 | Base metal (other than iron or steel or aluminum or zinc) mountings, fittings and similar articles nesoi, and base metal parts thereof | Aircraft.
8302.60.30 | Base metal automatic door closers | Aircraft.
8307.10.30 | Iron or steel flexible tubing, with fittings | Aircraft.
8307.90.30 | Base metal (other than iron or steel) flexible tubing, with fittings | Aircraft.
8407.10.00 | Spark-ignition reciprocating or rotary internal combustion piston engines for use in aircraft | Aircraft.
8408.90.90 | Compression-ignition internal-combustion piston engines, for machinery or equipment, nesoi | Aircraft.
8409.10.00 | Parts for internal combustion aircraft engines | Aircraft.
8411.11.40 | Aircraft turbojets of a thrust not exceeding 25 kN | Aircraft.
8411.11.80 | Turbojets of a thrust not exceeding 25 kN, other than aircraft | Aircraft.
8411.12.40 | Aircraft turbojets of a thrust exceeding 25 kN | Aircraft.
8411.12.80 | Turbojets of a thrust exceeding 25 kN, other than aircraft | Aircraft.
8411.21.40 | Aircraft turbopropellers of a power not exceeding 1,100 kW | Aircraft.
8411.21.80 | Turbopropellers of a power not exceeding 1,100 kW, other than aircraft | Aircraft.
8411.22.40 | Aircraft turbopropellers of a power exceeding 1,100 kW | Aircraft.
8411.22.80 | Turbopropellers of a power exceeding 1,100 kW, other than aircraft | Aircraft.
8411.81.40 | Aircraft gas turbines other than turbojets or turbopropellers, of a power not exceeding 5,000 kW | Aircraft.
8411.82.40 | Aircraft gas turbines other than turbojets or turbopropellers, of a power exceeding 5,000 kW | Aircraft.
8411.91.10 | Cast-iron parts of turbojets or turbopropellers, not advanced beyond cleaning, machined only for removal of fins, gates, sprues and risers, or to permit location in machinery | Aircraft.
8411.91.90 | Parts of turbojets or turbopropellers other than those of subheading 8411.91.10 | Aircraft.
8411.99.10 | Cast-iron parts of gas turbines nesoi, not advanced beyond cleaning, and machined for removal of fins, gates, sprues and risers | Aircraft.
8411.99.90 | Parts of gas turbines nesoi, other than those of subheading 8411.99.10 | Aircraft.
8412.10.00 | Reaction engines other than turbojets | Aircraft.
8412.21.00 | Hydraulic power engines and motors, linear acting (cylinders) | Aircraft.
8412.29.40 | Hydrojet engines for marine propulsion | Aircraft.
8412.29.80 | Hydraulic power engines and motors, nesoi | Aircraft.
8412.31.00 | Pneumatic power engines and motors, linear acting (cylinders) | Aircraft.
8412.39.00 | Pneumatic power engines and motors, other than linear acting | Aircraft.
8412.80.10 | Spring-operated and weight-operated motors | Aircraft.
8412.80.90 | Engines and motors, nesoi (excluding motors of heading 8501) | Aircraft.
8412.90.90 | Parts for engines of heading 8412 other than hydrojet engines for marine propulsion | Aircraft.
8413.19.00 | Pumps for liquids fitted or designed to be fitted with a measuring device, nesoi | Aircraft.
8413.20.00 | Hand pumps other than those of subheading 8413.11 or 8413.19, not fitted with a measuring device | Aircraft.
8413.30.10 | Fuel-injection pumps for compression-ignition engines, not fitted with a measuring device | Aircraft.
8413.30.90 | Fuel, lubricating or cooling medium pumps for internal-combustion piston engines, not fitted with a measuring device, nesoi | Aircraft.
8413.50.00 | Reciprocating positive displacement pumps for liquids, not fitted with a measuring device, nesoi | Aircraft.
8413.60.00 | Rotary positive displacement pumps for liquids, not fitted with a measuring device, nesoi | Aircraft.
8413.70.10 | Stock pumps imported for use with machines for making cellulosic pulp, paper or paperboard, not fitted with a measuring device | Aircraft.
8413.70.20 | Centrifugal pumps for liquids, not fitted with a measuring device, nesoi | Aircraft.
8413.81.00 | Pumps for liquids, not fitted with a measuring device, nesoi | Aircraft.
8413.91.10 | Parts of fuel-injection pumps for compression-ignition engines | Aircraft.
8413.91.20 | Parts of stock pumps imported for use with machines for making cellulosic pulp, paper or paperboard | Aircraft.
8413.91.90 | Parts of pumps, nesoi | Aircraft.
8414.10.00 | Vacuum pumps | Aircraft.
8414.20.00 | Hand-operated or foot-operated air pumps | Aircraft.
8414.30.40 | Compressors of a kind used in refrigerating equipment (including air conditioning) not exceeding ¼ horsepower | Aircraft.
8414.30.80 | Compressors of a kind used in refrigerating equipment (including air conditioning) exceeding ¼ horsepower | Aircraft.
8414.51.30 | Ceiling fans for permanent installation, with a self-contained electric motor of an output not exceeding 125 W | Aircraft.
8414.51.90 | Table, floor, wall, window or roof fans, with a self-contained electric motor of an output not exceeding 125 W | Aircraft.
8414.59.30 | Turbocharger and supercharger fans | Aircraft.
8414.59.65 | Other fans, nesoi | Aircraft.
8414.80.05 | Turbocharger and supercharger air compressors | Aircraft.
8414.80.16 | Air compressors, nesoi | Aircraft.
8414.80.20 | Gas compressors, nesoi | Aircraft.
8414.80.90 | Air or gas pumps, compressors and fans, nesoi | Aircraft.
8414.90.10 | Parts of fans (including blowers) and ventilating or recycling hoods | Aircraft.
8414.90.30 | Stators and rotors of goods of subheading 8414.30 | Aircraft.
8414.90.41 | Parts of air or gas compressors, nesoi | Aircraft.
8414.90.91 | Parts of air or vacuum pumps, ventilating or recycling hoods, gas-tight biological safety cabinets | Aircraft.
8415.10.60 | Window or wall type air conditioning machines, split-system, incorporating a refrigerating unit and valve for reversal of cooling/heat cycle | Aircraft.
8415.10.90 | Window or wall type air conditioning machines, split-system, nesoi | Aircraft.
8415.81.01 | Air conditioning machines incorporating a refrigerating unit and valve for reversal of cooling/heat cycle, nesoi | Aircraft.
8415.82.01 | Air conditioning machines incorporating a refrigerating unit, nesoi | Aircraft.
8415.83.00 | Air conditioning machines not incorporating a refrigerating unit | Aircraft.
8415.90.40 | Chassis, chassis bases and other outer cabinets for air conditioning machines, | Aircraft.
8415.90.80 | Parts for air conditioning machines, nesoi | Aircraft.
8418.10.00 | Combined refrigerator-freezers, fitted with separate external doors, electric or other | Aircraft.
8418.30.00 | Freezers of the chest type, not exceeding 800 liters capacity, electric or other | Aircraft.
8418.40.00 | Freezers of the upright type, not exceeding 900 liters capacity, electric or other | Aircraft.
8418.61.01 | Heat pumps, other than the air-conditioning machines of heading 8415 | Aircraft.
8418.69.01 | Refrigerating or freezing equipment nesoi | Aircraft.
8419.50.10 | Brazed aluminum plate-fin heat exchangers | Aircraft.
8419.50.50 | Heat exchange units, nesoi | Aircraft.
8419.81.50 | Cooking stoves, ranges and ovens, other than microwave, for making hot drinks or for cooking or heating food, not used for domestic purposes | Aircraft.
8419.81.90 | Machinery and equipment nesoi, for making hot drinks or for cooking or heating food, not used for domestic purposes | Aircraft.
8419.90.10 | Parts of instantaneous or storage water heaters | Aircraft.
8419.90.20 | Parts of machinery and plant, for making paper pulp, paper or paperboard | Aircraft.
8419.90.30 | Parts of heat exchange units | Aircraft.
8419.90.50 | Parts of molten-salt-cooled acrylic acid reactors, nesoi; parts of certain medical, surgical or laboratory sterilizers, nesoi | Aircraft.
8419.90.85 | Parts of electromechanical tools for work in the hand, with self-contained electric motor, for treatment of materials by change in temperature | Aircraft.
8421.19.00 | Centrifuges, other than cream separators or clothes dryers | Aircraft.
8421.21.00 | Machinery and apparatus for filtering or purifying water | Aircraft.
8421.23.00 | Oil or fuel filters for internal combustion engines | Aircraft.
8421.29.00 | Filtering or purifying machinery and apparatus for liquids, nesoi | Aircraft.
8421.31.00 | Intake air filters for internal combustion engines | Aircraft.
8421.32.00 | Catalytic converters; particulate filters for internal combustion engines | Aircraft.
8421.39.01 | Filtering or purifying machinery and apparatus for gases, other than intake air filters or catalytic converters, for internal combustion engines | Aircraft.
8424.10.00 | Fire extinguishers, whether or not charged | Aircraft.
8425.11.00 | Pulley tackle and hoists other than skip hoists or hoists used for raising vehicles, powered by electric motor | Aircraft.
8425.19.00 | Pulley tackle and hoists other than skip hoists or hoists used for raising vehicles, not powered by electric motor | Aircraft.
8425.31.01 | Winches nesoi, and capstans, powered by electric motor | Aircraft.
8425.39.01 | Winches nesoi, and capstans, not powered by electric motor | Aircraft.
8425.42.00 | Hydraulic jacks and hoists, nesoi | Aircraft.
8425.49.00 | Jacks and hoists of a kind used for raising vehicles, other than hydraulic, nesoi | Aircraft.
8426.99.00 | Derricks, cranes and other lifting machinery nesoi | Aircraft.
8428.10.00 | Passenger or freight elevators other than continuous action; skip hoists | Aircraft.
8428.20.00 | Pneumatic elevators and conveyors | Aircraft.
8428.33.00 | Belt type continuous-action elevators and conveyors, for goods or materials | Aircraft.
8428.39.00 | Continuous-action elevators and conveyors, for goods or materials, nesoi | Aircraft.
8428.90.03 | Machinery for lifting, handling, loading or unloading, nesoi | Aircraft.
8443.31.00 | Multifunction units (machines which perform two or more of the functions of printing, copying or facsimile transmission, capable of connecting to an automatic data processing machine or to a network) | Aircraft.
8443.32.10 | Printer units, capable of connecting to an automatic data processing machine or to a network | Aircraft.
8443.32.50 | Single function units other than printer units (machines which perform only one of the functions of printing, copying or facsimile transmission) | Aircraft.
8471.41.01 | Automatic data processing machines, nonportable or over 10 kg, comprising in the same housing at least a central processing unit and an input and output unit, whether or not combined | Aircraft.
8471.49.00 | Automatic data processing machines, nesoi, entered in the form of systems (consisting of at least a central processing unit, and an input and output unit) | Aircraft.
8471.50.01 | Processing units other than those of subheading 8471.41 and 8471.49, nesoi | Aircraft.
8471.60.10 | Combined input/output units for automatic data processing machines not entered with the rest of a system | Aircraft.
8471.60.20 | Keyboards for automatic data processing machines not entered with the rest of a system | Aircraft.
8471.60.70 | Input or output units suitable for physical incorporation into an automatic data processing machine or unit thereof, nesoi, not entered with the rest of a system | Aircraft.
8471.60.80 | Optical scanners and magnetic ink recognition devices not entered with the rest of an automatic data processing system | Aircraft.
8471.60.90 | Other input or output units of digital automatic data processing machines, nesoi, not entered with the rest of a system | Aircraft.
8471.70.10 | Automatic data processing magnetic disk drive storage units, disk diameter exceeding 21 cm, without read-write unit assembled therein; read-write units; all not entered with the rest of a system | Aircraft.
8471.70.20 | Automatic data processing magnetic disk drive storage units, disk diameter exceeding 21 cm, for incorporation into automatic data processing machines or units, not entered with the rest of a system | Aircraft.
8471.70.30 | Automatic data processing magnetic disk drive storage units, disk diameter exceeding 21 cm, nesoi, not entered with the rest of a system | Aircraft.
8471.70.40 | Automatic data processing magnetic disk drive storage units, disk diameter not exceeding 21 cm, not assembled in cabinets, without attached external power supply, not entered with the rest of a system | Aircraft.
8471.70.50 | Automatic data processing magnetic disk drive storage units, disk diameter not exceeding 21 cm, nesoi, not entered with the rest of a system | Aircraft.
8471.70.60 | Automatic data processing storage units other than magnetic disk, not assembled in cabinets for placing on a table etc., not entered with the rest of a system | Aircraft.
8471.70.90 | Automatic data processing storage units other than magnetic disk drive units, nesoi, not entered with the rest of a system | Aircraft.
8479.89.10 | Air humidifiers or dehumidifiers with self-contained electric motor, other than for domestic purposes | Aircraft.
8479.89.20 | Floor polishers with self-contained electric motor, other than for domestic purposes | Aircraft.
8479.89.65 | Electromechanical appliances with self-contained electric motor, nesoi | Aircraft.
8479.89.70 | Carpet sweepers, not electromechanical with self-contained electric motor | Aircraft.
8479.89.95 | Other machines and mechanical appliances having individual functions, not specified or included elsewhere in chapter 84, nesoi | Aircraft.
8479.90.41 | Parts of floor polishers of subheading 8479.89.20; parts of carpet sweepers | Aircraft.
8479.90.45 | Parts of trash compactors, frame assemblies | Aircraft.
8479.90.55 | Parts of trash compactors, ram assemblies | Aircraft.
8479.90.65 | Parts of trash compactors, container assemblies | Aircraft.
8479.90.75 | Parts of trash compactors, cabinets or cases | Aircraft.
8479.90.85 | Parts of trash compactors, nesoi | Aircraft.
8479.90.95 | Parts of machines and mechanical appliances having individual functions, not specified or included elsewhere in chapter 84, nesoi | Aircraft.
8483.10.10 | Camshafts and crankshafts for use solely or principally with spark-ignition internal-combustion piston or rotary engines | Aircraft.
8483.10.30 | Camshafts and crankshafts nesoi | Aircraft.
8483.10.50 | Transmission shafts and cranks other than camshafts and crankshafts | Aircraft.
8483.30.40 | Bearing housings of the flange, take-up, cartridge and hanger unit type | Aircraft.
8483.30.80 | Bearing housings nesoi; plain shaft bearings | Aircraft.
8483.40.10 | Torque converters | Aircraft.
8483.40.30 | Fixed, multiple and variable ratio speed changers, imported for use with machines for making cellulosic pulp, paper or paperboard | Aircraft.
8483.40.50 | Fixed, multiple and variable ratio speed changers, not imported for use with machines for making cellulosic pulp, paper or paperboard | Aircraft.
8483.40.70 | Speed changers other than fixed, multiple and variable ratio speed changers | Aircraft.
8483.40.80 | Ball or roller screws | Aircraft.
8483.40.90 | Gears and gearing, other than toothed wheels, chain sprockets and other transmission elements entered separately | Aircraft.
8483.50.40 | Gray-iron awning or tackle pulleys, not over 6.4 cm in wheel diameter | Aircraft.
8483.50.60 | Flywheels, nesoi | Aircraft.
8483.50.90 | Pulleys, including pulley blocks, nesoi | Aircraft.
8483.60.40 | Clutches and universal joints | Aircraft.
8483.60.80 | Shaft couplings (other than universal joints) | Aircraft.
8483.90.10 | Chain sprockets and parts thereof | Aircraft.
8483.90.20 | Parts of flange, take-up, cartridge and hanger units | Aircraft.
8483.90.30 | Parts of bearing housings and plain shaft bearings, nesoi | Aircraft.
8483.90.50 | Parts of gearing, gear boxes and other speed changers | Aircraft.
8483.90.80 | Parts of transmission equipment, nesoi | Aircraft.
8484.10.00 | Gaskets and similar joints of metal sheeting combined with other material or of two or more layers of metal | Aircraft.
8484.90.00 | Sets or assortments of gaskets and similar joints dissimilar in composition, put up in pouches, envelopes or similar packings | Aircraft.
8501.20.50 | Universal AC/DC motors of an output exceeding 735 W but under 746 W | Aircraft.
8501.20.60 | Universal AC/DC motors of an output of 746 W or more | Aircraft.
8501.31.50 | DC motors, nesoi, of an output exceeding 735 W but under 746 W | Aircraft.
8501.31.60 | DC motors nesoi, of an output of 746 W but not exceeding 750 W | Aircraft.
8501.31.81 | DC generators, other than photovoltaic generators, of an output not exceeding 750 W | Aircraft.
8501.32.20 | DC motors nesoi, of an output exceeding 750 W but not exceeding 14.92 kW | Aircraft.
8501.32.55 | DC motors nesoi, of an output exceeding 14.92 kW but not exceeding 75 kW, nesoi | Aircraft.
8501.32.61 | DC generators, other than photovoltaic generators, of an output exceeding 750 W but not exceeding 75 kW | Aircraft.
8501.33.20 | DC motors nesoi, of an output exceeding 75 kW but under 149.2 kW | Aircraft.
8501.33.30 | DC motors, nesoi, 149.2 kW or more but not exceeding 150 kW | Aircraft.
8501.33.61 | DC generators, other than photovoltaic generators, of an output exceeding 75 kW but not exceeding 375 kW | Aircraft.
8501.34.61 | DC generators, other than photovoltaic generators, of an output exceeding 375 kW | Aircraft.
8501.40.50 | AC motors, nesoi, single-phase, exceeding 735 W but under 746 W | Aircraft.
8501.40.60 | AC motors nesoi, single-phase, of 746 W or more | Aircraft.
8501.51.50 | AC motors, nesoi, multi-phase, of an output exceeding 735 W but under 746 W | Aircraft.
8501.51.60 | AC motors nesoi, multi-phase of an output of 746 W but not exceeding 750 W | Aircraft.
8501.52.40 | AC motors nesoi, multi-phase, of an output exceeding 750 W but not exceeding 14.92 kW | Aircraft.
8501.52.80 | AC motors nesoi, multi-phase, of an output exceeding 14.92 kW but not exceeding 75 kW | Aircraft.
8501.53.40 | AC motors nesoi, multi-phase, of an output exceeding 75 kW but under 149.2 kW | Aircraft.
8501.53.60 | AC motors, nesoi, multi-phase, 149.2 kW or more but not exceeding 150 kW | Aircraft.
8501.61.01 | AC generators (alternators), other than photovoltaic generators, of an output not exceeding 75 kVA | Aircraft.
8501.62.01 | AC generators (alternators), other than photovoltaic generators, of an output exceeding 75 kVA but not exceeding 375 kVA | Aircraft.
8501.63.01 | AC generators (alternators), other than photovoltaic generators, of an output exceeding 375 kVA but not exceeding 750 kVA | Aircraft.
8501.71.00 | Photovoltaic DC generators, of an output not exceeding 50 W | Aircraft.
8501.72.10 | Photovoltaic DC generators, of an output exceeding 50 W but not exceeding 750 W | Aircraft.
8501.72.20 | Photovoltaic DC generators, of an output exceeding 750 W but not exceeding 75 kW | Aircraft.
8501.72.30 | Photovoltaic DC generators, of an output exceeding 75 kW but not exceeding 375 kW | Aircraft.
8501.72.90 | Photovoltaic DC generators, of an output exceeding 375 kW | Aircraft.
8501.80.10 | Photovoltaic AC generators, of an output not exceeding 75 kVA | Aircraft.
8501.80.20 | Photovoltaic AC generators, of an output exceeding 75 kVA but not exceeding 375 kVA | Aircraft.
8501.80.30 | Photovoltaic AC generators, of an output exceeding 375 kVA but not exceeding 750 kVA | Aircraft.
8502.11.00 | Electric generating sets with compression-ignition internal-combustion piston engines, of an output not exceeding 75 kVA | Aircraft.
8502.12.00 | Electric generating sets with compression-ignition internal-combustion piston engines, of an output exceeding 75 kVA but not over 375 kVA | Aircraft.
8502.13.00 | Electric generating sets with compression-ignition internal-combustion piston engines, of an output exceeding 375 kVA | Aircraft.
8502.20.00 | Electric generating sets with spark-ignition internal-combustion piston engines | Aircraft.
8502.31.00 | Wind-powered electric generating sets | Aircraft.
8502.39.00 | Electric generating sets, nesoi | Aircraft.
8502.40.00 | Electric rotary converters | Aircraft.
8504.10.00 | Ballasts for discharge lamps or tubes | Aircraft.
8504.31.20 | Unrated electrical transformers other than liquid dielectric, having a power handling capacity not exceeding 1 kVA | Aircraft.
8504.31.40 | Electrical transformers other than liquid dielectric, having a power handling capacity less than 1 kVA | Aircraft.
8504.31.60 | Electrical transformers other than liquid dielectric, having a power handling capacity of l kVA | Aircraft.
8504.32.00 | Electrical transformers other than liquid dielectric, having a power handling capacity exceeding 1 kVA but not exceeding 16 kVA | Aircraft.
8504.33.00 | Electrical transformers other than liquid dielectric, having a power handling capacity exceeding 16 kVA but not exceeding 500 kVA | Aircraft.
8504.40.40 | Electrical speed drive controllers for electric motors (static converters) | Aircraft.
8504.40.60 | Power supplies suitable for physical incorporation into automatic data processing machines or units thereof of heading 8471 | Aircraft.
8504.40.70 | Power supplies for automatic data processing machines or units thereof of heading 8471, nesoi | Aircraft.
8504.40.85 | Static converters (for example, rectifiers) for telecommunication apparatus | Aircraft.
8504.40.95 | Static converters (for example, rectifiers), nesoi | Aircraft.
8504.50.40 | Other inductors for power supplies for ADP machines and units of heading 8471 or for telecommunication apparatus | Aircraft.
8504.50.80 | Other inductors, nesoi | Aircraft.
8507.10.00 | Lead-acid storage batteries of a kind used for starting piston engines | Aircraft.
8507.20.80 | Lead-acid storage batteries other than of a kind used for starting piston engines or as the primary source of power for electric vehicles | Aircraft.
8507.30.80 | Nickel-cadmium storage batteries, other than of a kind used as the primary source of power for electric vehicles | Aircraft.
8507.50.00 | Nickel-metal hydride batteries | Aircraft.
8507.60.00 | Lithium-ion batteries | Aircraft.
8507.80.82 | Other storage batteries nesoi, other than of a kind used as the primary source of power for electric vehicles | Aircraft.
8507.90.40 | Parts of lead-acid storage batteries, including separators therefor | Aircraft.
8507.90.80 | Parts of storage batteries, including separators therefor, other than parts of lead-acid storage batteries | Aircraft.
8511.10.00 | Spark plugs | Aircraft.
8511.20.00 | Ignition magnetos, magneto-dynamos and magnetic flywheels | Aircraft.
8511.30.00 | Distributors and ignition coils | Aircraft.
8511.40.00 | Starter motors and dual purpose starter-generators | Aircraft.
8511.50.00 | Generators nesoi, of a kind used in conjunction with spark-ignition or compression-ignition internal-combustion engines | Aircraft.
8511.80.20 | Voltage and voltage-current regulators with cut-out relays designed for use on 6, 12 or 24 V systems | Aircraft.
8511.80.40 | Voltage and voltage-current regulators with cut-out relays other than those designed for use on 6, 12 or 24 V systems | Aircraft.
8511.80.60 | Electrical ignition or starting equipment of a kind used for spark-ignition internal-combustion or compression-ignition engines, nesoi | Aircraft.
8514.20.40 | Industrial or laboratory microwave ovens for making hot drinks or for cooking or heating food | Aircraft.
8516.80.40 | Electric heating resistors assembled only with simple insulated former and electrical connectors, used for anti-icing or de-icing | Aircraft.
8516.80.80 | Electric heating resistors, nesoi | Aircraft.
8517.13.00 | Smartphones for cellular networks or for other wireless of networks | Aircraft.
8517.14.00 | Other telephones for cellular networks or for other wireless of networks, other than smartphones | Aircraft.
8517.61.00 | Base stations | Aircraft.
8517.62.00 | Machines for the reception, conversion and transmission or regeneration of voice, images or other data, including switching and routing apparatus | Aircraft.
8517.69.00 | Other apparatus for transmission or reception of voice, images or other data, nesoi, but not apparatus of headings 8443, 8525, 8527 or 8528 | Aircraft.
8517.71.00 | Aerials and aerial reflectors of all kinds; parts suitable for use therewith | Aircraft.
8518.10.40 | Microphones having a frequency range of 300Hz-3.4kHz with diameter not over 10 mm and height not over 3 mm, for telecommunication | Aircraft.
8518.10.80 | Microphones and stands therefor, nesoi | Aircraft.
8518.21.00 | Single loudspeakers mounted in their enclosures | Aircraft.
8518.22.00 | Multiple loudspeakers mounted in the same enclosure | Aircraft.
8518.29.40 | Loudspeakers not mounted in their enclosures, with frequency range of 300Hz to 3.4kHz, with a diameter not over 50 mm, for telecommunication | Aircraft.
8518.29.80 | Loudspeakers nesoi, not mounted in their enclosures, nesoi | Aircraft.
8518.30.10 | Line telephone handsets | Aircraft.
8518.30.20 | Headphones, earphones and combined microphone/speaker sets, other than telephone handsets | Aircraft.
8518.40.10 | Audio-frequency electric amplifiers for use as repeaters in line telephony | Aircraft.
8518.40.20 | Audio-frequency electric amplifiers, other than for use as repeaters in line telephony | Aircraft.
8518.50.00 | Electric sound amplifier sets | Aircraft.
8519.81.10 | Transcribing machines | Aircraft.
8519.81.20 | Cassette players (non-recording) designed exclusively for motor-vehicle installation | Aircraft.
8519.81.25 | Cassette players (non-recording), nesoi | Aircraft.
8519.81.30 | Sound reproducing apparatus nesoi, not incorporating a sound recording device | Aircraft.
8519.81.41 | Other sound recording and reproducing apparatus using magnetic tape, optical media, or semiconductor media | Aircraft.
8519.89.10 | Record players, other than coin- or token-operated, without loudspeaker | Aircraft.
8519.89.20 | Record players, other than coin- or token-operated, with loudspeakers | Aircraft.
8519.89.30 | Sound recording and reproducing apparatus, nesoi | Aircraft.
8521.10.30 | Color, cartridge or cassette magnetic tape-type video players | Aircraft.
8521.10.60 | Color, cartridge or cassette magnetic tape-type video recording and reproducing apparatus, nesoi | Aircraft.
8521.10.90 | Magnetic tape-type video recording or reproducing apparatus, other than color, cartridge or cassette type | Aircraft.
8522.90.25 | Assemblies and subassemblies of articles of subheading 8520.90, consisting of 2 or more pieces fastened together, printed circuit assemblies | Aircraft.
8522.90.36 | Other assemblies and subassemblies of articles of subheading 8520.90, consisting of 2 or more pieces fastened together, other than printed circuit assemblies | Aircraft.
8522.90.45 | Other parts of telephone answering machines, printed circuit assemblies | Aircraft.
8522.90.58 | Other parts of telephone answering machines, other than printed circuit assemblies | Aircraft.
8522.90.65 | Parts and accessories of apparatus of headings 8519 through 8521, nesoi, printed circuit assemblies | Aircraft.
8522.90.80 | Parts and accessories of apparatus of headings 8519 through 8521, nesoi, other than printed circuit assemblies | Aircraft.
8526.10.00 | Radar apparatus | Aircraft.
8526.91.00 | Radio navigational aid apparatus, other than radar | Aircraft.
8526.92.10 | Radio remote control apparatus for video game consoles | Aircraft.
8526.92.50 | Radio remote control apparatus other than for video game consoles | Aircraft.
8528.42.00 | Cathode-ray tube monitors capable of directly connecting to and designed for use with an automatic data processing machine of heading 8471 | Aircraft.
8528.52.00 | Other monitors capable of directly connecting to and designed for use with an automatic data processing machine of heading 8471 | Aircraft.
8528.62.00 | Projectors capable of directly connecting to and designed for use with an automatic data processing machine of heading 8471 | Aircraft.
8529.10.21 | Television antennas and antenna reflectors, and parts suitable for use therewith | Aircraft.
8529.10.40 | Radar, radio navigational aid and radio remote control antennas and antenna reflectors, and parts suitable for use therewith | Aircraft.
8529.10.91 | Other antennas and antenna reflectors of all kinds and parts, for use | Aircraft.
8529.90.04 | Tuners (printed circuit assemblies) | Aircraft.
8529.90.05 | Printed circuit boards and ceramic substrates and subassemblies thereof, for color TV, with components listed in additional U.S. note 4 to this chapter | Aircraft.
8529.90.06 | Printed circuit boards and ceramic substrates and subassemblies thereof, for color TV, not with components listed in additional U.S. note 4 to this chapter | Aircraft.
8529.90.09 | Printed circuit assemblies for television cameras | Aircraft.
8529.90.13 | Printed circuit assemblies for television apparatus, nesoi | Aircraft.
8529.90.16 | Printed circuit assemblies which are subassemblies of radar, radio navigational aid or remote control apparatus, of 2 or more parts joined together | Aircraft.
8529.90.19 | Printed circuit assemblies, nesoi, for radar, radio navigational aid or radio remote control apparatus | Aircraft.
8529.90.21 | Other printed circuit assemblies suitable for use solely or principally with the apparatus of headings 8524 to 8528, nesoi | Aircraft.
8529.90.24 | Transceiver assemblies for the apparatus of subheading 8526.10, other than printed circuit assemblies | Aircraft.
8529.90.29 | Tuners for television apparatus, other than printed circuit assemblies | Aircraft.
8529.90.33 | Subassemblies with 2 or more printed circuit boards or ceramic substrates, for color TV, entered with components in additional U.S. note 4 to this chapter | Aircraft.
8529.90.36 | Subassemblies with 2 or more printed circuit boards or ceramic substrates, for color TV, other | Aircraft.
8529.90.39 | Parts of television receivers specified in U.S. note 9 to chapter 85, other than printed circuit assemblies, nesoi | Aircraft.
8529.90.43 | Printed circuit boards and ceramic substrates and subassemblies thereof for color TV, with components listed in additional U.S. note 4 to chapter 85 | Aircraft.
8529.90.46 | Combinations of printed circuit boards and ceramic substrates and subassemblies thereof for color TV, with components listed in additional U.S. note 4 to chapter 85 | Aircraft.
8529.90.49 | Combinations of parts of television receivers specified in U.S. note 10 to chapter 85, other than printed circuit assemblies, nesoi | Aircraft.
8529.90.55 | Flat panel screen assemblies for TV reception apparatus, color video monitors and video projectors | Aircraft.
8529.90.63 | Parts of printed circuit assemblies (including face plates and lock latches) for television cameras | Aircraft.
8529.90.68 | Parts of printed circuit assemblies (including face plates and lock latches) for television apparatus other than television cameras | Aircraft.
8529.90.73 | Parts of printed circuit assemblies (including face plates and lock latches) for radar, radio navigational aid or radio remote control app | Aircraft.
8529.90.77 | Parts of printed circuit assemblies (including face plates and lock latches) for other apparatus of headings 8524 to 8528, nesoi | Aircraft.
8529.90.78 | Mounted lenses for use in closed circuit television cameras, separately imported, with or without attached electrical connectors or motors | Aircraft.
8529.90.81 | Other parts of television cameras, nesoi | Aircraft.
8529.90.83 | Other parts of television apparatus (other than television cameras), nesoi | Aircraft.
8529.90.87 | Parts suitable for use solely or principally with the apparatus of 8524 and 8527 (except television apparatus or cellular phones), nesoi | Aircraft.
8529.90.88 | Subassemblies with 2 or more printed circuit boards or ceramic substrates, except tuners or convergence assemblies, for color TV, entered with components in additional U.S. note 4 to chapter 85 | Aircraft.
8529.90.89 | Subassemblies with 2 or more printed circuit boards or ceramic substrates, except tuners or convergence assemblies, for color TV, other | Aircraft.
8529.90.93 | Parts of television apparatus, nesoi | Aircraft.
8529.90.95 | Assemblies and subassemblies of radar, radio navigational aid or remote control apparatus, of 2 or more parts joined together, nesoi | Aircraft.
8529.90.97 | Parts suitable for use solely or principally in radar, radio navigational aid or radio remote control apparatus, nesoi | Aircraft.
8529.90.98 | Parts suitable for use solely or principally with the apparatus of headings 8524 through 8528, nesoi | Aircraft.
8531.10.00 | Electric burglar or fire alarms and similar apparatus | Aircraft.
8531.20.00 | Indicator panels incorporating liquid crystal devices (LCD's) or light emitting diodes (LED's) | Aircraft.
8531.80.15 | Doorbells, chimes, buzzers, and similar apparatus | Aircraft.
8531.80.90 | Electric sound or visual signaling apparatus, nesoi | Aircraft.
8536.70.00 | Connectors for optical fibers, optical fiber bundles or cables | Aircraft.
8539.10.00 | Sealed beam lamp units | Aircraft.
8539.51.00 | Light-emitting diode (LED) modules | Aircraft.
8543.70.42 | Flight data recorders | Aircraft.
8543.70.45 | Other electric synchros and transducers; defrosters and demisters with electric resistors for aircraft | Aircraft.
8543.70.60 | Electrical machines and apparatus nesoi, designed for connection to telegraphic or telephonic apparatus, instruments or networks | Aircraft.
8543.70.80 | Microwave amplifiers | Aircraft.
8543.70.91 | Digital signal processing apparatus capable of connecting to a wired or wireless network for sound mixing | Aircraft.
8543.70.95 | Touch screens without display capabilities for incorporation in apparatus having a display | Aircraft.
8543.90.12 | Parts of physical vapor deposition apparatus of subheading 8543.70 | Aircraft.
8543.90.15 | Assemblies and subassemblies for flight data recorders, consisting of 2 or more parts pieces fastened together, printed circuit assemblies | Aircraft.
8543.90.35 | Assemblies and subassemblies for flight data recorders, consisting of 2 or more parts pieces fastened together, not printed circuit assemblies | Aircraft.
8543.90.65 | Printed circuit assemblies of flat panel displays other than for reception apparatus for television of heading 8528 | Aircraft.
8543.90.68 | Printed circuit assemblies of electrical machines and apparatus, having individual functions, nesoi | Aircraft.
8543.90.85 | Parts, nesoi, of flat panel displays other than for reception apparatus for television of heading 8528 | Aircraft.
8543.90.88 | Parts (other than printed circuit assemblies) of electrical machines and apparatus, having individual functions, nesoi | Aircraft.
8544.30.00 | Insulated ignition wiring sets and other wiring sets of a kind used in vehicles, aircraft or ships | Aircraft.
8801.00.00 | Balloons, dirigibles and non-powered aircraft, gliders and hang gliders | Aircraft.
8802.11.01 | Helicopters (except unmanned aircraft of heading 8806), with an unladen weight not over 2,000 kg | Aircraft.
8802.12.01 | Helicopters (except unmanned aircraft of heading 8806), with an unladen weight over 2,000 kg | Aircraft.
8802.20.01 | Airplanes and other powered aircraft (except unmanned aircraft of heading 8806), nesoi, with an unladen weight not over 2,000 kg | Aircraft.
8802.30.01 | Airplanes and other powered aircraft (except unmanned aircraft of heading 8806), nesoi, with an unladen weight over 2,000 kg but not over 15,000 kg | Aircraft.
8802.40.01 | Airplanes and other powered aircraft (except unmanned aircraft of heading 8806), nesoi, with an unladen weight over 15,000 kg | Aircraft.
8805.29.00 | Ground flying trainers and parts thereof, other than air combat simulators | Aircraft.
8807.10.00 | Parts of aircraft of headings 8801, 8802 and 8806, propellers and rotors and parts thereof | Aircraft.
8807.20.00 | Parts of aircraft of headings 8801, 8802 and 8806, undercarriages and parts thereof | Aircraft.
8807.30.00 | Parts of aircraft of headings 8801, 8802 and 8806, for airplanes, helicopters, unmanned aircraft, other than propellers, rotors or undercarriages, nesoi | Aircraft.
8807.90.90 | Parts of aircraft of headings 8801, 8802 and 8806, not for airplanes, helicopters or unmanned aircraft, nesoi | Aircraft.
9001.90.40 | Lenses nesoi, unmounted | Aircraft.
9001.90.50 | Prisms, unmounted | Aircraft.
9001.90.60 | Mirrors, unmounted | Aircraft.
9001.90.80 | Half-tone screens designed for use in engraving or photographic processes, unmounted | Aircraft.
9001.90.90 | Optical elements nesoi, unmounted | Aircraft.
9002.90.20 | Prisms, mounted, for optical uses | Aircraft.
9002.90.40 | Mirrors, mounted, for optical uses | Aircraft.
9002.90.70 | Half-tone screens, mounted, designed for use in engraving or photographic processes | Aircraft.
9002.90.85 | Mounted lenses suitable for use in, and entered separately from, closed circuit television cameras, with or without attached electrical connectors or motors | Aircraft.
9002.90.95 | Mounted optical elements, nesoi; parts and accessories of mounted optical elements, nesoi | Aircraft.
9014.10.10 | Optical direction finding compasses | Aircraft.
9014.10.60 | Gyroscopic directing finding compasses, other than electrical | Aircraft.
9014.10.70 | Electrical direction finding compasses | Aircraft.
9014.10.90 | Direction finding compasses, other than optical instruments, gyroscopic compasses or electrical | Aircraft.
9014.20.20 | Optical instruments and appliances (other than compasses) for aeronautical or space navigation | Aircraft.
9014.20.40 | Automatic pilots for aeronautical or space navigation | Aircraft.
9014.20.60 | Electrical instruments and appliances (other than compasses) for aeronautical or space navigation | Aircraft.
9014.20.80 | Nonelectrical instruments and appliances (other than compasses) for aeronautical or space navigation | Aircraft.
9014.90.10 | Parts and accessories of automatic pilots for aeronautical or space navigation of subheading 9014.20.40 | Aircraft.
9014.90.20 | Parts and accessories of nonelectrical instruments and appliances for aeronautical or space navigation of subheading 9014.20.80 | Aircraft.
9014.90.40 | Parts and accessories of nonelectrical navigational instruments and appliances nesoi of subheading 9014.80.50 | Aircraft.
9014.90.60 | Parts and accessories of navigational instruments and appliances, nesoi | Aircraft.
9020.00.40 | Underwater breathing devices designed as a complete unit to be carried on the person and not requiring attendants, parts and accessories thereof | Aircraft.
9020.00.60 | Breathing appliances, nesoi, and gas masks, except protective masks having neither mechanical parts or replaceable filters, parts, accessories thereof | Aircraft.
9025.11.20 | Clinical thermometers, liquid-filled, for direct reading, not combined with other instruments | Aircraft.
9025.11.40 | Liquid-filled thermometers, for direct reading, not combined with other instruments, other than clinical thermometers | Aircraft.
9025.19.40 | Pyrometers, not combined with other instruments | Aircraft.
9025.19.80 | Thermometers, for direct reading, not combined with other instruments, other than liquid-filled thermometers | Aircraft.
9025.80.10 | Electrical hydrometers and similar floating instruments, thermometers, pyrometers, barometers, hygrometers, psychometers, and any combination | Aircraft.
9025.80.15 | Nonelectrical barometers, not combined with other instruments | Aircraft.
9025.80.20 | Hydrometers and similar floating instruments, whether or not incorporating a thermometer, non-recording, other than electrical | Aircraft.
9025.80.35 | Hygrometers and psychrometers, non-electrical, non-recording | Aircraft.
9025.80.40 | Thermographs, barographs, hygrographs and other recording instruments, other than electrical | Aircraft.
9025.80.50 | Combinations of thermometers, barometers and similar temperature and atmosphere measuring and recording instruments, nonelectrical | Aircraft.
9025.90.06 | Other parts and accessories of hydrometers and like floating instruments, thermometers, pyrometers, barometers, hygrometers, psychrometers and combinations | Aircraft.
9026.10.20 | Electrical instruments and apparatus for measuring or checking the flow or level of liquids | Aircraft.
9026.10.40 | Flow meters, other than electrical, for measuring or checking the flow of liquids | Aircraft.
9026.10.60 | Instruments and apparatus for measuring or checking the level of liquids, other than flow meters, non-electrical | Aircraft.
9026.20.40 | Electrical instruments and apparatus for measuring or checking the pressure of liquids or gases | Aircraft.
9026.20.80 | Instruments and apparatus, other than electrical, for measuring or checking the pressure of liquids or gases | Aircraft.
9026.80.20 | Electrical instruments and apparatus for measuring or checking variables of liquids or gases, nesoi | Aircraft.
9026.80.40 | Nonelectrical heat meters incorporating liquid supply meters, and anemometers | Aircraft.
9026.80.60 | Nonelectrical instruments and apparatus for measuring or checking variables of liquids or gases, nesoi | Aircraft.
9026.90.20 | Parts and accessories of electrical instruments and apparatus for measuring or checking variables of liquids or gases | Aircraft.
9026.90.40 | Parts and accessories of nonelectrical flow meters, heat meters incorporating liquid supply meters and anemometers | Aircraft.
9026.90.60 | Parts and accessories of nonelectrical instruments and apparatus for measuring or checking variables of liquids or gases, nesoi | Aircraft.
9029.10.80 | Revolution counters, production counters, odometers, pedometers and the like, other than taximeters | Aircraft.
9029.20.40 | Speedometers and tachometers, other than bicycle speedometers | Aircraft.
9029.90.80 | Parts and accessories of revolution counters, production counters, odometers, pedometers and the like, of speedometers nesoi and tachometers | Aircraft.
9030.10.00 | Instruments and apparatus for measuring or detecting ionizing radiations | Aircraft.
9030.20.05 | Oscilloscopes and oscillographs, specially designed for telecommunications | Aircraft.
9030.20.10 | Oscilloscopes and oscillographs, nesoi | Aircraft.
9030.31.00 | Multimeters for measuring or checking electrical voltage, current, resistance or power, without a recording device | Aircraft.
9030.32.00 | Multimeters, with a recording device | Aircraft.
9030.33.34 | Resistance measuring instruments | Aircraft.
9030.33.38 | Other instruments and apparatus, nesoi, for measuring or checking electrical voltage, current, resistance or power, without a recording device | Aircraft.
9030.39.01 | Instruments and apparatus, nesoi, for measuring or checking electrical voltage, current, resistance or power, with a recording device | Aircraft.
9030.40.00 | Instruments and apparatus specially designed for telecommunications | Aircraft.
9030.84.00 | Instruments and apparatus for measuring, checking or detecting electrical quantities or ionizing radiations, nesoi, with a recording device | Aircraft.
9030.89.01 | Instruments and apparatus for measuring, checking or detecting electrical quantities or ionizing radiations, nesoi, without a recording device | Aircraft.
9030.90.25 | Printed circuit assemblies for instruments and apparatus for measuring or detecting ionizing radiation | Aircraft.
9030.90.46 | Parts and accessories for instruments and apparatus for measuring or detecting ionizing radiation, nesoi | Aircraft.
9030.90.66 | Printed circuit assemblies for subheadings and apparatus of subheadings 9030.40 and 9030.82 | Aircraft.
9030.90.68 | Printed circuit assemblies, nesoi | Aircraft.
9030.90.84 | Parts and accessories for instruments and apparatus for measuring or checking semiconductor wafers or devices, nesoi | Aircraft.
9030.90.89 | Parts and accessories for articles of subheadings 9030.20 to 9030.40, 9030.83 and 9030.89, nesoi | Aircraft.
9031.80.40 | Electron beam microscopes fitted with equipment specifically designed for the handling and transport of semiconductor devices or reticles | Aircraft.
9031.80.80 | Measuring and checking instruments, appliances and machines, nesoi | Aircraft.
9031.90.21 | Parts and accessories of profile projectors | Aircraft.
9031.90.45 | Bases and frames for the optical coordinate-measuring machines of subheading 9031.49.40 | Aircraft.
9031.90.54 | Parts and accessories of measuring and checking optical instruments and appliances of subheading 9031.41 or 9031.49.70 | Aircraft.
9031.90.59 | Parts and accessories of measuring and checking optical instruments and appliances, other than test benches or profile projectors, nesoi | Aircraft.
9031.90.70 | Parts and accessories of articles of subheading 9031.80.40 | Aircraft.
9031.90.91 | Parts and accessories of measuring or checking instruments, appliances and machines, nesoi | Aircraft.
9032.10.00 | Automatic thermostats | Aircraft.
9032.20.00 | Automatic manostats | Aircraft.
9032.81.00 | Hydraulic and pneumatic automatic regulating or controlling instruments and apparatus | Aircraft.
9032.89.20 | Automatic voltage and voltage-current regulators, designed for use in a 6, 12, or 24 V system | Aircraft.
9032.89.40 | Automatic voltage and voltage-current regulators, not designed for use in a 6, 12, or 24 V system | Aircraft.
9032.89.60 | Automatic regulating or controlling instruments and apparatus, nesoi | Aircraft.
9032.90.21 | Parts and accessories of automatic voltage and voltage-current regulators designed for use in a 6, 12, or 24 V system, nesoi | Aircraft.
9032.90.41 | Parts and accessories of automatic voltage and voltage-current regulators, not designed for use in a 6, 12, or 24 V system, nesoi | Aircraft.
9032.90.61 | Parts and accessories for automatic regulating or controlling instruments and apparatus, nesoi | Aircraft.
9033.00.90 | Other parts and accessories for machines, appliances, instruments or apparatus of chapter 90, nesoi | Aircraft.
9104.00.05 | Instrument panel clocks for vehicles, air/spacecraft or vessels, clock movement over 50 mm wide, opto-electronic display only, not over $10 each | Aircraft.
9104.00.10 | Instrument panel clocks for vehicles, air/spacecraft or vessels, clock movement over 50 mm wide, electric, not optoelectronic display, not over $10 each | Aircraft.
9104.00.20 | Instrument panel clocks for vehicles, air/spacecraft or vessels, clock movement over 50 mm wide, nonelectric, valued not over $10 each | Aircraft.
9104.00.25 | Instrument panel clocks for vehicles, air/spacecraft or vessels, clock movement over 50 mm wide, opto-electronic display only, over $10 each | Aircraft.
9104.00.30 | Instrument panel clocks for vehicles, air/spacecraft or vessels, clock movement over 50 mm wide, electric, not optoelectronic display, over $10 each | Aircraft.
9104.00.40 | Instrument panel clocks for vehicles, air/spacecraft or vessels, clock movement over 50 mm wide, non-electric, valued over $10 each | Aircraft.
9104.00.45 | Instrument panel clocks for vehicles, air/spacecraft or vessels, watch or clock movement not over 50 mm wide, opto-electronic display only | Aircraft.
9104.00.50 | Instrument panel clocks for vehicles, air/spacecraft, vessels, watch or clock movement not over 50 mm wide, electric, not opto-electronic display | Aircraft.
9104.00.60 | Instrument panel clocks for vehicles, air/spacecraft or vessels, clock or watch movement not over 50 mm wide, nonelectric | Aircraft.
9109.10.50 | Clock movements nesoi, complete and assembled, electrically operated, with opto-electronic display only | Aircraft.
9109.10.60 | Clock movements nesoi, complete and assembled, electrically operated, with display nesoi, measuring not over 50 mm in width or diameter | Aircraft.
9109.90.20 | Clock movements, complete and assembled, not electrically operated, measuring not over 50 mm in width or diameter | Aircraft.
9401.10.40 | Seats, of a kind used for aircraft, leather upholstered | Aircraft.
9401.10.80 | Seats, of a kind used for aircraft (other than leather upholstered) | Aircraft.
9403.20.00 | Furniture (other than seats) of metal nesoi, other than of a kind used in offices | Aircraft.
9403.70.40 | Furniture (other than seats and other than of heading 9402) of reinforced or laminated plastics nesoi | Aircraft.
9403.70.80 | Furniture (other than seats and other than of heading 9402) of plastics (other than reinforced or laminated) nesoi | Aircraft.
9405.11.40 | Chandeliers and other electric ceiling or wall lighting fittings, of brass, designed for use solely with LED sources | Aircraft.
9405.11.60 | Chandeliers and other electric ceiling or wall lighting fixtures, of base metal (other than brass), designed for use solely with LED sources | Aircraft.
9405.11.80 | Chandeliers and other electric ceiling or wall lighting fixtures, not of base metal, designed for use solely with LED sources | Aircraft.
9405.19.40 | Chandeliers and other electric ceiling or wall lighting fittings, of brass, not designed for use solely with LED sources | Aircraft.
9405.19.60 | Chandeliers and other electric ceiling or wall lighting fixtures, of base metal (other than brass), not designed for use solely with LED sources | Aircraft.
9405.19.80 | Chandeliers and other electric ceiling or wall lighting fixtures, not of base metal, not designed for use solely with LED sources | Aircraft.
9405.61.20 | Illuminated signs, illuminated name plates and the like, of brass, designed for use solely with LED sources | Aircraft.
9405.61.40 | Illuminated signs, illuminated name plates and the like, of base metal (other than brass), designed for use solely with LED sources | Aircraft.
9405.61.60 | Illuminated signs, illuminated name plates and the like, not of base metal, designed for use solely with LED sources | Aircraft.
9405.69.20 | Illuminated signs, illuminated name plates and the like, of brass, not designed for use solely with LED sources | Aircraft.
9405.69.40 | Illuminated signs, illuminated name plates and the like, of base metal (other than brass), not designed for use solely with LED sources | Aircraft.
9405.69.60 | Illuminated signs, illuminated name plates and the like, not of base metal, not designed for use solely with LED sources | Aircraft.
9405.92.00 | Parts of lamps, lighting fixtures, illuminated signs and the like, of plastics | Aircraft.
9405.99.20 | Parts of lamps, lighting fixtures, illuminated signs and the like, of brass | Aircraft.
9405.99.40 | Parts of lamps, lighting fixtures, illuminated signs and the like, not of glass, plastics or brass | Aircraft.
9620.00.50 | Monopods, bipods, tripods and similar articles of plastics, nesoi | Aircraft.
9620.00.60 | Monopods, bipods, tripods and similar articles of graphite and other carbon, nesoi | Aircraft.
9802.00.40 | Articles returned to the United States after having been exported for repairs or alterations made pursuant to a warranty | Aircraft.
9802.00.50 | Articles returned to the United States after having been exported for repairs or alterations, other | Aircraft.
9802.00.60 | Any article of metal (as defined in U.S. note 3(e) of this subchapter) manufactured in the United States or subjected to a process of manufacture in the United States, if exported for further processing, and if the exported article as processed outside the United States, or the article which results from the processing outside the United States, is returned to the United States for further processing | Aircraft.
9802.00.80 | Articles, except goods of heading 9802.00.91 and goods imported under provisions of subchapter XIX of this chapter and goods imported under provisions of subchapter XX, assembled abroad in whole or in part of fabricated components, the product of the United States, which (a) were exported in condition ready for assembly without further fabrication, (b) have not lost their physical identity in such articles by change in form, shape or otherwise, and (c) have not been advanced in value or improved in condition abroad except by being assembled and except by operations incidental to the assembly process such as cleaning, lubricating and painting | Aircraft.
9818.00.05 | Spare parts necessarily installed before first entry into the United States, upon first entry into the United States of each such spare part purchased in, or imported from, a foreign country | Aircraft.
9818.00.07 | Other, upon first arrival in any port of the United States of any vessel described in U.S. note 1 to this subchapter | Aircraft.

Annex II

A. Effective with respect to goods entered for consumption, or withdrawn from warehouse for consumption, on or after 12:01 a.m. eastern daylight time on August 1, 2025, subchapter III of chapter 99 of the Harmonized Tariff Schedule of the United States (HTSUS) is modified as follows:

1. U.S. note 33 is modified by adding the following subdivision (n):

“(n) Headings 9903.94.50 and 9903.94.51 set forth the ordinary customs duty treatment for certain passenger vehicles and light trucks in the provisions of the HTSUS enumerated in subdivision (b) of this Note that are products of the member countries of the European Union.

The member countries of the European Union that are covered by this subdivision and by headings 9903.94.50 and 9903.94.51 shall include the following: Austria, Belgium, Bulgaria, Croatia, Cyprus, Czechia (Czech Republic), Denmark, Estonia, Finland, France, Germany, Greece, Hungary, Ireland, Italy, Latvia, Lithuania, Luxembourg, Malta, Netherlands, Poland, Portugal, Romania, Slovakia, Slovenia, Spain, Sweden.

Any passenger vehicle or light truck, except those eligible for admission under “domestic status” as defined in 19 CFR 146.43, that is subject to the duty imposed by this subdivision and that is admitted into a United States foreign trade zone on or after 12:01 a.m. eastern standard time on September 25, 2025, must be admitted as “privileged foreign status” as defined in 19 CFR 146.41, and will be subject upon entry for consumption to any ad valorem rates of duty related to the classification under this HTSUS subheading.

Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for passenger vehicles and light trucks provided for in this subdivision (n) of this note under a provision of chapter 99 that may set forth a lower rate of duty or provide duty-free treatment, taking into account information supplied by CBP, but any additional duty prescribed in any provision of this subchapter or subchapter IV of chapter 99 shall be imposed in addition to the duty in headings 9903.94.50 and 9903.94.51. All antidumping, countervailing, or other duties and charges applicable to such goods shall continue to be imposed in addition to the duty in headings 9903.94.50 and 9903.94.51. Entries of passenger vehicles and light trucks described in this subdivision (n) shall not be subject to: (1) the additional duties imposed on entries of semi-finished copper products and copper-intensive derivative products under heading 9903.78.01; (2) the additional duties imposed on entries of products of aluminum under heading 9903.85.02 and 9903.85.12; (3) the additional duties imposed on entries of derivative aluminum products under headings 9903.85.04, 9903.85.07, 9903.85.08, 9903.85.13, 9903.85.14, and 9903.85.15; (4) the additional duties imposed on entries of iron or steel products under headings 9903.81.87, 9903.81.88, 9903.81.94 and 9903.81.95; (5) the additional duties imposed on entries of derivative iron or steel products under headings 9903.81.89, 9903.81.90, 9903.81.91, 9903.81.93, 9903.81.96, 9903.81.97, 9903.81.98 and 9903.81.99.

2. U.S. note 33 is modified by adding the following subdivision (o):

“(o) Headings 9903.94.52 and 9903.94.53 set forth the ordinary customs duty treatment for certain parts of passenger vehicles and light trucks classifiable in the provisions of the HTSUS enumerated in subdivision (g) of this Note that are products of the European Union. For the purposes of this subdivision, the European Union is comprised of the countries identified in subdivision (n).

Any automotive part, except those eligible for admission under “domestic status” as defined in 19 CFR 146.43, that is subject to the duty imposed by this subdivision and that is admitted into a United States foreign trade zone on or after 12:01 a.m. eastern standard time on September 25, 2025, must be admitted as “privileged foreign status” as defined in 19 CFR 146.41, and will be subject upon entry for consumption to any ad valorem rates of duty related to the classification under this HTSUS subheading.

Goods for which entry is claimed under a provision of chapter 98 and which are subject to the additional duties prescribed herein shall be eligible for and subject to the terms of such provision and applicable U.S. Customs and Border Protection (“CBP”) regulations, except that duties under subheading 9802.00.60 shall be assessed based upon the full value of the imported article. No claim for entry or for any duty exemption or reduction shall be allowed for the automotive parts provided for in this subdivision (o) of this note under a provision of chapter 99 that may set forth a lower rate of duty or provide duty-free treatment, taking into account information supplied by CBP, but any additional duty prescribed in any provision of this subchapter or subchapter IV of chapter 99 shall be imposed in addition to the duty in headings 9903.94.52 and 9903.94.53. All antidumping, countervailing, or other duties and charges applicable to such goods shall continue to be imposed in addition to the duty in headings 9903.94.52 and 9903.94.53. Entries of automotive parts described in this subdivision (o) shall not be subject to: (1) the additional duties imposed on entries of semi-finished copper products and copper-intensive derivative products under heading 9903.78.01; (2) the additional duties imposed on entries of products of aluminum under heading 9903.85.02 and 9903.85.12; (3) the additional duties imposed on entries of derivative aluminum products under headings 9903.85.04, 9903.85.07, 9903.85.08, 9903.85.13, 9903.85.14, and 9903.85.15; (4) the additional duties imposed on entries of iron or steel products under headings 9903.81.87, 9903.81.88, 9903.81.94 and 9903.81.95; (5) the additional duties imposed on entries of derivative iron or steel products under headings 9903.81.89, 9903.81.90, 9903.81.91, 9903.81.93, 9903.81.96, 9903.81.97, 9903.81.98 and 9903.81.99.

3. U.S. note 33(a) is modified by:

i. Deleting “Except as provided for in headings 9903.94.02, 9903.94.03, 9903.94.04, 9903.94.31, 9903.94.40, and 9903.94.41” and inserting “Except as provided for in headings 9903.94.02, 9903.94.03, 9903.94.04, 9903.94.31, 9903.94.40, 9903.94.41, 9903.94.50, and 9903.94.51,” in lieu thereof.

ii. Deleting “Except as provided in headings 9903.94.31, 9903.94.40 and 9903.94.41, no claim for entry”, and inserting Except as provided in headings 9903.94.31, 9903.94.40, 9903.94.41, 9903.94.50 and 9903.94.51, no claim for entry” in lieu thereof.

4. U.S. note 33(b) is modified by inserting “9903.94.50, 9903.94.51,” after “9903.94.41,”

5. U.S. note 33(f) is modified by:

i. Deleting “Except as provided for in heading 9903.94.06, 9903.94.32, 9903.94.42 and 9903.94.43,” and replacing with “Except as provided for in heading 9903.94.06, 9903.94.32, 9903.94.42, 9903.94.43, 9903.94.52 and 9903.94.53,” in lieu thereof.

ii. Deleting “Except as provided in headings 9903.94.32, 9903.94.42 and 9903.94.43, no claim for entry” and inserting Except as provided in headings 9903.94.32, 9903.94.42, 9903.94.43, 9903.94.52 and 9903.94.53, no claim for entry” in lieu thereof.

6. U.S. note 33(g) is modified by deleting “9903.94.42, and 9903.94.43” and inserting “9903.94.42, 9903.94.43, 9903.94.52, and 9903.94.53,” in lieu thereof.

7. U.S. note 33(m) is modified by inserting the following in lieu thereof: “As provided in headings 9903.94.40-9903.94.43 and headings 9903.94.50-9903.94.53 for any good of Japan or the European Union subject to a specific or compound rate of duty under column 1-General, the ad valorem equivalent rate of duty of such good shall be determined by dividing the amount of duty payable under column 1-General by the customs value of the good. For example, if a good were subject to a specific duty of 50 cents per kilogram, and one kilogram of the good were entered with a customs value of $10, then the ad valorem equivalent rate of duty would be obtained by dividing 50 cents by $10, yielding 5 percent.”

8. U.S. note 36(a) is amended to insert “9903.94.50-9903.94.53,” after “9903.94.40-9903.94.43,”.

9. Heading 9903.94.01 is modified by deleting the article description and inserting “Except for products described in headings 9903.94.02, 9903.94.03, 9903.94.04, 9903.94.31, 9903.94.40, 9903.94.41, 9903.94.50, and 9903.94.51, passenger vehicles (sedans, sport utility vehicles, crossover utility vehicles, minivans, and cargo vans) and light trucks, as specified in note 33 to this subchapter, as provided for in subdivision (b) of U.S. note 33 to this subchapter ”

10. Heading 9903.94.05 is modified by deleting the article description and inserting “Except for products described in headings 9903.94.06, 9903.94.32, 9903.94.42, 9903.94.43, 9903.94.52 and 9903.94.53, automobile parts, as provided for in subdivision (g) of U.S. note 33 to this subchapter”

11. New headings 9903.94.50, 9903.94.51, 9903.94.52 and 9903.94.53 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.94.50 | Passenger vehicles and light trucks that are products of the European Union as specified in subdivision (n) of U.S. note 33 to this subchapter, with an ad valorem (or ad valorem equivalent as provided for in subdivision (m) of U.S. note 33 to this subchapter) rate of duty under column 1 equal to or greater than 15 percent | The duty provided in the applicable subheading | The duty provided in the applicable subheading | No change.
9903.94.51 | Passenger vehicles and light trucks that are products of the European Union as specified in subdivision (n) of U.S. note 33 to this subchapter, with an ad valorem (or ad valorem equivalent as provided for in subdivision (m) of U.S. note 33 to this subchapter) rate of duty under column 1 less than 15 percent | 15% | 15% | No change.
9903.94.52 | Parts of passenger vehicles and light trucks that are products of the European Union as specified in subdivision (o) of U.S. note 33 to this subchapter, with an ad valorem (or ad valorem equivalent as provided for in subdivision (m) of U.S. note 33 to this subchapter) rate of duty under column 1 equal to or greater than 15 percent | The duty provided in the applicable subheading | The duty provided in the applicable subheading | No change.
9903.94.53 | Parts of passenger vehicles and light trucks that are products of the European Union as specified in subdivision (o) of U.S. note 33 to this subchapter, with an ad valorem (or ad valorem equivalent as provided for in subdivision (m) of U.S. note 33 to this subchapter) rate of duty under column 1 less than 15 percent | 15% | 15% | No change.”

B. Effective with respect to goods entered for consumption, or withdrawn from warehouse for consumption, on or after 12:01 a.m. eastern daylight time on September 1, 2025, subchapter III of chapter 99 of the Harmonized Tariff Schedule of the United States (HTSUS) is modified as follows:

1. Heading 9903.01.25 is modified by deleting the article description and inserting “Articles the product of any country, except for products described in headings 9903.01.26-9903.01.33, 9903.02.02-9903.02.77, 9903.96.01, and 9903.96.02, and except as provided for in headings 9903.01.34 and 9903.02.01, as provided for in subdivision (v) of U.S. note 2 to this subchapter” in lieu thereof;

2. Headings 9903.02.19 and 9903.02.20 are modified by deleting “except for products described in headings 9903.01.30-9903.01.33” in the article description and inserting “except for products described in headings 9903.01.30-9903.01.33 and 9903.02.74-9903.02.77” in lieu thereof;

3. New headings 9903.02.74, 9903.02.75, 9903.02.76, and 9903.02.77 shall be inserted in numerical sequence, with the material in the new heading inserted in the columns of the HTSUS labeled “Heading/Subheading”, “Article Description”, “Rates of Duty 1—General”, “Rates of Duty 1—Special”, and “Rates of Duty 2”, respectively:

Heading/ subheading | Article description | Rates of duty: 1: General | Rates of duty: 1: Special | Rates of duty: 2
“9903.02.74 | Articles the product of the European Union, as provided for in subdivision (v)(xvi) of U.S. note 2 to this subchapter | The duty provided in the applicable subheading | The duty provided in the applicable subheading | The duty provided in the applicable subheading.
9903.02.75 | Articles the product of the European Union, as provided for in subdivision (v)(xvii) of U.S. note 2 to this subchapter | The duty provided in the applicable subheading | The duty provided in the applicable subheading | The duty provided in the applicable subheading.
9903.02.76 | Articles of civil aircraft (all aircraft other than military aircraft); their engines, parts, and components; their other parts, components, and subassemblies; and ground flight simulators and their parts and components of the European Union, excluding unmanned aircraft, provided for in subdivision (v)(xviii) of U.S. note 2 to this subchapter | The duty provided in the applicable subheading | The duty provided in the applicable subheading | The duty provided in the applicable subheading.
9903.02.77 | Articles the product of the European Union that are non-patented articles for use in pharmaceutical applications, provided for in subdivision (v)(xix) of U.S. note 2 to this subchapter | The duty provided in the applicable subheading | The duty provided in the applicable subheading | The duty provided in the applicable subheading”.

4. Subdivision (v) of U.S. note 2 to subchapter III of chapter 99 of the HTSUS shall be amended by:

i. Deleting “Except as provided in headings 9903.01.26-9903.01.33, in heading 9903.01.34, in heading 9903.96.01 and 9903.96.02” in subdivision (v)(i) and inserting “Except as provided in headings 9903.01.26-9903.01.33, in heading 9903.01.34, in headings 9903.96.01 and 9903.96.02, and in headings 9903.02.74-9903.02.77” in lieu thereof;

ii. Deleting “subdivisions (v)(ii) through (v)(xiii)” in subdivision (v)(i) each place that it appears and inserting “subdivisions (v)(ii) through (v)(xix)” in lieu thereof; and

iii. Inserting the following new subdivisions in numerical sequence at the end of subdivision (v) of U.S. note 2:

“(xvi) As provided in heading 9903.02.74, the additional duties imposed by headings 9903.02.19 and 9903.02.20 shall not apply to articles the product of the European Union that are classifiable in the following provisions of the HTSUS:

0711.90.30 | 2818.20.00 | 4503.10.40 | 7202.91.00
0810.50.00 | 2820.10.00 | 4503.10.60 | 7202.93.40
0904.22.20 | 2821.10.00 | 4503.90.20 | 7202.93.80
0910.20.00 | 2821.20.00 | 4503.90.40 | 7204.21.00
2504.10.10 | 2822.00.00 | 4503.90.60 | 7205.10.00
2504.10.50 | 2823.00.00 | 4504.10.10 | 7501.10.00
2504.90.00 | 2825.40.00 | 4504.10.20 | 7502.10.00
2511.10.10 | 2825.60.00 | 4504.10.30 | 7502.20.00
2511.10.50 | 2825.80.00 | 4504.10.40 | 7503.00.00
2519.10.00 | 2825.90.15 | 4504.10.45 | 7504.00.00
2519.90.10 | 2825.90.30 | 4504.10.47 | 7901.11.00
2519.90.20 | 2825.90.90 | 4504.10.50 | 7901.12.10
2524.90.00 | 2826.12.00 | 4504.90.00 | 7901.12.50
2529.21.00 | 2826.30.00 | 5004.00.00 | 7901.20.00
2529.22.00 | 2826.90.90 | 5005.00.00 | 7902.00.00
2530.20.10 | 2827.31.00 | 5006.00.10 | 7903.90.30
2530.20.20 | 2827.39.45 | 5006.00.90 | 8001.10.00
2530.90.10 | 2827.39.60 | 5007.10.30 | 8001.20.00
2530.90.20 | 2827.59.51 | 5007.10.60 | 8002.00.00
2530.90.80 | 2833.24.00 | 5007.20.00 | 8101.10.00
2602.00.00 | 2833.27.00 | 5007.90.30 | 8101.97.00
2604.00.00 | 2833.29.10 | 7101.10.30 | 8103.20.00
2605.00.00 | 2833.29.45 | 7101.10.60 | 8103.30.00
2606.00.00 | 2833.29.51 | 7102.10.00 | 8103.91.00
2608.00.00 | 2834.21.00 | 7102.31.00 | 8104.11.00
2609.00.00 | 2834.29.20 | 7102.39.00 | 8104.19.00
2610.00.00 | 2834.29.51 | 7103.10.20 | 8104.20.00
2611.00.30 | 2836.60.00 | 7103.10.40 | 8104.30.00
2611.00.60 | 2836.91.00 | 7103.91.00 | 8104.90.00
2612.20.00 | 2836.92.00 | 7103.99.10 | 8105.20.30
2613.90.00 | 2836.99.10 | 7103.99.50 | 8105.20.60
2614.00.30 | 2836.99.50 | 7110.11.00 | 8105.20.90
2614.00.60 | 2841.80.00 | 7110.19.00 | 8105.30.00
2615.90.30 | 2841.90.20 | 7110.21.00 | 8106.10.00
2615.90.60 | 2846.10.00 | 7110.29.00 | 8106.90.00
2616.10.00 | 2846.90.80 | 7110.31.00 | 8108.20.00
2617.10.00 | 2849.20.10 | 7110.39.00 | 8108.30.00
2620.99.50 | 2849.20.20 | 7110.41.00 | 8110.10.00
2801.20.00 | 2849.90.30 | 7110.49.00 | 8110.20.00
2804.80.00 | 3104.20.00 | 7112.92.01 | 8110.90.00
2804.90.00 | 3104.30.00 | 7118.90.00 | 8111.00.47
2805.19.10 | 3104.90.01 | 7201.10.00 | 8111.00.49
2805.19.90 | 3206.11.00 | 7201.20.00 | 8112.21.00
2805.30.00 | 3206.19.00 | 7201.50.30 | 8112.22.00
2811.11.00 | 3606.90.30 | 7202.11.10 | 8112.41.10
2811.19.10 | 3823.11.00 | 7202.11.50 | 8112.41.50
2811.29.10 | 3823.12.00 | 7202.19.10 | 8112.92.07
2811.29.20 | 3823.19.20 | 7202.19.50 | 8112.92.10
2813.90.10 | 3823.70.40 | 7202.30.00 | 8112.92.30
2816.10.00 | 4501.10.00 | 7202.41.00 | 8112.92.40
2816.40.10 | 4501.90.20 | 7202.49.10 | 8112.92.60
2816.40.20 | 4501.90.40 | 7202.49.50 | 8112.92.65
2817.00.00 | 4502.00.00 | 7202.50.00 | 8112.99.10
2818.10.10 | 4503.10.20 | 7202.60.00 | 8112.99.91
2818.10.20 | 4503.10.30 | 7202.80.00

(xvii) As provided in heading 9903.02.75, the additional duties imposed by headings 9903.02.19 and 9903.02.20 shall not apply to the following particular articles the product of the European Union:

(1) Essential oils other than those of citrus fruit, other, nesoi, for religious purposes only (classifiable in subheading 3301.29.51)

(xviii) As provided in heading 9903.02.76, the additional duties imposed by headings 9903.02.19, 9903.02.20, 9903.78.01, 9903.81.87, 9903.81.88, 9903.81.89, 9903.81.90, 9903.81.91, 9903.81.93, 9903.85.02, 9903.85.04, 9903.85.07, and 9903.85.08, shall not apply to articles the product of the European Union that are civil aircraft (all aircraft other than military aircraft and unmanned aircraft); their engines, parts, and components; their other parts, components, and subassemblies; and ground flight simulators and their parts and components, that otherwise meet the criteria of General Note 6 of HTSUS, and are classifiable in the following provisions of the HTSUS, but regardless of whether a product is entered under a provision for which the rate of duty “Free (C)” appears in the “Special” sub-column:

3917.21.00 | 8411.21.40 | 8479.90.41 | 8518.29.80 | 9014.20.40
3917.22.00 | 8411.21.80 | 8479.90.45 | 8518.30.10 | 9014.20.60
3917.23.00 | 8411.22.40 | 8479.90.55 | 8518.30.20 | 9014.20.80
3917.29.00 | 8411.22.80 | 8479.90.65 | 8518.40.10 | 9014.90.10
3917.31.00 | 8411.81.40 | 8479.90.75 | 8518.40.20 | 9014.90.20
3917.33.00 | 8411.82.40 | 8479.90.85 | 8518.50.00 | 9014.90.40
3917.39.00 | 8411.91.10 | 8479.90.95 | 8519.81.10 | 9014.90.60
3917.40.00 | 8411.91.90 | 8483.10.10 | 8519.81.20 | 9020.00.40
3926.90.45 | 8411.99.10 | 8483.10.30 | 8519.81.25 | 9020.00.60
3926.90.94 | 8411.99.90 | 8483.10.50 | 8519.81.30 | 9025.11.20
3926.90.96 | 8412.10.00 | 8483.30.40 | 8519.81.41 | 9025.11.40
3926.90.99 | 8412.21.00 | 8483.30.80 | 8519.89.10 | 9025.19.40
4008.29.20 | 8412.29.40 | 8483.40.10 | 8519.89.20 | 9025.19.80
4009.12.00 | 8412.29.80 | 8483.40.30 | 8519.89.30 | 9025.80.10
4009.22.00 | 8412.31.00 | 8483.40.50 | 8521.10.30 | 9025.80.15
4009.32.00 | 8412.39.00 | 8483.40.70 | 8521.10.60 | 9025.80.20
4009.42.00 | 8412.80.10 | 8483.40.80 | 8521.10.90 | 9025.80.35
4011.30.00 | 8412.80.90 | 8483.40.90 | 8522.90.25 | 9025.80.40
4012.13.00 | 8412.90.90 | 8483.50.40 | 8522.90.36 | 9025.80.50
4012.20.10 | 8413.19.00 | 8483.50.60 | 8522.90.45 | 9025.90.06
4016.10.00 | 8413.20.00 | 8483.50.90 | 8522.90.58 | 9026.10.20
4016.93.50 | 8413.30.10 | 8483.60.40 | 8522.90.65 | 9026.10.40
4016.99.35 | 8413.30.90 | 8483.60.80 | 8522.90.80 | 9026.10.60
4016.99.60 | 8413.50.00 | 8483.90.10 | 8526.10.00 | 9026.20.40
4017.00.00 | 8413.60.00 | 8483.90.20 | 8526.91.00 | 9026.20.80
4823.90.10 | 8413.70.10 | 8483.90.30 | 8526.92.10 | 9026.80.20
4823.90.20 | 8413.70.20 | 8483.90.50 | 8526.92.50 | 9026.80.40
4823.90.31 | 8413.81.00 | 8483.90.80 | 8528.42.00 | 9026.80.60
4823.90.40 | 8413.91.10 | 8484.10.00 | 8528.52.00 | 9026.90.20
4823.90.50 | 8413.91.20 | 8484.90.00 | 8528.62.00 | 9026.90.40
4823.90.60 | 8413.91.90 | 8501.20.50 | 8529.10.21 | 9026.90.60
4823.90.67 | 8414.10.00 | 8501.20.60 | 8529.10.40 | 9029.10.80
4823.90.70 | 8414.20.00 | 8501.31.50 | 8529.10.91 | 9029.20.40
4823.90.80 | 8414.30.40 | 8501.31.60 | 8529.90.04 | 9029.90.80
4823.90.86 | 8414.30.80 | 8501.31.81 | 8529.90.05 | 9030.10.00
6812.80.90 | 8414.51.30 | 8501.32.20 | 8529.90.06 | 9030.20.05
6812.99.10 | 8414.51.90 | 8501.32.55 | 8529.90.09 | 9030.20.10
6812.99.20 | 8414.59.30 | 8501.32.61 | 8529.90.13 | 9030.31.00
6812.99.90 | 8414.59.65 | 8501.33.20 | 8529.90.16 | 9030.32.00
6813.20.00 | 8414.80.05 | 8501.33.30 | 8529.90.19 | 9030.33.34
6813.81.00 | 8414.80.16 | 8501.33.61 | 8529.90.21 | 9030.33.38
6813.89.00 | 8414.80.20 | 8501.34.61 | 8529.90.24 | 9030.39.01
7007.21.11 | 8414.80.90 | 8501.40.50 | 8529.90.29 | 9030.40.00
7304.31.30 | 8414.90.10 | 8501.40.60 | 8529.90.33 | 9030.84.00
7304.31.60 | 8414.90.30 | 8501.51.50 | 8529.90.36 | 9030.89.01
7304.39.00 | 8414.90.41 | 8501.51.60 | 8529.90.39 | 9030.90.25
7304.41.30 | 8414.90.91 | 8501.52.40 | 8529.90.43 | 9030.90.46
7304.41.60 | 8415.10.60 | 8501.52.80 | 8529.90.46 | 9030.90.66
7304.49.00 | 8415.10.90 | 8501.53.40 | 8529.90.49 | 9030.90.68
7304.51.10 | 8415.81.01 | 8501.53.60 | 8529.90.55 | 9030.90.84
7304.51.50 | 8415.82.01 | 8501.61.01 | 8529.90.63 | 9030.90.89
7304.59.10 | 8415.83.00 | 8501.62.01 | 8529.90.68 | 9031.80.40
7304.59.20 | 8415.90.40 | 8501.63.01 | 8529.90.73 | 9031.80.80
7304.59.60 | 8415.90.80 | 8501.71.00 | 8529.90.77 | 9031.90.21
7304.59.80 | 8418.10.00 | 8501.72.10 | 8529.90.78 | 9031.90.45
7304.90.10 | 8418.30.00 | 8501.72.20 | 8529.90.81 | 9031.90.54
7304.90.30 | 8418.40.00 | 8501.72.30 | 8529.90.83 | 9031.90.59
7304.90.50 | 8418.61.01 | 8501.72.90 | 8529.90.87 | 9031.90.70
7304.90.70 | 8418.69.01 | 8501.80.10 | 8529.90.88 | 9031.90.91
7306.30.10 | 8419.50.10 | 8501.80.20 | 8529.90.89 | 9032.10.00
7306.30.30 | 8419.50.50 | 8501.80.30 | 8529.90.93 | 9032.20.00
7306.30.50 | 8419.81.50 | 8502.11.00 | 8529.90.95 | 9032.81.00
7306.40.10 | 8419.81.90 | 8502.12.00 | 8529.90.97 | 9032.89.20
7306.40.50 | 8419.90.10 | 8502.13.00 | 8529.90.98 | 9032.89.40
7306.50.10 | 8419.90.20 | 8502.20.00 | 8531.10.00 | 9032.89.60
7306.50.30 | 8419.90.30 | 8502.31.00 | 8531.20.00 | 9032.90.21
7306.50.50 | 8419.90.50 | 8502.39.00 | 8531.80.15 | 9032.90.41
7306.61.10 | 8419.90.85 | 8502.40.00 | 8531.80.90 | 9032.90.61
7306.61.30 | 8421.19.00 | 8504.10.00 | 8536.70.00 | 9033.00.90
7306.61.50 | 8421.21.00 | 8504.31.20 | 8539.10.00 | 9104.00.05
7306.61.70 | 8421.23.00 | 8504.31.40 | 8539.51.00 | 9104.00.10
7306.69.10 | 8421.29.00 | 8504.31.60 | 8543.70.42 | 9104.00.20
7306.69.30 | 8421.31.00 | 8504.32.00 | 8543.70.45 | 9104.00.25
7306.69.50 | 8421.32.00 | 8504.33.00 | 8543.70.60 | 9104.00.30
7306.69.70 | 8421.39.01 | 8504.40.40 | 8543.70.80 | 9104.00.40
7312.10.05 | 8424.10.00 | 8504.40.60 | 8543.70.91 | 9104.00.45
7312.10.10 | 8425.11.00 | 8504.40.70 | 8543.70.95 | 9104.00.50
7312.10.20 | 8425.19.00 | 8504.40.85 | 8543.90.12 | 9104.00.60
7312.10.30 | 8425.31.01 | 8504.40.95 | 8543.90.15 | 9109.10.50
7312.10.50 | 8425.39.01 | 8504.50.40 | 8543.90.35 | 9109.10.60
7312.10.60 | 8425.42.00 | 8504.50.80 | 8543.90.65 | 9109.90.20
7312.10.70 | 8425.49.00 | 8507.10.00 | 8543.90.68 | 9401.10.40
7312.10.80 | 8426.99.00 | 8507.20.80 | 8543.90.85 | 9401.10.80
7312.10.90 | 8428.10.00 | 8507.30.80 | 8543.90.88 | 9403.20.00
7312.90.00 | 8428.20.00 | 8507.50.00 | 8544.30.00 | 9403.70.40
7322.90.00 | 8428.33.00 | 8507.60.00 | 8801.00.00 | 9403.70.80
7324.10.00 | 8428.39.00 | 8507.80.82 | 8802.11.01 | 9405.11.40
7324.90.00 | 8428.90.03 | 8507.90.40 | 8802.12.01 | 9405.11.60
7326.20.00 | 8443.31.00 | 8507.90.80 | 8802.20.01 | 9405.11.80
7413.00.90 | 8443.32.10 | 8511.10.00 | 8802.30.01 | 9405.19.40
7608.10.00 | 8443.32.50 | 8511.20.00 | 8802.40.01 | 9405.19.60
7608.20.00 | 8471.41.01 | 8511.30.00 | 8805.29.00 | 9405.19.80
8108.90.60 | 8471.49.00 | 8511.40.00 | 8807.10.00 | 9405.61.20
8302.10.60 | 8471.50.01 | 8511.50.00 | 8807.20.00 | 9405.61.40
8302.10.90 | 8471.60.10 | 8511.80.20 | 8807.30.00 | 9405.61.60
8302.20.00 | 8471.60.20 | 8511.80.40 | 8807.90.90 | 9405.69.20
8302.42.30 | 8471.60.70 | 8511.80.60 | 9001.90.40 | 9405.69.40
8302.42.60 | 8471.60.80 | 8514.20.40 | 9001.90.50 | 9405.69.60
8302.49.40 | 8471.60.90 | 8516.80.40 | 9001.90.60 | 9405.92.00
8302.49.60 | 8471.70.10 | 8516.80.80 | 9001.90.80 | 9405.99.20
8302.49.80 | 8471.70.20 | 8517.13.00 | 9001.90.90 | 9405.99.40
8302.60.30 | 8471.70.30 | 8517.14.00 | 9002.90.20 | 9620.00.50
8307.10.30 | 8471.70.40 | 8517.61.00 | 9002.90.40 | 9620.00.60
8307.90.30 | 8471.70.50 | 8517.62.00 | 9002.90.70 | 9802.00.40
8407.10.00 | 8471.70.60 | 8517.69.00 | 9002.90.85 | 9802.00.50
8408.90.90 | 8471.70.90 | 8517.71.00 | 9002.90.95 | 9802.00.60
8409.10.00 | 8479.89.10 | 8518.10.40 | 9014.10.10 | 9802.00.80
8411.11.40 | 8479.89.20 | 8518.10.80 | 9014.10.60 | 9818.00.05
8411.11.80 | 8479.89.65 | 8518.21.00 | 9014.10.70 | 9818.00.07
8411.12.40 | 8479.89.70 | 8518.22.00 | 9014.10.90
8411.12.80 | 8479.89.95 | 8518.29.40 | 9014.20.20

(xix) As provided in heading 9903.02.77, the additional duties imposed by headings 9903.02.19 and 9903.02.20 shall not apply to articles the product of the European Union that are not patented in the United States for use in pharmaceutical applications, and are classifiable in the following provisions of the HTSUS, but regardless of whether a product is entered under a provision for which the rate of duty “Free (K)” appears in the “Special” sub-column:

2804.10.00 | 2910.90.20 | 2922.29.08 | 2933.29.10 | 2939.19.50
2804.29.00 | 2910.90.91 | 2922.29.10 | 2933.29.20 | 2939.20.00
2804.30.00 | 2911.00.10 | 2922.29.13 | 2933.29.35 | 2939.30.00
2804.50.00 | 2911.00.50 | 2922.29.15 | 2933.29.43 | 2939.41.00
2805.19.20 | 2912.19.50 | 2922.29.20 | 2933.29.45 | 2939.42.00
2806.10.00 | 2912.29.60 | 2922.29.26 | 2933.29.60 | 2939.43.00
2807.00.00 | 2912.49.26 | 2922.29.27 | 2933.29.90 | 2939.44.00
2809.20.00 | 2912.60.00 | 2922.29.29 | 2933.31.00 | 2939.45.00
2811.12.00 | 2914.11.10 | 2922.29.61 | 2933.33.01 | 2939.49.03
2811.22.50 | 2914.19.00 | 2922.29.81 | 2933.34.00 | 2939.51.00
2812.12.00 | 2914.29.30 | 2922.31.00 | 2933.35.00 | 2939.59.00
2812.19.00 | 2914.29.50 | 2922.39.05 | 2933.36.00 | 2939.61.00
2814.10.00 | 2914.39.90 | 2922.39.10 | 2933.37.00 | 2939.62.00
2814.20.00 | 2914.40.40 | 2922.39.14 | 2933.39.08 | 2939.63.00
2815.11.00 | 2914.40.90 | 2922.39.17 | 2933.39.10 | 2939.69.00
2815.12.00 | 2914.50.10 | 2922.39.25 | 2933.39.20 | 2939.72.00
2815.20.00 | 2914.50.30 | 2922.39.45 | 2933.39.21 | 2939.79.00
2815.30.00 | 2914.50.50 | 2922.39.50 | 2933.39.23 | 2939.80.00
2825.10.00 | 2914.62.00 | 2922.41.00 | 2933.39.25 | 2940.00.60
2825.20.00 | 2914.69.21 | 2922.42.10 | 2933.39.27 | 2941.10.10
2827.39.65 | 2914.69.90 | 2922.42.50 | 2933.39.31 | 2941.10.20
2827.39.90 | 2914.71.00 | 2922.43.10 | 2933.39.41 | 2941.10.30
2827.60.20 | 2914.79.10 | 2922.43.50 | 2933.39.61 | 2941.10.50
2827.60.51 | 2914.79.40 | 2922.44.00 | 2933.39.92 | 2941.20.50
2832.10.00 | 2914.79.60 | 2922.49.05 | 2933.41.00 | 2941.30.00
2832.30.10 | 2914.79.90 | 2922.49.10 | 2933.49.20 | 2941.40.00
2833.11.50 | 2915.21.00 | 2922.49.26 | 2933.49.26 | 2941.50.00
2833.19.00 | 2915.24.00 | 2922.49.30 | 2933.49.60 | 2941.90.10
2833.21.00 | 2915.29.30 | 2922.49.37 | 2933.49.70 | 2941.90.30
2833.22.00 | 2915.29.50 | 2922.49.43 | 2933.53.00 | 2941.90.50
2834.10.10 | 2915.32.00 | 2922.49.49 | 2933.54.00 | 2942.00.03
2835.22.00 | 2915.36.00 | 2922.49.60 | 2933.55.00 | 2942.00.05
2835.24.00 | 2915.39.10 | 2922.49.80 | 2933.59.10 | 2942.00.10
2836.20.00 | 2915.39.31 | 2922.50.07 | 2933.59.15 | 2942.00.35
2836.30.00 | 2915.39.35 | 2922.50.10 | 2933.59.18 | 2942.00.50
2836.40.20 | 2915.39.40 | 2922.50.11 | 2933.59.21 | 3001.20.00
2837.20.51 | 2915.39.45 | 2922.50.13 | 2933.59.22 | 3001.90.01
2841.90.40 | 2915.39.47 | 2922.50.14 | 2933.59.36 | 3002.12.00
2842.10.00 | 2915.39.70 | 2922.50.17 | 2933.59.46 | 3002.13.00
2842.90.90 | 2915.39.90 | 2922.50.19 | 2933.59.53 | 3002.14.00
2843.29.01 | 2915.40.10 | 2922.50.25 | 2933.59.59 | 3002.15.00
2843.30.00 | 2915.40.20 | 2922.50.35 | 2933.59.70 | 3002.41.00
2843.90.00 | 2915.40.30 | 2922.50.40 | 2933.59.80 | 3002.42.00
2844.41.00 | 2915.40.50 | 2922.50.50 | 2933.59.85 | 3002.49.00
2844.42.00 | 2915.50.20 | 2923.10.00 | 2933.59.95 | 3002.51.00
2844.43.00 | 2915.90.10 | 2923.20.10 | 2933.69.50 | 3002.59.00
2844.44.00 | 2915.90.14 | 2923.20.20 | 2933.69.60 | 3002.90.10
2845.20.00 | 2915.90.18 | 2923.30.00 | 2933.72.00 | 3002.90.52
2845.30.00 | 2915.90.20 | 2923.40.00 | 2933.79.04 | 3003.10.00
2845.90.01 | 2915.90.50 | 2923.90.01 | 2933.79.08 | 3003.20.00
2846.90.20 | 2916.16.00 | 2924.11.00 | 2933.79.15 | 3003.31.00
2846.90.40 | 2916.19.30 | 2924.12.00 | 2933.79.20 | 3003.39.10
2847.00.00 | 2916.19.50 | 2924.19.11 | 2933.79.30 | 3003.39.50
2850.00.50 | 2916.20.50 | 2924.19.80 | 2933.79.40 | 3003.41.00
2853.10.00 | 2916.31.30 | 2924.21.16 | 2933.79.85 | 3003.42.00
2853.90.10 | 2916.31.50 | 2924.21.20 | 2933.91.00 | 3003.43.00
2853.90.50 | 2916.39.15 | 2924.21.45 | 2933.99.01 | 3003.49.00
2853.90.90 | 2916.39.17 | 2924.21.50 | 2933.99.02 | 3003.60.00
2901.10.40 | 2916.39.46 | 2924.23.70 | 2933.99.05 | 3003.90.01
2902.19.00 | 2916.39.79 | 2924.23.75 | 2933.99.06 | 3004.10.10
2902.90.30 | 2917.13.00 | 2924.24.00 | 2933.99.08 | 3004.10.50
2903.12.00 | 2917.19.10 | 2924.25.00 | 2933.99.11 | 3004.20.00
2903.13.00 | 2917.19.15 | 2924.29.01 | 2933.99.12 | 3004.31.00
2903.22.00 | 2917.19.17 | 2924.29.03 | 2933.99.14 | 3004.32.00
2903.41.10 | 2917.19.20 | 2924.29.05 | 2933.99.16 | 3004.39.00
2903.42.10 | 2917.19.23 | 2924.29.10 | 2933.99.17 | 3004.41.00
2903.43.10 | 2917.19.27 | 2924.29.23 | 2933.99.22 | 3004.42.00
2903.44.10 | 2917.19.30 | 2924.29.26 | 2933.99.24 | 3004.43.00
2903.45.10 | 2917.19.35 | 2924.29.28 | 2933.99.26 | 3004.49.00
2903.46.10 | 2917.19.40 | 2924.29.33 | 2933.99.42 | 3004.50.10
2903.47.10 | 2917.19.70 | 2924.29.57 | 2933.99.46 | 3004.50.20
2903.48.00 | 2917.20.00 | 2924.29.62 | 2933.99.51 | 3004.50.30
2903.49.00 | 2917.34.01 | 2924.29.65 | 2933.99.53 | 3004.50.40
2903.51.10 | 2917.37.00 | 2924.29.71 | 2933.99.55 | 3004.50.50
2903.59.10 | 2917.39.30 | 2924.29.77 | 2933.99.58 | 3004.60.00
2903.59.90 | 2918.11.51 | 2924.29.80 | 2933.99.61 | 3004.90.10
2903.69.10 | 2918.12.00 | 2924.29.95 | 2933.99.65 | 3004.90.92
2903.69.90 | 2918.13.50 | 2925.12.00 | 2933.99.70 | 3006.30.10
2903.71.01 | 2918.14.00 | 2925.19.42 | 2933.99.75 | 3006.30.50
2903.77.00 | 2918.16.50 | 2925.19.91 | 2933.99.79 | 3006.60.00
2903.78.00 | 2918.18.00 | 2925.21.00 | 2933.99.82 | 3006.70.00
2903.79.90 | 2918.19.15 | 2925.29.10 | 2933.99.85 | 3006.92.00
2903.81.00 | 2918.19.20 | 2925.29.18 | 2933.99.89 | 3006.93.10
2903.89.15 | 2918.19.31 | 2925.29.20 | 2933.99.90 | 3006.93.20
2903.89.20 | 2918.19.60 | 2925.29.60 | 2933.99.97 | 3006.93.50
2903.89.70 | 2918.19.90 | 2925.29.70 | 2934.10.10 | 3006.93.60
2903.92.00 | 2918.21.10 | 2925.29.90 | 2934.10.20 | 3006.93.80
2903.93.00 | 2918.22.10 | 2926.30.10 | 2934.10.70 | 3203.00.80
2903.94.00 | 2918.22.50 | 2926.40.00 | 2934.10.90 | 3204.13.60
2903.99.20 | 2918.23.10 | 2926.90.14 | 2934.20.40 | 3204.13.80
2903.99.80 | 2918.23.30 | 2926.90.43 | 2934.20.80 | 3204.18.00
2904.10.32 | 2918.23.50 | 2926.90.48 | 2934.30.18 | 3204.90.00
2904.10.50 | 2918.29.20 | 2926.90.50 | 2934.30.23 | 3401.30.10
2904.20.10 | 2918.29.22 | 2927.00.40 | 2934.30.27 | 3402.42.10
2904.20.15 | 2918.29.65 | 2927.00.50 | 2934.30.43 | 3402.42.20
2904.20.20 | 2918.29.75 | 2928.00.10 | 2934.30.50 | 3402.42.90
2904.20.30 | 2918.30.10 | 2928.00.15 | 2934.91.00 | 3402.50.11
2904.20.35 | 2918.30.15 | 2928.00.25 | 2934.92.00 | 3507.90.70
2904.20.40 | 2918.30.25 | 2928.00.30 | 2934.99.01 | 3802.10.00
2904.20.45 | 2918.30.30 | 2928.00.50 | 2934.99.03 | 3808.59.40
2904.20.50 | 2918.30.70 | 2929.90.05 | 2934.99.05 | 3808.59.50
2904.99.04 | 2918.30.90 | 2929.90.15 | 2934.99.06 | 3808.61.50
2904.99.08 | 2918.99.05 | 2929.90.20 | 2934.99.07 | 3808.94.10
2904.99.15 | 2918.99.30 | 2929.90.50 | 2934.99.08 | 3808.94.50
2904.99.20 | 2918.99.43 | 2930.10.01 | 2934.99.09 | 3812.31.00
2904.99.30 | 2918.99.47 | 2930.20.20 | 2934.99.11 | 3815.11.00
2904.99.35 | 2918.99.50 | 2930.20.90 | 2934.99.12 | 3815.12.00
2904.99.40 | 2919.10.00 | 2930.30.60 | 2934.99.15 | 3815.90.50
2904.99.47 | 2919.90.30 | 2930.40.00 | 2934.99.16 | 3824.81.00
2904.99.50 | 2919.90.50 | 2930.60.00 | 2934.99.18 | 3824.82.10
2905.11.20 | 2920.19.40 | 2930.70.00 | 2934.99.20 | 3824.82.90
2905.12.00 | 2920.19.50 | 2930.90.29 | 2934.99.30 | 3824.83.00
2905.13.00 | 2920.21.00 | 2930.90.49 | 2934.99.39 | 3824.84.00
2905.19.10 | 2920.22.00 | 2930.90.92 | 2934.99.44 | 3824.85.00
2905.19.90 | 2920.23.00 | 2931.41.00 | 2934.99.47 | 3824.86.00
2905.22.10 | 2920.24.00 | 2931.42.00 | 2934.99.70 | 3824.87.00
2905.22.20 | 2920.29.00 | 2931.43.00 | 2934.99.90 | 3824.88.00
2905.22.50 | 2920.30.00 | 2931.44.00 | 2935.90.06 | 3824.89.00
2905.29.90 | 2920.90.20 | 2931.45.00 | 2935.90.29 | 3824.91.00
2905.31.00 | 2920.90.51 | 2931.46.00 | 2935.90.30 | 3824.92.00
2905.32.00 | 2921.11.00 | 2931.47.00 | 2935.90.32 | 3824.99.25
2905.39.90 | 2921.14.00 | 2931.48.00 | 2935.90.33 | 3824.99.29
2905.49.20 | 2921.19.11 | 2931.49.00 | 2935.90.42 | 3824.99.49
2905.49.50 | 2921.19.61 | 2931.51.00 | 2935.90.48 | 3824.99.50
2905.51.00 | 2921.29.00 | 2931.52.00 | 2935.90.60 | 3824.99.55
2905.59.10 | 2921.30.10 | 2931.53.00 | 2935.90.75 | 3826.00.30
2905.59.90 | 2921.30.30 | 2931.54.00 | 2935.90.95 | 3827.13.00
2906.11.00 | 2921.30.50 | 2931.59.00 | 2936.21.00 | 3827.14.00
2906.19.50 | 2921.41.10 | 2931.90.22 | 2936.22.00 | 3827.40.00
2906.29.60 | 2921.41.20 | 2931.90.30 | 2936.23.00 | 3901.90.90
2907.11.00 | 2921.42.65 | 2931.90.60 | 2936.24.01 | 3902.90.00
2907.19.10 | 2921.42.90 | 2931.90.90 | 2936.25.00 | 3904.61.00
2907.19.20 | 2921.43.40 | 2932.11.00 | 2936.26.00 | 3905.91.10
2907.19.40 | 2921.45.60 | 2932.14.00 | 2936.27.00 | 3905.91.50
2907.19.80 | 2921.45.90 | 2932.19.10 | 2936.28.00 | 3905.99.80
2907.29.90 | 2921.46.00 | 2932.19.51 | 2936.29.10 | 3906.90.50
2908.19.10 | 2921.49.38 | 2932.20.05 | 2936.29.16 | 3907.10.00
2908.19.35 | 2921.49.43 | 2932.20.20 | 2936.29.20 | 3907.21.00
2908.19.60 | 2921.49.45 | 2932.20.25 | 2936.29.50 | 3907.70.00
2908.99.12 | 2921.49.50 | 2932.20.30 | 2936.90.01 | 3908.10.00
2908.99.15 | 2921.59.40 | 2932.20.45 | 2937.11.00 | 3908.90.20
2908.99.25 | 2921.59.80 | 2932.20.50 | 2937.12.00 | 3909.10.00
2909.11.00 | 2922.11.00 | 2932.95.00 | 2937.19.00 | 3909.40.00
2909.19.18 | 2922.12.00 | 2932.99.04 | 2937.21.00 | 3911.20.00
2909.19.60 | 2922.14.00 | 2932.99.08 | 2937.22.00 | 3911.90.25
2909.20.00 | 2922.15.00 | 2932.99.21 | 2937.23.10 | 3911.90.45
2909.30.40 | 2922.16.00 | 2932.99.32 | 2937.23.25 | 3911.90.91
2909.30.60 | 2922.17.00 | 2932.99.35 | 2937.23.50 | 3912.20.00
2909.49.05 | 2922.18.00 | 2932.99.39 | 2937.29.10 | 3912.31.00
2909.49.10 | 2922.19.09 | 2932.99.55 | 2937.29.90 | 3912.39.00
2909.49.15 | 2922.19.20 | 2932.99.61 | 2937.50.00 | 3912.90.00
2909.49.20 | 2922.19.33 | 2932.99.70 | 2937.90.05 | 3913.90.20
2909.49.60 | 2922.19.60 | 2932.99.90 | 2937.90.10 | 3913.90.50
2909.50.20 | 2922.19.70 | 2933.11.00 | 2937.90.20 | 3914.00.20
2909.50.40 | 2922.19.90 | 2933.19.08 | 2937.90.40 | 3914.00.60
2909.50.45 | 2922.19.96 | 2933.19.35 | 2937.90.45 | 7508.90.50
2909.50.50 | 2922.21.10 | 2933.19.37 | 2937.90.90 | 7907.00.60
2910.10.00 | 2922.21.25 | 2933.19.43 | 2938.10.00 | 8007.00.50
2910.30.00 | 2922.21.40 | 2933.19.45 | 2938.90.00 | 8112.59.00
2910.40.00 | 2922.21.50 | 2933.19.90 | 2939.11.00
2910.50.00 | 2922.29.03 | 2933.21.00 | 2939.19.10
2910.90.10 | 2922.29.06 | 2933.29.05 | 2939.19.20

5. U.S. note 16(i) of the HTSUS is modified by deleting “Except as provided in heading 9903.96.02” and inserting “Except as provided in heading 9903.96.02 and 9903.02.76” in lieu thereof.

6. U.S. note 16(k) to subchapter III of chapter 99 of the HTSUS is modified by deleting “Except as provided in heading 9903.96.02” inserting “Except as provided in heading 9903.96.02 and 9903.02.76” in lieu thereof.

7. U.S. note 19(f) to subchapter III of chapter 99 of the HTSUS is modified by deleting “Except as provided in heading 9903.96.02” and inserting “Except as provided in heading 9903.96.02 and 9903.02.76” in lieu thereof.

8. U.S. note 19(h) is modified by deleting “Except as provided in heading 9903.96.02” and inserting “Except as provided in heading 9903.96.02 and 9903.02.76” in lieu thereof.

9. U.S. note 36(a) is modified by inserting “9903.02.76,” after “Except as provided in headings”.

[FR Doc. 2025-18660 Filed 9-24-25; 8:45 am]

BILLING CODE 3510-DR-P